FEDERAL COMMUNICATIONS COMMISSION

47 CFR Part 1

[MD Docket Nos. 18-175; FCC 18-65]

Assessment and Collection of Regulatory Fees for Fiscal Year 2018

AGENCY: Federal Communications Commission.

ACTION: Notice of proposed rulemaking.

SUMMARY: In this document, the Federal Communications Commission (Commission) will revise its Schedule of Regulatory Fees in order to recover an amount of $322,035,000 that Congress has required the Commission to collect for fiscal year 2018, as amended, provides for the annual assessment and collection of regulatory fees under and respectively, for annual “Mandatory Adjustments” and “Permitted Amendments” to the Schedule of Regulatory Fees.

DATES: Submit comments on or before June 21, 2018, and reply comments on or before July 6, 2018.

ADDRESSES: You may submit comments, identified by MD Docket No. 18-175, by any of the following methods:

• Federal eRulemaking Portal: http://www.regulations.gov. Follow the instructions for submitting comments.

• Federal Communications Commission's website: http://www.fcc.gov/cgb/ecfs. Follow the instructions for submitting comments.

• People With Disabilities: Contact the FCC to request reasonable accommodations (accessible format documents, sign language interpreters, CART, etc.) by email: FCC504@fcc.gov or phone: 202-418-0530 or TTY: 202-418-0432.

• Email: ecfs@fcc.gov. Include MD Docket No. 15-121 in the subject line of the message.

• Mail: Commercial overnight mail (other than U.S. Postal Service Express Mail, and Priority Mail, must be sent to 9300 East Hampton Drive, Capitol Heights, MD 20743. U.S. Postal Service first-class, Express, and Priority mail should be addressed to 445 12th Street SW, Washington, DC 20554.

For detailed instructions for submitting comments and additional information on the rulemaking process, see the SUPPLEMENTARY INFORMATION section of this document.

FOR FURTHER INFORMATION CONTACT: Roland Helvajian, Office of Managing Director at (202) 418-0444.

SUPPLEMENTARY INFORMATION: This is a summary of the Commission's Notice of Proposed Rulemaking (NPRM), FCC 18-65, MD Docket No. 18-175 adopted on May 21, 2018 and released on May 22, 2018. The full text of this document is available for inspection and copying during normal business hours in the FCC Reference Center, 445 12th Street SW, Room CY-A257, Portals II, Washington, DC 20554, and may also be purchased from the Commission's copy contractor, BCPI, Inc., Portals II, 445 12th Street SW, Room CY-B402, Washington, DC 20554. Customers may contact BCPI, Inc. via their website, http://www.bcpi.com, or call 1-800-378-3160. This document is available in alternative formats (computer diskette, large print, audio record, and braille). Persons with disabilities who need documents in these formats may contact the FCC by email: FCC504@fcc.gov or phone: 202-418-0530 or TTY: 202-418-0432.

I. Procedural Matters

A. Ex Parte Rules Permit-But-Disclose Proceeding

1. This Notice of Proposed Rulemaking (FY 2018 NPRM) shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must list all persons attending or otherwise participating in the meeting at which the ex parte presentation was made, and summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b). In proceedings governed by section 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

B. Comment Filing Procedures

2. Comments and Replies. Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail must be addressed to 445 12th Street SW, Washington, DC 20554.

People With Disabilities: To request materials in accessible formats for people with disabilities (braille, large print, electronic files, audio format), send an email to fcc504@fcc.gov or call the Consumer & Governmental Affairs Bureau at 202-418-0530 (voice), 202-418-0432 (tty).

3. Availability of Documents. Comments, reply comments, and ex parte submissions will be available for public inspection during regular business hours in the FCC Reference Center, Federal Communications Commission, 445 12th Street SW, CY-A257, Washington, DC 20554. These documents will also be available free online, via ECFS. Documents will be available electronically in ASCII, Word, and/or Adobe Acrobat.

4. Accessibility Information. To request information in accessible formats (computer diskettes, large print, audio recording, and Braille), send an email to fcc504@fcc.gov or call the Commission's Consumer and Governmental Affairs Bureau at (202) 418-0530 (voice), (202) 418-0432 (TTY). This document can also be downloaded in Word and Portable Document Format (“PDF”) at: http://www.fcc.gov.

C. Initial Regulatory Flexibility Analysis

5. An initial regulatory flexibility analysis (IRFA) is contained in this summary. Comments to the IRFA must be identified as responses to the IRFA and filed by the deadlines for comments on the Notice. The Commission will send a copy of the Notice, including the IRFA, to the Chief Counsel for Advocacy of the Small Business Administration.

D. Initial Paperwork Reduction Act of 1995 Analysis

6. This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

II. Introduction

7. In this Notice of Proposed Rulemaking, we seek comment on the Commission's proposed regulatory fees for fiscal year (FY) 2018. We propose to collect $322,035,000 in regulatory fees for FY 2018, as detailed in the proposed fee schedules attached in Table 2.

III. Background

8. The Commission is required by Congress to assess regulatory fees each year in an amount that can reasonably be expected to equal the amount of its appropriation.¹ Regulatory fees, mandated by Congress, are collected “to recover the costs of . . . enforcement activities, policy and rulemaking activities, user information services, and international activities.” ² Regulatory fees are to “be derived by determining the full-time equivalent number of employees performing” these activities, “adjusted to take into account factors that are reasonably related to the benefits provided to the payer of the fee by the Commission's activities . . . .” ³ Regulatory fees recover direct costs, such as salary and expenses; indirect costs, such as overhead functions; and support costs, such as rent, utilities, and equipment.⁴ Regulatory fees also cover the costs incurred in regulating entities that are statutorily exempt from paying regulatory fees,⁵ entities whose regulatory fees are waived,⁶ and entities providing services for which we do not assess regulatory fees.

¹ 47 U.S.C. 159(b)(1)(B).

² 47 U.S.C. 159(a).

³ 47 U.S.C. 159(b)(1)(A).

⁴ Assessment and Collection of Regulatory Fees for Fiscal Year 2004, Report and Order, 19 FCC Rcd 11662, 11666, para. 11 (2004) (FY 2004 Report and Order).

⁵ For example, governmental and nonprofit entities are exempt from regulatory fees under section 9(h). 47 U.S.C. 159(h); 47 CFR 1.1162.

⁶ 47 CFR 1.1166.

9. Congress sets the amount of regulatory fees the Commission must collect each year in the Commission's fiscal year appropriations. Section 9(a)(2) of the Communications Act of 1934, as amended (Communications Act or Act) requires the Commission to collect fees sufficient to offset the amount appropriated.⁷ To calculate regulatory fees, the Commission allocates the total collection target across all regulatory fee categories. The allocation of fees to fee categories is based on the Commission's calculation of Full Time Employees (FTEs) in each regulatory fee category.⁸ FTEs are classified as “direct” if the employee is in one of the four “core” bureaus; otherwise, that employee is considered an “indirect” FTE.⁹ The total FTEs for each fee category includes the direct FTEs associated with that category, plus a proportional allocation of indirect FTEs.¹⁰ The Commission then allocates the total amount to be collected among the various regulatory fee categories within each of the core bureaus. Each regulatee within a fee category pays its proportionate share based on an objective measure (e.g., revenues or number of subscribers).¹¹ These calculations are illustrated in Table 1. The sources for the unit estimates that are used in these calculations are listed in Table 3.

⁷ 47 U.S.C. 159(a)(2).

⁸ One FTE is a unit of measure equal to the work performed annually by a full time person (working a 40 hour workweek for a full year) assigned to the particular job, and subject to agency personnel staffing limitations established by the U.S. Office of Management and Budget.

⁹ The core bureaus, which have the direct FTEs, are the Wireline Competition Bureau (124), Wireless Telecommunications Bureau (101), Media Bureau (135), and part of the International Bureau (24). The indirect FTEs are the employees from the following bureaus and offices: Enforcement Bureau (203), Consumer & Governmental Affairs Bureau (136), Public Safety and Homeland Security Bureau (104), part of the International Bureau (72), part of the Wireline Competition Bureau (38), Chairman and Commissioners' offices (15), Office of the Managing Director (149), Office of General Counsel (74), Office of the Inspector General (46), Office of Communications Business Opportunities (8), Office of Engineering and Technology (73), Office of Legislative Affairs (9), Office of Strategic Planning and Policy Analysis (15), Office of Workplace Diversity (5), Office of Media Relations (14), and Office of Administrative Law Judges (4).

¹⁰ The Commission observed in the FY 2013 Report and Order that “the high percentage of the indirect FTEs is indicative of the fact that many Commission activities and costs are not limited to a particular fee category and instead benefit the Commission as a whole.” See Assessment and Collection of Regulatory Fees for Fiscal Year 2013, Report and Order, 28 FCC Rcd 12351, 12357, para. 17 (2013) (FY 2013 Report and Order).

¹¹ See Procedures for Assessment and Collection of Regulatory Fees, Notice of Proposed Rulemaking, 27 FCC Rcd 8458, 8461-62, paras. 8-11 (2012) (FY 2012 NPRM).

10. The Commission annually reviews the regulatory fee schedule, proposes changes to the schedule to reflect changes in the amount of its appropriation, and proposes increases or decreases to the schedule of regulatory fees.¹² The Commission will make changes to the regulatory fee schedule “if the Commission determines that the schedule requires amendment to comply with the requirements” ¹³ of section 9(b)(1)(A) of the Act.¹⁴ The Commission may also add, delete, or reclassify services in the fee schedule to reflect additions, deletions, or changes in the nature of its services “as a consequence of Commission rulemaking proceedings or changes in law.” ¹⁵

¹² 47 U.S.C. 159(b)(1)(B).

¹³ 47 U.S.C. 159(b)(2).

¹⁴ 47 U.S.C. 159(b)(1)(A).

¹⁵ 47 U.S.C. 159(b)(3).

11. As part of its annual review, the Commission regularly seeks to improve its regulatory fee analysis.¹⁶ For example, in the FY 2014 Report and Order, the Commission adopted a new regulatory fee subcategory for toll free numbers within the Interstate Telecommunications Service Provider (ITSP) ¹⁷ category ¹⁸ and increased the de minimis threshold from $10 to $500 for annual regulatory fee payors.¹⁹ In the FY 2015 Report and Order, the Commission adopted a regulatory fee for DBS, as a subcategory of the cable television and IPTV fee category,²⁰ and for toll-free numbers,²¹ and reallocated four International Bureau FTEs from direct to indirect.²² In the FY 2016 Report and Order, the Commission adjusted regulatory fees for radio and television broadcasters, based on the type and class of service and on the population served.²³ In the FY 2017 Report and Order, the Commission reallocated as indirect 38 FTEs in the Wireline Competition Bureau assigned to work on non-high cost programs of the Universal Service Fund.²⁴ The Commission also reallocated for regulatory fee purposes, four FTEs assigned to work on numbering issues from the Wireline Competition Bureau to the Wireless Telecommunications Bureau; ²⁵ included non-common carrier terrestrial international bearer circuits (IBCs) in the regulatory fee methodology; ²⁶ and increased the de minimis threshold to $1,000 for annual regulatory fee payors.²⁷ In this proceeding, the Commission again seeks to improve its regulatory fee analysis.

¹⁶ In the FY 2013 Report and Order, the Commission adopted updated FTE allocations to more accurately reflect the number of FTEs working on regulation and oversight of regulatees in the fee categories. FY 2013 Report and Order, 28 FCC Rcd at 12354-58, paras. 10-20. This was recommended in a report issued by the Government Accountability Office (GAO) in 2012. See GAO “Federal Communications Commission Regulatory Fee Process Needs to be Updated,” GAO-12-686 (Aug. 2012) (GAO Report) at 36, http://www.gao.gov/products/GAO-12-686. The Commission has since updated the FTE allocations annually. In addition, the Commission reallocated some FTEs from the International Bureau as indirect; combined the UHF and VHF television stations into one regulatory fee category; and added internet Protocol Television (IPTV) to the cable television regulatory fee category. FY 2013 Report and Order, 28 FCC Rcd at 12355-63, paras. 13-33.

¹⁷ The ITSP category includes interexchange carriers (IXCs), incumbent local exchange carriers, toll resellers, and other IXC service providers.

¹⁸ Assessment and Collection of Regulatory Fees for Fiscal Year 2014, Report and Order and Further Notice of Proposed Rulemaking, 29 FCC Rcd 10767, 10777-79, paras. 25-28 (2014) (FY 2014 Report and Order).

¹⁹ FY 2014 Report and Order, 29 FCC Rcd at 10774-76, paras. 18-21. The Commission also eliminated several categories from the regulatory fee schedule. Id., 29 FCC Rcd at 10776-77, paras. 22-24.

²⁰ Assessment and Collection of Regulatory Fees for Fiscal Year 2015, Report and Order and Further Notice of Proposed Rulemaking, 30 FCC Rcd 10268, 10276-77, paras. 19-20 (2015) (FY 2015 Report and Order).

²¹ FY 2015 Report and Order, 30 FCC Rcd at 10271-72, para. 9.

²² Id., 30 FCC Rcd at 10278, para. 24. The Commission also, in the FY 2015 NPRM and Report and Order, eliminated two fee categories. See Assessment and Collection of Regulatory Fees for Fiscal Year 2015, Notice of Proposed Rulemaking, Report and Order, and Order, 30 FCC Rcd 5354, 5361-62, paras. 19-22 (2015) (FY 2015 NPRM and Report and Order).

²³ Assessment and Collection of Regulatory Fees for Fiscal Year 2016, Report and Order, 31 FCC Rcd 10339, 10350-51, paras. 31-33 (2016) (FY 2016 Report and Order).

²⁴ Assessment and Collection of Regulatory Fees for Fiscal Year 2017, Report and Order and Further Notice of Proposed Rulemaking, 32 FCC Rcd 7057, 7061-7064, paras. 9-15 (2017) (FY 2017 Report and Order).

²⁵ FY 2017 Report and Order, 32 FCC Rcd at 7064-65, paras. 16-17.

²⁶ FY 2017 Report and Order, 32 FCC Rcd at 7071-72, paras. 34-35.

²⁷ Id., 32 FCC Rcd at 7072-74, paras. 38-42.

12. In this Notice of Proposed Rulemaking, we seek comment on regulatory fees for FY 2018, including an incremental increase in the DBS fee rate. We also seek comment on a new methodology for broadcast television regulatory fees for FY 2019, and a tiered rate structure for international bearer circuit fees. The Commission previously sought comment on a proposal for tiers in the Further Notice of Proposed Rulemaking attached to the FY 2017 Report and Order,²⁸ and we seek additional comment on this issue below.

²⁸ Id., 32 FCC Rcd at 7074-75, paras. 44-47. Comments on the Further Notice of Proposed Rulemaking were filed by CTIA, ITTA—the Voice of America's Broadband Providers (ITTA), CenturyLink/Level 3 Communications (CenturyLink), NCTA—the internet & Television Association and the American Cable Association (NCTA & ACA), and the Satellite Industry Association (SIA). Reply Comments were filed by AT&T Services, Inc. (AT&T) and the Submarine Cable Coalition. SIA noted that its comments were supported by all SIA members except AT&T. SIA Comments at 1.

IV. Notice of Proposed Rulemaking

A. Discussion—FY 2018 Regulatory Fees

13. In this FY 2018 NPRM, we seek comment on a regulatory fee schedule for FY 2018, pursuant to section 9 of the Communications Act,²⁹ in order to collect $322,035,000 in regulatory fees. These regulatory fees are mandated by Congress and are collected “to recover the costs of . . . enforcement activities, policy and rulemaking activities, user information services, and international activities.” ³⁰ Of this amount, we project approximately $20.13 million (6.25 percent of the total FTE allocation) in fees from International Bureau regulatees; ³¹ $84.70 million (26.3 percent of the total FTE allocation) in fees from Wireless Telecommunications Bureau regulatees; ³² $103.99 million (32.29 percent of the total FTE allocation) from Wireline Competition Bureau regulatees; ³³ and $113.22 million (35.16 percent of the total FTE allocation) from Media Bureau regulatees.³⁴ These regulatory fees are due in September 2018. We seek comment on the schedule of regulatory fees for FY 2018 in Table 2. For comparison purposes, the FY 2017 regulatory fee rates are listed in Table 5. We discuss and seek comment on several specific issues below.

²⁹ 47 U.S.C. 159.

³⁰ 47 U.S.C. 159(a).

³¹ Includes satellites, earth stations, and international bearer circuits (submarine cable systems and satellite and terrestrial bearer circuits).

³² Includes Commercial Mobile Radio Service (CMRS), CMRS messaging, Broadband Radio Service/Local Multipoint Distribution Service (BRS/LMDS), and multi-year wireless licensees.

³³ Includes ITSP and toll free numbers.

³⁴ Includes AM radio, FM radio, television (including low power and Class A), TV/FM translators and boosters, cable television and IPTV, DBS, and Cable Television Relay Service (CARS) licenses.

1. Direct Broadcast Satellite (DBS) Regulatory Fees

14. DBS service is a nationally distributed subscription service that delivers video and audio programming via satellite to a small parabolic dish antenna at the subscriber's location. The two DBS providers, AT&T and DISH Network, are multichannel video programming distributors (MVPDs).³⁵ The proposed fee schedule in Table 2 includes an updated regulatory fee for DBS, a subcategory in the cable television and IPTV category.³⁶

³⁵ MVPD is defined in section 602(13) of the Act, 47 U.S.C. 522(13).

³⁶ DBS also pays a regulatory fee per operational station in geostationary orbit.

15. In 2015, the Commission adopted an initial regulatory fee for DBS, as a subcategory in the cable television and IPTV category, of 12 cents per year per subscriber, or one cent per month.³⁷ This regulatory fee subcategory was based on Media Bureau FTE activity involving regulation and oversight of all MVPDs, which included DBS providers.³⁸ The Commission concluded there was no reasonable basis to continue to exclude DBS providers from sharing in the cost of MVPD oversight and regulation with cable television and IPTV.³⁹ The Commission also committed to updating the regulatory fee rate as necessary to ensure an appropriate level of regulatory fees due to the Media Bureau resources dedicated to regulation and oversight of MVPDs, including DBS.⁴⁰ Such examination reflected a GAO report, which recommended that the Commission “regularly update analyses to ensure that fees are set based on relevant information.” ⁴¹ In lieu of directly including DBS providers in the cable television/IPTV category, the Commission initially phased in the Media Bureau-based regulatory fee for DBS, starting at 12 cents per subscriber per year. Since then, the Commission has incrementally increased the DBS regulatory fee, bringing it closer to the per-subscriber rate paid by cable television and IPTV.

³⁷ FY 2015 Report and Order, 30 FCC Rcd at 10276-77, paras. 19-20.

³⁸ FY 2015 NPRM, 30 FCC Rcd at 5367-68, para. 31.

³⁹ FY 2015 NPRM, 30 FCC Rcd at 5364-68, paras. 28-31.

⁴⁰ FY 2015 Report and Order, 30 FCC Rcd at 10277, para. 20.

⁴¹ GAO Report at 12, http://www.gao.gov/products/GAO-12-686.

16. Based on our analysis of the cable television/IPTV category, we seek comment on whether Media Bureau resources devoted to MVPD proceedings, including DBS,⁴² support further revising the DBS regulatory fee rate to continue to bring the DBS rate closer to the cable television/IPTV rate, which, for FY 2018, is proposed to be 77 cents per subscriber per year. Specifically, how many FTEs does the Media Bureau devote to DBS as compared to cable? How many FTEs does the Media Bureau devote to DBS as compared to IPTV? Are the regulations imposed on both cable and DBS similar, or does one distributor face a higher regulatory burden? Are the regulations imposed on both IPTV and DBS similar, or does one distributor face a higher regulatory burden? How do such regulations translate to FTEs? In addition to FTEs, the Act requires us to take into account “factors that are reasonably related to the benefits provided to the payor of the fee by the Commission's activities” ⁴³ Do DBS operators benefit more or less from Commission-issued licenses than cable operators and IPTV providers? How does the Commission's long-standing commitment to competitive neutrality impact our rate calculations? Additionally, we have previously incrementally increased the DBS regulatory fee to avoid potential consumer rate shock. Does that concern remain valid?

⁴² See, e.g., Electronic Delivery of MVPD Communications, Modernization of Media Regulations Initiative, Notice of Proposed Rulemaking, 32 FCC Rcd 10755 (2017); Video Description: Implementation of the Twenty-First Century Communications and Video Accessibility Act of 2010, Report and Order, 32 FCC Rcd 5962 (2017); Expanding Consumers' Video Navigation Choices, Commercial Availability of Navigation Devices, Notice of Proposed Rulemaking and Memorandum Opinion and Order, 31 FCC Rcd 1544 (2016); Promoting the Availability of Diverse and Independent Sources of Video Programming, Notice of Inquiry, 31 FCC Rcd 1610 (2016); Expansion of Online Public File Obligations to Cable and Satellite TV Operators and Broadcast and Satellite Radio Licensees, Report and Order, 31 FCC Rcd 526 (2016).

⁴³ 47 CFR 159(b)(1)(A).

17. We seek comment on a DBS regulatory fee rate of 48 cents per subscriber per year, as set forth in the proposed fee schedule in Table 2. We invite comment on whether the proposed rate is appropriate. Ultimately, this will be an increase of ten cents from the FY 2017 DBS rate. Is such an increase justified based on Commission resources allocated to DBS, and the related benefits provided to DBS providers by the Commission's activities? Or is such an increase inappropriate because there is a reasonable basis to differentiate between DBS providers and cable television and IPTV?

2. Broadcast Television Licenses, Post-Incentive Auction

18. On March 29, 2016, the Commission commenced the incentive auction to allow broadcast television stations to make their spectrum available for wireless broadband licensees. On April 13, 2017, the Commission released a Public Notice formally closing the auction,⁴⁴ and beginning the 39-month post-auction transition period during which some broadcast television stations will transition to new channel assignments and other stations will go off the air. Licensees who held a broadcast television station license on October 1, 2017 are reminded that they are responsible for regulatory fees for that license.⁴⁵ Licensees who have relinquished their licenses by September 30, 2017 are not responsible for regulatory fees for the cancelled license.⁴⁶

⁴⁴ Incentive Auction Closing and Channel Reassignment Public Notice, Public Notice, 32 FCC Rcd 2786 (MB, WTB 2017).

⁴⁵ See infra Section V.A.5, entitled “Standard Fee Calculation and Payment Dates.”

⁴⁶ Cancelled licenses from May 31, 2017 through September 30, 2017 are, according to the Commission's records, the following call signs: KSPR, WIFR, WAGT, WDLP-CD, WEMM-CD, KMMA-CD, WAZF-CD, WLPH-CD, WQVC-CD, WQCH-CD, WBOA-CD, WMUN-CD, WTSD-CD, WATA-CD, WHTV, WMEI, WWIS-CD.

3. Terrestrial and Satellite International Bearer Circuits

19. In 2009, the Commission adopted a new methodology for calculating submarine cable international bearer circuits regulatory fees by eliminating the distinction between common carriers and non-common carriers and assessing a flat per cable landing license fee ⁴⁷ for all submarine cable systems, with higher fees for larger submarine cable systems and lower fees for smaller systems.⁴⁸ In the Submarine Cable Order, the Commission adopted a tiered system using gigabits per second (Gbps) increments (instead of 64 kbps).⁴⁹ The Commission did not revise the terrestrial and satellite IBC regulatory fee methodology then because of the “complexity of the legal, policy and equity issues involved.” ⁵⁰

⁴⁷ The prior rule assessed regulatory fees on common carriers based on the number of active circuits. See, e.g., Assessment and Collection of Regulatory Fees for Fiscal Year 1996, Report and Order, 11 FCC Rcd 18774, 18795, para. 58 (1996) (assessing IBC fees on facilities-based common carriers activating a circuit in any transmission facility).

⁴⁸ Assessment and Collection of Regulatory Fees for Fiscal Year 2008, Second Report and Order, 24 FCC Rcd 4208, 4213-16, paras. 9-17 (2009) (Submarine Cable Order).

⁴⁹ Submarine Cable Order, 24 FCC Rcd at 4215-16, para. 16. Sixty-Four Kbps is the unit of measurement for voice grade circuits; submarine cable, terrestrial, and satellite international bearer circuits are now largely used for data.

⁵⁰ Assessment and Collection of Regulatory Fees for Fiscal Year 2009, Report and Order, 24 FCC Rcd 10301, 10306-07, paras. 16-17 (2009).

20. In the FY 2017 NPRM, however, the Commission sought comment on a proposal to adopt a tiered regulatory fee rate structure for all terrestrial and satellite IBCs, similar to the submarine cable tiered regulatory fee methodology, based on capacity ⁵¹ and including both common carrier and non-common carrier IBCs.⁵² In the FY 2017 Report and Order, the Commission concluded that a methodology for terrestrial and satellite IBC regulatory fees based on active circuits should be consistent with the submarine cable methodology and include common carrier and non-common carrier terrestrial IBCs.⁵³ In our Further Notice of Proposed Rulemaking, we sought comment on a tiered methodology for terrestrial and satellite IBCs.⁵⁴ We proposed adopting, for terrestrial and satellite IBCs, the five tiers adopted for submarine cable systems.

⁵¹ The submarine cable fee is based on capacity per system; the terrestrial and satellite international bearer circuit regulatory fee would be based on overall active circuits.

⁵² FY 2017 NPRM, 32 FCC Rcd at 4536-38, paras. 23-27.

⁵³ FY 2017 Report and Order, 32 FCC Rcd at 7071-72, para. 34.

⁵⁴ Id., 32 FCC Rcd at 7074-75, paras. 44-47.

21. CenturyLink⁵⁵ contends that we should adopt the two-tier methodology proposed earlier by Level 3.⁵⁶ CenturyLink argues that a two-tier system is sufficient to ensure that the satellite and terrestrial IBC regulatory fees do not serve as a barrier to entry for smaller providers while ensuring that the larger providers pay a fair and equitable portion of regulatory fees.⁵⁷ According to CenturyLink, a two-tier system would reduce the incentive to underreport and would be less burdensome because a carrier would be able to easily determine which tier it falls into, without having to count each of its circuits annually.⁵⁸ AT&T supports a multi-tiered rate structure and contends that, due to the wide disparity in satellite and terrestrial providers' IBC circuit volumes, a two-tiered fee structure would likely result in fee increases for smaller carriers.⁵⁹

⁵⁵ CenturyLink now owns Level 3. See Press Release, “CenturyLink completes acquisition of Level 3,” November 1, 2017, http://ir.centurylink.com/file/Index?KeyFile=390889600.

⁵⁶ CenturyLink Comments at 3-5.

⁵⁷ CenturyLink Comments at 4.

⁵⁸ CenturyLink Comments at 4-5.

⁵⁹ AT&T Reply Comments at 3-4; AT&T Jan. 19, 2018 ex parte at 1.

22. SIA opposes a tiered approach for satellite IBC regulatory fees and contends that a tiered rate structure would result in “massive overcharges” and is “arbitrary and capricious.” ⁶⁰ We recognize SIA's concerns that a tiered rate structure such as that proposed by Level 3 could result in higher fees if carriers with fewer active circuits are grouped with carriers with a much larger quantity of active circuits. The multi-tier rate structure would take that concern into consideration and be designed to ensure that providers' fees are assessed at an appropriate level, based on the number of active circuits. A multi-tier rate structure would be based on the number of active circuits, but grouped into levels or tiers. This would be more equitable than a two-tiered system because it better takes into account the quantity of active circuits of each regulatee when determining a fee payment. This fee structure would be less burdensome to calculate because the service providers would not have to count each active circuit on December 31 of each year (as long as they know which tier they are in), yet this fee structure is also “reasonably related to the benefits provided to the payer of the fee by the Commission's activities . . . .” ⁶¹ As the Commission observed when adopting a five-tier fee structure for submarine cable, the tiered methodology will be competitively neutral, easier for the Commission to administer, and promote better compliance by providers.⁶²

⁶⁰ SIA Comments at 5-6.

⁶¹ 47 U.S.C. 159(b)(1)(A).

⁶² Submarine Cable Order, 24 FCC Rcd at 4213, paras. 9-10.

23. We do not, however, have sufficient information at this time to establish an appropriate tier structure for terrestrial and satellite IBCs. In the FY 2017 Report and Order, we determined that IBCs should be assessed regulatory fees for non-common carrier as well as common carrier terrestrial circuits. We do not yet have information on the number of non-common carrier terrestrial circuits for which fees will be paid. The number of non-common carrier terrestrial circuits will affect the rate and the rate structure of the tiers for this category. Consequently, for FY 2018, we will continue to assess the fee on a per-circuit basis, although we propose to use Gbps as the measurement rather than 64 kbps. In Table 2, we list the proposed per-circuit rate for IBCs for FY 2018. With the information we will obtain from payors in September 2018, we should have sufficient information to be able to propose a tiered rate structure for FY 2019, and we seek comment on any other issues that commenters believe we should consider when making such a proposal.

B. Methodology for FY 2019 Regulatory Fee Calculations

1. Broadcast Television Stations

24. Full service television station licensees are subject to regulatory fee payments based on the market served. Broadcast full service television stations pay regulatory fees based on the schedule of regulatory fees established in section 9(g) of the Communications Act, which consolidated stations into market groupings 1-10, 11-25, 26-50, 51-100, and remaining markets.⁶³ The Commission subsequently established a separate fee category for satellite television stations.⁶⁴ The Commission uses Nielsen Designated Market Areas (DMAs) to define the market a station serves. For FY 2017, the regulatory fees for full service stations ranged from $1,725, for satellite stations, to $59,750, for stations in markets 1-10.

⁶³ 47 U.S.C. 159(g).

⁶⁴ Assessment and Collection of Regulatory Fees for Fiscal Year 1995, Report and Order, 10 FCC Rcd 13512, 13534, para. 60 (1995).

25. We seek comment on whether we can more accurately ascertain the actual market served by a station for purposes of assessing regulatory fees by examining the actual population covered by the station's contours rather than using DMAs. If adopted, this proposal would constitutes a permitted amendment as defined in section 9(b)(3) of the Act,⁶⁵ and pursuant to section 9(b)(4)(B), it must be submitted to Congress at least 90 days before it would become effective.⁶⁶ As such, we seek comment on whether, for FY 2019, regulatory fees should be assessed for full-power broadcast television stations based on the population covered by the station's contour, instead of DMAs. Such an approach is consistent with the methodology used for AM and FM broadcasters, in which fees are based on population served and the class of service based on the signal contours defined in Table 4. In addition, this proposal would address concerns about the assessment of regulatory fees for broadcast television satellite stations.⁶⁷ We seek comment on whether this proposal would “take into account factors that are reasonably related to the benefits provided to the payer of the fee by the Commission's activities . . . .” ⁶⁸ Commenters should also discuss whether this new methodology would more accurately reflect a station's actual market. We believe that this population-based approach would allow us to take into account the lower population served by stations located in the fringes of a DMA. We seek comment on this view. Alternatively, do DMAs, which account for MVPD carriage, better reflect a television station's reach, or is there some other method by which we should calculate broadcast television regulatory fees? Commenters should also discuss whether, if we adopt this approach, we should phase in the implementation of this methodology over a two-year, or longer, period of time. For example, we could limit an increase or decrease in regulatory fees for the first year of implementation.

⁶⁵ 47 U.S.C. 159(b)(3).

⁶⁶ 47 U.S.C. 159(b)(4)(B).

⁶⁷ See, e.g., FY 2017 NPRM, 32 FCC Rcd at 4534-36, paras. 20-22 (discussing concerns about the regulatory fees assessed on broadcast satellite television stations serving small markets at the fringe of larger DMAs).

⁶⁸ 47 U.S.C. 159(b)(1)(A). When section 9 was adopted, the total FTEs were to be calculated based on the number of FTEs in the Private Radio Bureau, Mass Media Bureau, and Common Carrier Bureau. (The names of these bureaus were subsequently changed.) Satellites and submarine cable were regulated through the Common Carrier Bureau before the International Bureau was created.

26. If adopted, this proposal would enable broadcasters to review population data for their service area. The data would be extracted from the TVStudy database, based on a station's projected noise-limited service contour, consistent with our rules.⁶⁹ An example from existing data is attached as Table 6. https://www.fcc.gov/media/television/video-division We would multiply the population by a factor for which we would seek comment, e.g., 0.63 cents ($.0063). We would, in our annual Notice of Proposed Rulemaking, refer broadcasters to the population data and the factor proposed so that they could determine how their regulatory fees would be calculated.

⁶⁹ 47 CFR 73.622(e).

27. Alternatively, we seek comment on whether, under the proposed methodology, we should calculate regulatory fees based on the specific population covered by the contour for each station, or whether we should group broadcast stations into tiers, based on the population, with the same regulatory fee for each station within a group or tier. Commenters supporting a tiered approach should discuss how many tiers would be reasonable. For example, would the tiers currently used for AM and FM broadcasters (<25,000, 25,001-75,000, 75,001-150,000, 150,001-500,000, 500,001-1,200,000, 1,200,001-3,000,000, 3,000,001-6,000,00, >6,000,000) be reasonable?

28. We tentatively conclude that revising our methodology for assessing regulatory fees for broadcast television stations would be a permitted amendment as defined in section 9(b)(3) of the Act,⁷⁰ and pursuant to section 9(b)(4)(B), it must be submitted to Congress at least 90 days before it would become effective.⁷¹ Therefore, for FY 2018, we will assess regulatory fees for all broadcast television stations using the same methodology as we did for FY 2017. The proposed regulatory fees for broadcast television stations for FY 2018 are in Table 2.

⁷⁰ 47 U.S.C. 159(b)(3).

⁷¹ 47 U.S.C. 159(b)(4)(B).

2. Small Satellites

29. The Commission recently proposed revisions to our rules to facilitate commercial deployment of a class of satellites known colloquially as “small satellites.” ⁷² Small satellites typically have a number of characteristics that distinguish them from traditional non-geostationary satellite orbit (NGSO) satellite systems, such as having a lower mass, shorter duration mission, and more limited spectrum needs. The proposed rules are designed to lower the regulatory burden involved in licensing small satellites and reduce application processing times. Because we expect that small satellite applications will take less time and fewer Commission resources to process than traditional satellite systems, the Commission, in the Small Satellite NPRM, proposed to establish a new fee for small satellite applications of $30,000—well below the application fee of $454,705 for Low-Earth Orbit Satellite Systems.⁷³ Consistent with development of a new application fee for small satellites, we seek comment on whether, for FY 2019, we should adopt a new regulatory fee category for small satellites. Entities authorized to operate NGSO systems under Part 25 of our rules currently must pay an annual regulatory fee which, for FY 2017, was $135,350 per operational system.⁷⁴ We seek comment on whether the regulatory fee for small satellites should be 1/20th of the regulatory fee currently applicable to NGSO systems, consistent with the ratio of the application fee proposed for small satellites to the application fee currently applicable to NGSO systems. In discussing the appropriate regulatory fee for small satellites, commenters should take into consideration that this is a new industry sector typically involving relatively low-cost systems, as compared with traditional satellite systems, and a high regulatory fee could limit the commercial applications of small satellites.

⁷² Streamlining Licensing Procedures for Small Satellites, IB Docket No. 18-86, Notice of Proposed Rulemaking, FCC 18-44 (2018) (Small Satellite NPRM).

⁷³ Id. at para. 76 (estimating that “a fee of $30,000 would likely recover the costs to the Commission to process these applications”).

⁷⁴ Assessment and Collection of Regulatory Fees for Fiscal Year 2017, Report and Order and Further Notice of Proposed Rulemaking, 32 FCC Rcd 7057, 7088, Appendix C (2017).

30. We tentatively conclude that adopting a new regulatory fee category for small satellites would be a permitted amendment as defined in section 9(b)(3) of the Act,⁷⁵ and pursuant to section 9(b)(4)(B), it must be submitted to Congress at least 90 days before it would become effective.⁷⁶

⁷⁵ 47 U.S.C. 159(b)(3).

⁷⁶ 47 U.S.C. 159(b)(4)(B).

V. Procedural Matters

A. Payment of Regulatory Fees

1. Checks Will Not Be Accepted for Payment of Annual Regulatory Fees

31. Pursuant to an Office of Management and Budget (OMB) directive,⁷⁷ the Commission is moving towards a paperless environment, extending to disbursement and collection of select federal government payments and receipts.⁷⁸ In 2015, the Commission stopped accepting checks (including cashier's checks and money orders) and the accompanying hardcopy forms (e.g., Forms 159, 159-B, 159-E, 159-W) for the payment of regulatory fees.⁷⁹ All regulatory fee payments must be made by online Automated Clearing House (ACH) payment, online credit card, or wire transfer. Any other form of payment (e.g., checks, cashier's checks, or money orders) will be rejected. For payments by wire, a Form 159-E should still be transmitted via fax so that the Commission can associate the wire payment with the correct regulatory fee information.

⁷⁷ Office of Management and Budget (OMB) Memorandum M-10-06, Open Government Directive, Dec. 8, 2009; see also http://www.whitehouse.gov/the-press-office/2011/06/13/executive-order-13576-delivering-efficient-effective-and-accountable-gov.

⁷⁸ See U.S. Department of the Treasury, Open Government Plan 2.1, Sept. 2012.

⁷⁹ FY 2015 Report and Order, 30 FCC Rcd at 10282-83, para. 35. See 47 CFR 1.1158.

2. Credit Card Transaction Levels

32. Since June 1, 2015, in accordance with U.S. Treasury Announcement No. A-2014-04 (July 2014), the amount that can be charged on a credit card for transactions with federal agencies has is $24,999.99.⁸⁰ Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, ACH debits from a bank account, and wire transfers. Each of these payment options is available after filing regulatory fee information in Fee Filer. Further details will be provided regarding payment methods and procedures at the time of FY 2018 regulatory fee collection in Fact Sheets, available at https://www.fcc.gov/regfees.

⁸⁰ Customers who owe an amount on a bill, debt, or other obligation due to the federal government are prohibited from splitting the total amount due into multiple payments. Splitting an amount owed into several payment transactions violates the credit card network and Fiscal Service rules. An amount owed that exceeds the Fiscal Service maximum dollar amount, $24,999.99, may not be split into two or more payment transactions in the same day by using one or multiple cards. Also, an amount owed that exceeds the Fiscal Service maximum dollar amount may not be split into two or more transactions over multiple days by using one or more cards.

3. Payment Methods

33. During the fee season for collecting FY 2018 regulatory fees, regulatees can pay their fees by credit card through Pay.gov,⁸¹ ACH, debit card,⁸² or by wire transfer. Additional payment instructions are posted on the Commission's website at http://transition.fcc.gov/fees/regfees.html. The receiving bank for all wire payments is the U.S. Treasury, New York, New York. When making a wire transfer, regulatees must fax a copy of their Fee Filer generated Form 159-E to the Federal Communications Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at http://transition.fcc.gov/fees/wiretran.html.

⁸¹ In accordance with U.S. Treasury Financial Manual Announcement No. A-2014-04 (July 2014), the amount that may be charged on a credit card for transactions with federal agencies has been reduced to $24,999.99.

⁸² In accordance with U.S. Treasury Financial Manual Announcement No. A-2012-02, the maximum dollar-value limit for debit card transactions is eliminated. Only Visa and MasterCard branded debit cards are accepted by Pay.gov.

4. De Minimis Regulatory Fees

34. Under the Commission's de minimis rule for regulatory fee payments, a regulatee is exempt from paying regulatory fees if the sum total of all of its annual regulatory fee liabilities is $1,000 or less for the fiscal year. The de minimis threshold applies only to filers of annual regulatory fees, not regulatory fees paid through multi-year filings, and it is not a permanent exemption. Each regulatee will need to reevaluate the total annual fee liability each fiscal year to determine whether they meet the de minimis exemption.

5. Standard Fee Calculations and Payment Dates

35. The Commission will accept fee payments made in advance of the window for the payment of regulatory fees. The responsibility for payment of fees by service category is as follows:

• Media Services: Regulatory fees must be paid for initial construction permits that were granted on or before October 1, 2017 for AM/FM radio stations, VHF/UHF full service television stations, and satellite television stations. Regulatory fees must be paid for all broadcast facility licenses granted on or before October 1, 2017.

• Wireline (Common Carrier) Services: Regulatory fees must be paid for authorizations that were granted on or before October 1, 2017. In instances where a permit or license is transferred or assigned after October 1, 2017, responsibility for payment rests with the holder of the permit or license as of the fee due date. Audio bridging service providers are included in this category.⁸³ For Responsible Organizations (RespOrgs) that manage Toll Free Numbers (TFN), regulatory fees should be paid on all working, assigned, and reserved toll free numbers as well as toll free numbers in any other status as defined in section 52.103 of the Commission's rules.⁸⁴ The unit count should be based on toll free numbers managed by RespOrgs on or about December 31, 2017.

⁸³ Audio bridging services are toll teleconferencing services.

⁸⁴ 47 CFR 52.103.

• Wireless Services: CMRS cellular, mobile, and messaging services (fees based on number of subscribers or telephone number count): Regulatory fees must be paid for authorizations that were granted on or before October 1, 2017. The number of subscribers, units, or telephone numbers on December 31, 2017 will be used as the basis from which to calculate the fee payment. In instances where a permit or license is transferred or assigned after October 1, 2017, responsibility for payment rests with the holder of the permit or license as of the fee due date.

• Wireless Services, Multi-year fees: The first eight regulatory fee categories in our Schedule of Regulatory Fees pay “small multi-year wireless regulatory fees.” Entities pay these regulatory fees in advance for the entire amount period covered by the five-year or ten-year terms of their initial licenses, and pay regulatory fees again only when the license is renewed or a new license is obtained. We include these fee categories in our rulemaking to publicize our estimates of the number of “small multi-year wireless” licenses that will be renewed or newly obtained in FY 2018.

• Multichannel Video Programming Distributor Services (cable television operators, CARS licensees, DBS, and IPTV): Regulatory fees must be paid for the number of basic cable television subscribers as of December 31, 2017.⁸⁵ Regulatory fees also must be paid for CARS licenses that were granted on or before October 1, 2017. In instances where a permit or license is transferred or assigned after October 1, 2017, responsibility for payment rests with the holder of the permit or license as of the fee due date. For providers of Direct Broadcast Satellite (DBS) service and IPTV-based MVPDs, regulatory fees should be paid based on a subscriber count on or about December 31, 2017. In instances where a permit or license is transferred or assigned after October 1, 2017, responsibility for payment rests with the holder of the permit or license as of the fee due date.

⁸⁵ Cable television system operators should compute their number of basic subscribers as follows: Number of single family dwellings + number of individual households in multiple dwelling unit (apartments, condominiums, mobile home parks, etc.) paying at the basic subscriber rate + bulk rate customers + courtesy and free service. Note: Bulk-Rate Customers = Total annual bulk-rate charge divided by basic annual subscription rate for individual households. Operators may base their count on “a typical day in the last full week” of December 2017, rather than on a count as of December 31, 2017.

• International Services: Regulatory fees must be paid for (1) earth stations and (2) geostationary orbit space stations and non-geostationary orbit satellite systems that were licensed and operational on or before October 1, 2017. In instances where a permit or license is transferred or assigned after October 1, 2017, responsibility for payment rests with the holder of the permit or license as of the fee due date.

• International Services (Submarine Cable Systems): Regulatory fees for submarine cable systems are to be paid on a per cable landing license basis based on circuit capacity as of December 31, 2017. In instances where a license is transferred or assigned after October 1, 2017, responsibility for payment rests with the holder of the license as of the fee due date. For regulatory fee purposes, the allocation in FY 2018 will remain at 87.6 percent for submarine cable and 12.4 percent for satellite/terrestrial facilities.

• International Services (Terrestrial and Satellite Services): Regulatory fees for Terrestrial and Satellite IBCs are to be paid based on active (used or leased) international bearer circuits as of December 31, 2017 in any terrestrial or satellite transmission facility for the provision of service to an end user or resale carrier. When calculating the number of such active circuits, entities must include circuits used by themselves or their affiliates. For these purposes, “active circuits” include backup and redundant circuits as of December 31, 2017. Whether circuits are used specifically for voice or data is not relevant for purposes of determining that they are active circuits.⁸⁶ In instances where a permit or license is transferred or assigned after October 1, 2017, responsibility for payment rests with the holder of the permit or license as of the fee due date. For regulatory fee purposes, the allocation in FY 2018 will remain at 87.6 percent for submarine cable and 12.4 percent for satellite/terrestrial facilities.

⁸⁶ We encourage terrestrial and satellite service providers to seek guidance from the International Bureau's Telecommunications and Analysis Division to verify their particular IBC reporting processes to ensure that their calculation methods comply with our rules.

B. Commercial Mobile Radio Service (CMRS) and Mobile Services Assessments

36. The Commission will compile data from the Numbering Resource Utilization Forecast (NRUF) report that is based on “assigned” telephone number (subscriber) counts that have been adjusted for porting to net Type 0 ports (“in” and “out”).⁸⁷ This information of telephone numbers (subscriber count) will be posted on the Commission's electronic filing and payment system (Fee Filer) along with the carrier's Operating Company Numbers (OCNs).

⁸⁷ See Assessment and Collection of Regulatory Fees for Fiscal Year 2005, Report and Order and Order on Reconsideration, 20 FCC Rcd 12259, 12264, paras. 38-44 (2005).

37. A carrier wishing to revise its telephone number (subscriber) count can do so by accessing Fee Filer and follow the prompts to revise their telephone number counts. Any revisions to the telephone number counts should be accompanied by an explanation or supporting documentation.⁸⁸ The Commission will then review the revised count and supporting documentation and either approve or disapprove the submission in Fee Filer. If the submission is disapproved, the Commission will contact the provider to afford the provider an opportunity to discuss its revised subscriber count and/or provide additional supporting documentation. If we receive no response from the provider, or we do not reverse our initial disapproval of the provider's revised count submission, the fee payment must be based on the number of subscribers listed initially in Fee Filer. Once the timeframe for revision has passed, the telephone number counts are final and are the basis upon which CMRS regulatory fees are to be paid. Providers can view their final telephone counts online in Fee Filer. A final CMRS assessment letter will not be mailed out.

⁸⁸ In the supporting documentation, the provider will need to state a reason for the change, such as a purchase or sale of a subsidiary, the date of the transaction, and any other pertinent information that will help to justify a reason for the change.

38. Because some carriers do not file the NRUF report, they may not see their telephone number counts in Fee Filer. In these instances, the carriers should compute their fee payment using the standard methodology that is currently in place for CMRS Wireless services (i.e., compute their telephone number counts as of December 31, 2017), and submit their fee payment accordingly. Whether a carrier reviews its telephone number counts in Fee Filer or not, the Commission reserves the right to audit the number of telephone numbers for which regulatory fees are paid. In the event that the Commission determines that the number of telephone numbers that are paid is inaccurate, the Commission will bill the carrier for the difference between what was paid and what should have been paid.

C. Enforcement

39. To be considered timely, regulatory fee payments must be made electronically by the payment due date for regulatory fees. Section 9(c) of the Act requires us to impose a late payment penalty of 25 percent of the unpaid amount to be assessed on the first day following the deadline for filing these fees.⁸⁹ Failure to pay regulatory fees and/or any late penalty will subject regulatees to sanctions, including those set forth in section 1.1910 of the Commission's rules,⁹⁰ which generally requires the Commission to withhold action on “applications, including on a petition for reconsideration or any application for review of a fee determination, or requests for authorization by any entity found to be delinquent in its debt to the Commission” and in the DCIA.⁹¹ We also assess administrative processing charges on delinquent debts to recover additional costs incurred in processing and handling the debt pursuant to the DCIA and section 1.1940(d) of the Commission's rules.⁹² These administrative processing charges will be assessed on any delinquent regulatory fee, in addition to the 25 percent late charge penalty. In the case of partial payments (underpayments) of regulatory fees, the payor will be given credit for the amount paid, but if it is later determined that the fee paid is incorrect or not timely paid, then the 25 percent late charge penalty (and other charges and/or sanctions, as appropriate) will be assessed on the portion that is not paid in a timely manner.

⁸⁹ 47 U.S.C. 159(c).

⁹⁰ See 47 CFR 1.1910.

⁹¹ Delinquent debt owed to the Commission triggers the “red light rule,” which places a hold on the processing of pending applications, fee offsets, and pending disbursement payments. 47 CFR 1.1910, 1.1911, 1.1912. In 2004, the Commission adopted rules implementing the requirements of the DCIA. See Amendment of Parts 0 and 1 of the Commission's Rules, MD Docket No. 02-339, Report and Order, 19 FCC Rcd 6540 (2004); 47 CFR part 1, subpart O, Collection of Claims Owed the United States.

⁹² 47 CFR 1.1940(d).

40. In addition to financial penalties, section 9(c)(3) of the Act,⁹³ and section 1.1164(f) of the Commission's rules ⁹⁴ grant the FCC the authority to revoke authorizations for failure to pay regulatory fees in a timely fashion. Should a fee delinquency not be rectified in a timely manner the Commission may require the licensee to file with documented evidence within sixty (60) calendar days that full payment of all outstanding regulatory fees has been made, plus any associated penalties as calculated by the Secretary of Treasury in accordance with section 1.1164(a) of the Commission's rules,⁹⁵ or show cause why the payment is inapplicable or should be waived or deferred. Failure to provide such evidence of payment or to show cause within the time specified may result in revocation of the station license.⁹⁶

⁹³ 47 U.S.C. 159(c)(3).

⁹⁴ 47 CFR 1.1164(f).

⁹⁵ 47 CFR 1.1164(a).

⁹⁶ See, e.g., Cortaro Broadcasting Corp., Order to Pay or Show Cause, 32 FCC Rcd 9336 (MB 2017).

41. Pursuant to the “red light rule,” we will withhold action on any applications or other requests for benefits filed by anyone who is delinquent in any non-tax debts owed to the Commission (including regulatory fees) and will ultimately dismiss those applications or other requests if payment of the delinquent debt or other satisfactory arrangement for payment is not made.⁹⁷ Failure to pay regulatory fees can also result in the initiation of a proceeding to revoke any and all authorizations held by the entity responsible for paying the delinquent fee(s).⁹⁸

⁹⁷ See 47 CFR 1.1161(c), 1.1164(f)(5), and 1.1910.

⁹⁸ 47 U.S.C. 159.

VI. Additional Tables

Regulatory fees for the categories shaded in gray are collected by the Commission in advance to cover the term of the license and are submitted at the time the application is filed.

Table 1—Calculation of FY 2018 Revenue Requirements and Pro-Rata Fees
Fee category | FY 2018 payment units | Years | FY 2017 revenue estimate | Pro-rated FY 2018 revenue requirement | Computed FY 2018 regulatory fee | Rounded FY 2018 regulatory fee | Expected FY 2018 revenue
PLMRS (Exclusive Use) | 340 | 10 | 325,000 | 85,000 | 25 | 25 | 85,000
PLMRS (Shared use) | 12,500 | 10 | 1,600,000 | 1,250,000 | 10 | 10 | 1,250,000
Microwave | 7,750 | 10 | 2,950,000 | 1,937,500 | 25 | 25 | 1,937,500
Marine (Ship) | 7,150 | 10 | 1,215,000 | 1,072,500 | 15 | 15 | 1,072,500
Aviation (Aircraft) | 4,000 | 10 | 420,000 | 400,000 | 10 | 10 | 400,000
Marine (Coast) | 75 | 10 | 60,000 | 30,000 | 40 | 40 | 30,000
Aviation (Ground) | 1,000 | 10 | 220,000 | 200,000 | 20 | 20 | 200,000
AM Class A 1 | 63 | 1 | 305,500 | 266,175 | 4,214 | 4,225 | 266,175
AM Class B 1 | 1,523 | 1 | 3,807,500 | 3,274,450 | 2,162 | 2,150 | 3,274,450
AM Class C 1 | 872 | 1 | 1,348,500 | 1,177,200 | 1,352 | 1,350 | 1,177,200
AM Class D 1 | 1,503 | 1 | 4,476,000 | 3,907,800 | 2,592 | 2,600 | 3,907,800
FM Classes A, B1 & C3 1 | 3,166 | 1 | 9,371,250 | 8,152,450 | 2,582 | 2,575 | 8,152,450
FM Classes B, C, C0, C1 & C2 1 | 3,128 | 1 | 11,521,800 | 10,009,600 | 3,203 | 3,200 | 10,009,600
AM Construction Permits 2 | 9 | 1 | 5,550 | 4,950 | 550 | 550 | 4,950
FM Construction Permits 2 | 109 | 1 | 110,740 | 105,185 | 965 | 965 | 105,185
Satellite TV | 126 | 1 | 217,350 | 189,000 | 1,497 | 1,500 | 189,000
Digital TV Mkt 1-10 | 144 | 1 | 8,305,250 | 7,164,000 | 49,739 | 49,750 | 7,164,000
Digital TV Mkt 11-25 | 140 | 1 | 5,898,275 | 5,243,000 | 37,455 | 37,450 | 5,243,000
Digital TV Mkt 26-50 | 189 | 1 | 5,439,050 | 4,729,725 | 25,013 | 25,025 | 4,729,725
Digital TV Mkt 51-100 | 290 | 1 | 4,267,875 | 3,617,750 | 12,470 | 12,475 | 3,617,750
Digital TV Remaining Markets | 389 | 1 | 1,807,475 | 1,594,900 | 4,099 | 4,100 | 1,594,900
Digital TV Construction Permits 2 | 3 | 1 | 14,775 | 12,300 | 4,100 | 4,100 | 12,300
LPTV/Translators/Boosters/Class A TV | 3,989 | 1 | 1,741,930 | 1,515,820 | 378 | 380 | 1,515,820
CARS Stations | 175 | 1 | 215,050 | 188,125 | 1,068 | 1,075 | 188,125
Cable TV Systems, including IPTV | 61,000,000 | 1 | 58,900,000 | 46,970,000 | .7658 | .77 | 46,970,000
Direct Broadcast Satellite (DBS) | 32,000,000 | 1 | 12,350,000 | 15,360,000 | .480 | .48 | 15,360,000
Interstate Telecommunication Service Providers | $36,400,000,000 | 1 | 111,740,000 | 100,464,000 | 0.002762 | 0.00276 | 100,464,000
Toll Free Numbers | 33,200,000 | 1 | 3,924,000 | 3,320,000 | 0.10405 | 0.10 | 3,320,000
CMRS Mobile Services (Cellular/Public Mobile) | 401,000,000 | 1 | 82,530,000 | 80,200,000 | 0.1962 | 0.20 | 80,200,000
CMRS Messag. Services | 1,000,000 | 1 | 168,000 | 80,000 | 0.0800 | 0.080 | 80,000
BRS 3 | 1,175 | 1 | 696,000 | 567,050 | 600 | 600 | 705,000
LMDS | 400 | 1 | 316,000 | 378,250 | 600 | 600 | 240,000
Per 64 kbps Int'l Bearer Circuits, Terrestrial (Common) & Satellite (Common & Non-Common) | 33,000,000 | 1 | 901,680 | 701,995 | .0213 | .02 | 660,000
Submarine Cable Providers (see chart in Table 3) 4 | 41.19 | 1 | 5,660,261 | 4,959,228 | 120,405 | 120,400 | 4,959,035
Earth Stations | 3,400 | 1 | 1,224,000 | 1,105,000 | 326 | 325 | 1,105,000
Space Stations (Geostationary) | 97 | 1 | 13,669,725 | 12,401,450 | 127,839 | 127,850 | 12,401,450
Space Stations (Non-Geostationary) | 7 | 1 | 947,450 | 859,425 | 122,776 | 122,775 | 859,425
****** Total Estimated Revenue to be Collected |  |  | 358,670,986 | 323,493,858 |  |  | 323,451,340
****** Total Revenue Requirement |  |  | 356,710,992 | 322,035,000 |  |  | 322,035,000
Difference |  |  | 1,959,994 | 1,458,858 |  |  | 1,416,340
Notes on Table 1:
1 The fee amounts listed in the column entitled “Rounded New FY 2018 Regulatory Fee” constitute a weighted average broadcast regulatory fee by class of service. The actual FY 2018 regulatory fees for AM/FM radio station are listed on a grid located at the end of Table 2.
2 The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
3 MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
4 The chart at the end of Table 2 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009).

Regulatory fees for the categories shaded in gray are collected by the Commission in advance to cover the term of the license and are submitted at the time the application is filed.

Table 2—FY 2018 Proposed Regulatory Fees
Fee category | Annual Regulatory Fee (U.S. $'s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) | .20
CMRS Messaging Services (per unit) (47 CFR parts 20, 22, 24 and 90) | .08
Broadband Radio Service (formerly MMDS/MDS) (per license) (47 CFR part 27) | 600
Local Multipoint Distribution Service (per call sign) (47 CFR, part 101) | 600
AM Radio Construction Permits | 550
FM Radio Construction Permits | 965
Digital TV (47 CFR part 73) VHF and UHF Commercial: |
Markets 1-10 | 49,750
Markets 11-25 | 37,450
Markets 26-50 | 25,025
Markets 51-100 | 12,475
Remaining Markets | 4,100
Construction Permits | 4,100
Satellite Television Stations (All Markets) | 1,500
Low Power TV, Class A TV, TV/FM Translators & Boosters (47 CFR part 74) | 380
CARS (47 CFR part 78) | 1,075
Cable Television Systems (per subscriber) (47 CFR part 76), Including IPTV | .77
Direct Broadcast Service (DBS) (per subscriber) (as defined by section 602(13) of the Act) | .48
Interstate Telecommunication Service Providers (per revenue dollar) | .00276
Toll Free (per toll free subscriber) (47 C.F.R. section 52.101 (f) of the rules) | .10
Earth Stations (47 CFR part 25) | 325
Space Stations (per operational station in geostationary orbit) (47 CFR part 25) also includes DBS Service (per operational station) (47 CFR part 100) | 127,850
Space Stations (per operational system in non-geostationary orbit) (47 CFR part 25) | 122,775
International Bearer Circuits—Terrestrial/Satellites (per 64KB circuit) | .02
Submarine Cable Landing Licenses Fee (per cable system) | See Table Below

FY 2018 Radio Station Regulatory Fees
Population served | AM Class A | AM Class B | AM Class C | AM Class D | FM Classes A, B1 & C3 | FM Classes B, C, C0, C1 & C2
<=25,000 | $880 | $635 | $550 | $605 | $965 | $1,100
25,001-75,000 | 1,325 | 950 | 825 | 910 | 1,450 | 1,650
75,001-150,000 | 1,975 | 1,425 | 1,250 | 1,350 | 2,175 | 2,475
150,001-500,000 | 2,975 | 2,150 | 1,850 | 2,050 | 3,250 | 3,725
500,001-1,200,000 | 4,450 | 3,225 | 2,775 | 3,050 | 4,875 | 5,575
1,200,001-3,000,00 | 6,700 | 4,825 | 4,175 | 4,600 | 7,325 | 8,350
3,000,001-6,000,00 | 10,025 | 7,225 | 6,275 | 6,900 | 11,000 | 12,525
>6,000,000 | 15,050 | 10,850 | 9,400 | 10,325 | 16,500 | 18,800

FY 2018 International Bearer Circuits—Submarine Cable
Submarine cable systems (capacity as of December 31, 2017) | Proposed fee amount for FY 2018
Less than 50 Gbps | $9,850
50 Gbps or greater, but less than 250 Gbps | 19,725
250 Gbps or greater, but less than 1,000 Gbps | 39,425
1,000 Gbps or greater, but less than 4,000 Gbps | 78,875
4,000 Gbps or greater | 157,750

In order to calculate individual service fees for FY 2018, we adjusted FY 2017 payment units for each service to more accurately reflect expected FY 2018 payment liabilities. We obtained our updated estimates through a variety of means. For example, we used Commission licensee data bases, actual prior year payment records and industry and trade association projections when available. The databases we consulted include our Universal Licensing System (ULS), International Bureau Filing System (IBFS), Consolidated Database System (CDBS) and Cable Operations and Licensing System (COALS), as well as reports generated within the Commission such as the Wireless Telecommunications Bureau's Numbering Resource Utilization Forecast.

We sought verification for these estimates from multiple sources and, in all cases, we compared FY 2018 estimates with actual FY 2017 payment units to ensure that our revised estimates were reasonable. Where appropriate, we adjusted and/or rounded our final estimates to take into consideration the fact that certain variables that impact on the number of payment units cannot yet be estimated with sufficient accuracy. These include an unknown number of waivers and/or exemptions that may occur in FY 2018 and the fact that, in many services, the number of actual licensees or station operators fluctuates from time to time due to economic, technical, or other reasons. When we note, for example, that our estimated FY 2018 payment units are based on FY 2017 actual payment units, it does not necessarily mean that our FY 2018 projection is exactly the same number as in FY 2017. We have either rounded the FY 2018 number or adjusted it slightly to account for these variables.

Table 3—Sources of Payment Unit Estimates for FY 2018
Fee category | Sources of payment unit estimates
Land Mobile (All), Microwave, Marine (Ship & Coast), Aviation (Aircraft & Ground), Domestic Public Fixed | Based on Wireless Telecommunications Bureau (WTB) projections of new applications and renewals taking into consideration existing Commission licensee data bases. Aviation (Aircraft) and Marine (Ship) estimates have been adjusted to take into consideration the licensing of portions of these services on a voluntary basis.
CMRS Cellular/Mobile Services | Based on WTB projection reports, and FY 17 payment data.
CMRS Messaging Services | Based on WTB reports, and FY 17 payment data.
AM/FM Radio Stations | Based on CDBS data, adjusted for exemptions, and actual FY 2017 payment units.
Digital TV Stations (Combined VHF/UHF units) | Based on CDBS data, adjusted for exemptions, and actual FY 2017 payment units.
AM/FM/TV Construction Permits | Based on CDBS data, adjusted for exemptions, and actual FY 2017 payment units.
LPTV, Translators and Boosters, Class A Television | Based on CDBS data, adjusted for exemptions, and actual FY 2017 payment units.
BRS (formerly MDS/MMDS) LMDS | Based on WTB reports and actual FY 2017 payment units. Based on WTB reports and actual FY 2017 payment units.
Cable Television Relay Service (CARS) Stations | Based on data from Media Bureau's COALS database and actual FY 2017 payment units.
Cable Television System Subscribers, Including IPTV Subscribers | Based on publicly available data sources for estimated subscriber counts and actual FY 2017 payment units.
Interstate Telecommunication Service Providers | Based on FCC Form 499-Q data for the four quarters of calendar year 2017, the Wireline Competition Bureau projected the amount of calendar year 2017 revenue that will be reported on 2018 FCC Form 499-A worksheets due in April, 2018.
Earth Stations | Based on International Bureau (“IB”) licensing data and actual FY 2017 payment units.
Space Stations (GSOs & NGSOs) | Based on IB data reports and actual FY 2017 payment units.
International Bearer Circuits | Based on IB reports and submissions by licensees, adjusted as necessary.
Submarine Cable Licenses | Based on IB license information.

Table 4

Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2010 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2010 block centroids were contained in the polygon. The sum of the population figures for all enclosed blocks represents the total population for the predicted principal community coverage area.

Regulatory fees for the categories shaded in gray are collected by the Commission in advance to cover the term of the license and are submitted at the time the application is filed.

Table 5—FY 2017 Schedule of Regulatory Fees
Fee category | Annual regulatory fee (U.S. $s)
PLMRS (per license) (Exclusive Use) (47 CFR part 90) | 25
Microwave (per license) (47 CFR part 101) | 25
Marine (Ship) (per station) (47 CFR part 80) | 15
Marine (Coast) (per license) (47 CFR part 80) | 40
Rural Radio (47 CFR part 22) (previously listed under the Land Mobile category) | 10
PLMRS (Shared Use) (per license) (47 CFR part 90) | 10
Aviation (Aircraft) (per station) (47 CFR part 87) | 10
Aviation (Ground) (per license) (47 CFR part 87) | 20
CMRS Mobile/Cellular Services (per unit) (47 CFR parts 20, 22, 24, 27, 80 and 90) | .21
CMRS Messaging Services (per unit) (47 CFR parts 20, 22, 24 and 90) | .08
Broadband Radio Service (formerly MMDS/MDS) (per license) (47 CFR part 27) | 800
Local Multipoint Distribution Service (per call sign) (47 CFR, part 101) | 800
AM Radio Construction Permits | 555
FM Radio Construction Permits | 980
Digital TV (47 CFR part 73) VHF and UHF Commercial:
Markets 1-10 | 59,750
Markets 11-25 | 45,025
Markets 26-50 | 30,050
Markets 51-100 | 14,975
Remaining Markets | 4,925
Construction Permits | 4,925
Satellite Television Stations (All Markets) | 1,725
Low Power TV, Class A TV, TV/FM Trans. & Boosters (47 CFR part 74) | 430
CARS (47 CFR part 78) | 935
Cable Television Systems (per subscriber) (47 CFR part 76), Including IPTV | .95
Direct Broadcast Service (DBS) (per subscriber) (as defined by section 602(13) of the Act) | .38
Interstate Telecommunication Service Providers (per revenue dollar) | .00302
Toll Free (per toll free subscriber) (47 C.F.R. section 52.101 (f) of the rules) | .12
Earth Stations (47 CFR part 25) | 360
Space Stations (per operational station in geostationary orbit) (47 CFR part 25) also includes DBS Service (per operational station) (47 CFR part 100) | 140,925
Space Stations (per operational system in non-geostationary orbit) (47 CFR part 25) | 135,350
International Bearer Circuits—Terrestrial/Satellites (per 64KB circuit) | .03
Submarine Cable Landing Licenses Fee (per cable system) | See Table Below

FY 2017 Radio Station Regulatory Fees
Population served | AM Class A | AM Class B | AM Class C | AM Class D | FM Classes A, B1 & C3 | FM Classes B, C, C0, C1 & C2
<=25,000 | 895 | 640 | 555 | 610 | 980 | 1,100
25,001-75,000 | 1,350 | 955 | 830 | 915 | 1,475 | 1,650
75,001-150,000 | 2,375 | 1,700 | 1,475 | 1,600 | 2,600 | 2,925
150,001-500,000 | 3,550 | 2,525 | 2,200 | 2,425 | 3,875 | 4,400
500,001-1,200,000 | 5,325 | 3,800 | 3,300 | 3,625 | 5,825 | 6,575
1,200,001-3,000,00 | 7,975 | 5,700 | 4,950 | 5,425 | 8,750 | 9,875
3,000,001-6,000,00 | 11,950 | 8,550 | 7,400 | 8,150 | 13,100 | 14,800
>6,000,000 | 17,950 | 12,825 | 11,100 | 12,225 | 19,650 | 22,225

International Bearer Circuits—Submarine Cable
Submarine cable systems (capacity as of December 31, 2016) | Fee amount
<2.5 Gbps | $8,600
2.5 Gbps or greater, but less than 5 Gbps | 17,175
5 Gbps or greater, but less than 10 Gbps | 34,350
10 Gbps or greater, but less than 20 Gbps | 68,725
20 Gbps or greater | 137,425

Table 6—Television Stations With Population Data
State | Facility ID | Population | Call sign | Community of service | Nielsen DMA rank
AK | 13813 | 97,466 | KATN | FAIRBANKS | Fairbanks.
AK | 25221 | 374,951 | KDMD | ANCHORAGE | Anchorage.
AK | 20015 | 98,403 | KJNP-TV | NORTH POLE | Fairbanks.
AK | 13814 | 31,229 | KJUD | JUNEAU | Juneau.
AK | 35655 | 348,080 | KTBY | ANCHORAGE | Anchorage.
AK | 60519 | 8,642 | KTNL-TV | SITKA | Alaska.
AK | 10173 | 380,240 | KTUU-TV | ANCHORAGE | Anchorage.
AK | 49632 | 342,517 | KTVA | ANCHORAGE | Anchorage.
AK | 49621 | 98,068 | KTVF | FAIRBANKS | Fairbanks.
AK | 60520 | 14,858 | KUBD | KETCHIKAN | Alaska.
AK | 21488 | 392,357 | KYES-TV | ANCHORAGE | Anchorage.
AK | 13815 | 379,943 | KYUR | ANCHORAGE | Anchorage.
AL | 57292 | 1,530,431 | WAAY-TV | HUNTSVILLE | Huntsville-Decatur (Flor).
AL | 16820 | 1,703,202 | WABM | BIRMINGHAM | Birmingham (Ann and Tusc).
AL | 591 | 1,197,068 | WAFF | HUNTSVILLE | Huntsville-Decatur (Flor).
AL | 701 | 769,765 | WAKA | SELMA | Montgomery-Selma.
AL | 4143 | 1,320,419 | WALA-TV | MOBILE | Mobile-Pensacola (Ft. Walt).
AL | 84802 | 736,501 | WBIH | SELMA | Montgomery-Selma.
AL | 68427 | 577,653 | WBMM | TUSKEGEE | Montgomery-Selma.
AL | 71221 | 1,852,997 | WBRC | BIRMINGHAM | Birmingham (Ann and Tusc).
AL | 73642 | 862,899 | WCOV-TV | MONTGOMERY | Montgomery-Selma.
AL | 71325 | 1,669,214 | WDBB | BESSEMER | Birmingham (Ann and Tusc).
AL | 32851 | 271,499 | WDFX-TV | OZARK | Dothan.
AL | 43846 | 452,377 | WDHN | DOTHAN | Dothan.
AL | 83740 | 1,365,977 | WDPM-DT | MOBILE | Mobile-Pensacola (Ft. Walt).
AL | 83943 | 1,283,160 | WFNA | GULF SHORES | Mobile-Pensacola (Ft. Walt).
AL | 56642 | 1,677,166 | WGWW | ANNISTON | Birmingham (Ann and Tusc).
AL | 65128 | 1,266,286 | WHDF | FLORENCE | Huntsville-Decatur (Flor).
AL | 48693 | 1,569,885 | WHNT-TV | HUNTSVILLE | Huntsville-Decatur (Flor).
AL | 5360 | 1,837,072 | WIAT | BIRMINGHAM | Birmingham (Ann and Tusc).
AL | 62207 | 526,556 | WIYC | TROY | Montgomery-Selma.
AL | 73187 | 1,499,595 | WKRG-TV | MOBILE | Mobile-Pensacola (Ft. Walt).
AL | 11113 | 950,018 | WLGA | OPELIKA | Columbus, GA (Opelika, AL).
AL | 60829 | 593,205 | WMCF-TV | MONTGOMERY | Montgomery-Selma.
AL | 60827 | 1,395,611 | WMPV-TV | MOBILE | Mobile-Pensacola (Ft. Walt).
AL | 72307 | 667,683 | WNCF | MONTGOMERY | Montgomery-Selma.
AL | 11906 | 1,467,869 | WPMI-TV | MOBILE | Mobile-Pensacola (Ft. Walt).
AL | 73312 | 1,495,586 | WPXH-TV | GADSDEN | Birmingham (Ann and Tusc).
AL | 21258 | 1,548,117 | WSES | TUSCALOOSA | Birmingham.
AL | 13993 | 1,168,636 | WSFA | MONTGOMERY | Montgomery-Selma.
AL | 1002 | 1,947,743 | WTJP-TV | GADSDEN | Birmingham (Ann and Tusc).
AL | 74138 | 1,817,151 | WTTO | HOMEWOOD | Birmingham (Ann and Tusc).
AL | 4152 | 974,532 | WTVY | DOTHAN | Dothan.
AL | 74173 | 1,876,825 | WVTM-TV | BIRMINGHAM | Birmingham (Ann and Tusc).
AL | 77496 | 2,209,921 | WVUA | TUSCALOOSA | Birmingham (Ann and Tusc).
AL | 28119 | 1,557,490 | WZDX | HUNTSVILLE | Huntsville-Decatur (Flor).
AR | 13988 | 861,149 | KAIT | JONESBORO | Jonesboro.
AR | 33440 | 1,212,038 | KARK-TV | LITTLE ROCK | Little Rock-Pine Bluff.
AR | 37005 | 1,186,579 | KARZ-TV | LITTLE ROCK | Little Rock-Pine Bluff.
AR | 41212 | 1,117,403 | KASN | PINE BLUFF | Little Rock-Pine Bluff.
AR | 33543 | 1,257,777 | KATV | LITTLE ROCK | Little Rock-Pine Bluff.
AR | 66469 | 906,728 | KFSM-TV | FORT SMITH | Ft. Smith-Fay-Sprngdl-Rgrs.
AR | 29560 | 818,859 | KFTA-TV | FORT SMITH | Ft. Smith-Fay-Sprngdl-Rgrs.
AR | 60353 | 631,770 | KHBS | FORT SMITH | Ft. Smith-Fay-Sprngdl-Rgrs.
AR | 60354 | 765,360 | KHOG-TV | FAYETTEVILLE | Ft. Smith-Fay-Sprngdl-Rgrs.
AR | 11951 | 1,171,678 | KLRT-TV | LITTLE ROCK | Little Rock-Pine Bluff.
AR | 86534 | 200,764 | KMYA-DT | CAMDEN | Little Rock-Pine Bluff.
AR | 29557 | 815,678 | KNWA-TV | ROGERS | Ft. Smith-Fay-Sprngdl-Rgrs.
AR | 2787 | 1,284,362 | KTHV | LITTLE ROCK | Little Rock-Pine Bluff.
AR | 35692 | 641,139 | KTVE | EL DORADO | Monroe-El Dorado.
AR | 608 | 303,744 | KVTH-DT | HOT SPRINGS | Little Rock-Pine Bluff.
AR | 2784 | 1,466,517 | KVTJ-DT | JONESBORO | Jonesboro.
AR | 607 | 936,328 | KVTN-DT | PINE BLUFF | Little Rock-Pine Bluff.
AR | 78314 | 657,822 | KWBM | HARRISON | Springfield, MO.
AR | 67347 | 498,679 | KWOG | SPRINGDALE | Ft. Smith-Fay-Sprngdl-Rgrs.
AR | 81593 | 570,030 | KXNW | EUREKA SPRINGS | Ft. Smith-Fay-Sprngdl-Rgrs.
AZ | 7143 | 4,170,505 | KASW | PHOENIX | Phoenix (Prescott).
AZ | 35811 | 436,925 | KAZT-TV | PRESCOTT | Phoenix (Prescott).
AZ | 41517 | 347,579 | KFPH-DT | FLAGSTAFF | Phoenix (Prescott).
AZ | 81441 | 113,876 | KFTU-DT | DOUGLAS | Tucson (Sierra Vista).
AZ | 36918 | 1,552,522 | KGUN-TV | TUCSON | Tucson (Sierra Vista).
AZ | 30601 | 1,172,397 | KHRR | TUCSON | Tucson (Sierra Vista).
AZ | 24753 | 199,885 | KMOH-TV | KINGMAN | Phoenix (Prescott).
AZ | 44052 | 1,321,614 | KMSB | TUCSON | Tucson (Sierra Vista).
AZ | 24749 | 332,321 | KNAZ-TV | FLAGSTAFF | Phoenix (Prescott).
AZ | 59440 | 4,183,943 | KNXV-TV | PHOENIX | Phoenix (Prescott).
AZ | 48663 | 1,216,228 | KOLD-TV | TUCSON | Tucson (Sierra Vista).
AZ | 67868 | 4,190,080 | KPAZ-TV | PHOENIX | Phoenix (Prescott).
AZ | 41223 | 4,195,073 | KPHO-TV | PHOENIX | Phoenix (Prescott).
AZ | 35486 | 4,215,834 | KPNX | MESA | Phoenix (Prescott).
AZ | 26655 | 4,186,998 | KPPX-TV | TOLLESON | Phoenix (Prescott).
AZ | 35587 | 4,207,660 | KSAZ-TV | PHOENIX | Phoenix (Prescott).
AZ | 33639 | 396,278 | KSWT | YUMA | Yuma-El Centro.
AZ | 81458 | 4,176,236 | KTAZ | PHOENIX | Phoenix (Prescott).
AZ | 11908 | 1,324,801 | KTTU | TUCSON | Tucson (Sierra Vista).
AZ | 40993 | 4,184,825 | KTVK | PHOENIX | Phoenix (Prescott).
AZ | 35705 | 4,173,111 | KTVW-DT | PHOENIX | Phoenix (Prescott).
AZ | 68886 | 4,191,015 | KUTP | PHOENIX | Phoenix (Prescott).
AZ | 63927 | 1,264,962 | KUVE-DT | GREEN VALLEY | Tucson (Sierra Vista).
AZ | 25735 | 1,317,956 | KVOA | TUCSON | Tucson (Sierra Vista).
AZ | 35095 | 1,129,510 | KWBA-TV | SIERRA VISTA | Tucson (Sierra Vista).
AZ | 74449 | 398,681 | KYMA-DT | YUMA | Yuma-El Centro.
CA | 282 | 17,791,335 | KABC-TV | LOS ANGELES | Los Angeles.
CA | 8263 | 138,085 | KAEF-TV | ARCATA | Eureka.
CA | 67494 | 1,967,744 | KAIL | FRESNO | Fresno-Visalia.
CA | 40517 | 383,886 | KAJB | CALIPATRIA | Yuma-El Centro.
CA | 29234 | 11,151,141 | KAZA-TV | AVALON | Los Angeles.
CA | 4148 | 1,510,400 | KBAK-TV | BAKERSFIELD | Bakersfield.
CA | 69619 | 8,020,424 | KBCW | SAN FRANCISCO | San Francisco-Oak-San Jose.
CA | 56384 | 17,343,236 | KBEH | GARDEN GROVE | Los Angeles.
CA | 58618 | 135,249 | KBVU | EUREKA | Eureka.
CA | 21422 | 17,734,310 | KCAL-TV | LOS ANGELES | Los Angeles.
CA | 14867 | 3,094,778 | KCBA | SALINAS | Monterey-Salinas.
CA | 9628 | 17,595,935 | KCBS-TV | LOS ANGELES | Los Angeles.
CA | 71586 | 8,048,427 | KCNS | SAN FRANCISCO | San Francisco-Oak-San Jose.
CA | 33742 | 17,976,764 | KCOP-TV | LOS ANGELES | Los Angeles.
CA | 63165 | 664,655 | KCOY-TV | SANTA MARIA | SantaBarbra-SanMar-SanLuOb.
CA | 33875 | 10,612,483 | KCRA-TV | SACRAMENTO | Sacramnto-Stkton-Modesto.
CA | 58605 | 630,068 | KCVU | PARADISE | Chico-Redding.
CA | 24518 | 17,564,367 | KDOC-TV | ANAHEIM | Los Angeles.
CA | 33778 | 7,906,408 | KDTV-DT | SAN FRANCISCO | San Francisco-Oak-San Jose.
CA | 51208 | 399,372 | KECY-TV | EL CENTRO | Yuma-El Centro.
CA | 34440 | 4,005,296 | KEMO-TV | FREMONT | San Francisco-Oak-San Jose.
CA | 40878 | 1,285,357 | KERO-TV | BAKERSFIELD | Bakersfield.
CA | 25577 | 917,395 | KESQ-TV | PALM SPRINGS | Palm Springs.
CA | 60637 | 1,419,564 | KEYT-TV | SANTA BARBARA | SantaBarbra-SanMar-SanLuOb.
CA | 42122 | 3,947,735 | KFMB-TV | SAN DIEGO | San Diego.
CA | 59013 | 1,721,275 | KFRE-TV | SANGER | Fresno-Visalia.
CA | 51429 | 7,348,828 | KFSF-DT | VALLEJO | San Francisco-Oak-San Jose.
CA | 8620 | 1,747,889 | KFSN-TV | FRESNO | Fresno-Visalia.
CA | 60549 | 17,560,679 | KFTR-DT | ONTARIO | Los Angeles.
CA | 34439 | 1,807,731 | KFTV-DT | HANFORD | Fresno-Visalia.
CA | 34459 | 917,927 | KGET-TV | BAKERSFIELD | Bakersfield.
CA | 23302 | 1,759,725 | KGMC | CLOVIS | Fresno-Visalia.
CA | 34470 | 8,283,429 | KGO-TV | SAN FRANCISCO | San Francisco-Oak-San Jose.
CA | 56034 | 1,699,131 | KGPE | FRESNO | Fresno-Visalia.
CA | 40876 | 3,960,667 | KGTV | SAN DIEGO | San Diego.
CA | 24508 | 627,256 | KHSL-TV | CHICO | Chico-Redding.
CA | 34564 | 8,233,041 | KICU-TV | SAN JOSE | San Francisco-Oak-San Jose.
CA | 53382 | 174,390 | KIEM-TV | EUREKA | Eureka.
CA | 63865 | 17,014,158 | KILM | INGLEWOOD | Los Angeles.
CA | 26249 | 2,400,317 | KION-TV | MONTEREY | Monterey-Salinas.
CA | 14000 | 17,691,186 | KJLA | VENTURA | Los Angeles.
CA | 42640 | 137,375 | KJRW | EUREKA | Eureka.
CA | 22644 | 7,902,064 | KKPX-TV | SAN JOSE | San Francisco-Oak-San Jose.
CA | 51499 | 10,691,054 | KMAX-TV | SACRAMENTO | Sacramnto-Stkton-Modesto.
CA | 35123 | 17,628,354 | KMEX-DT | LOS ANGELES | Los Angeles.
CA | 16749 | 862,440 | KMIR-TV | PALM SPRINGS | Palm Springs.
CA | 51488 | 1,725,397 | KMPH-TV | VISALIA | Fresno-Visalia.
CA | 47906 | 17,859,647 | KNBC | LOS ANGELES | Los Angeles.
CA | 35277 | 3,541,824 | KNSD | SAN DIEGO | San Diego.
CA | 58608 | 2,092,512 | KNSO | MERCED | Fresno-Visalia.
CA | 35280 | 8,022,662 | KNTV | SAN JOSE | San Francisco-Oak-San Jose.
CA | 33745 | 495,403 | KNVN | CHICO | Chico-Redding.
CA | 51189 | 8,082,202 | KOFY-TV | SAN FRANCISCO | San Francisco-Oak-San Jose.
CA | 56550 | 10,759,811 | KOVR | STOCKTON | Sacramnto-Stkton-Modesto.
CA | 25452 | 8,340,753 | KPIX-TV | SAN FRANCISCO | San Francisco-Oak-San Jose.
CA | 12144 | 1,731,370 | KPMR | SANTA BARBARA | SantaBarbra-SanMar-SanLuOb.
CA | 58978 | 17,058,741 | KPXN-TV | SAN BERNARDINO | Los Angeles.
CA | 10242 | 9,931,378 | KQCA | STOCKTON | Sacramnto-Stkton-Modesto.
CA | 8378 | 202,204 | KQSL | FORT BRAGG | San Fran-Oakland-San Jose.
CA | 22161 | 17,589,371 | KRCA | RIVERSIDE | Los Angeles.
CA | 8291 | 485,749 | KRCR-TV | REDDING | Chico-Redding.
CA | 65526 | 8,050,508 | KRON-TV | SAN FRANCISCO | San Francisco-Oak-San Jose.
CA | 19653 | 5,083,461 | KSBW | SALINAS | Monterey-Salinas.
CA | 19654 | 535,029 | KSBY | SAN LUIS OBISPO | SantaBarbra-SanMar-SanLuOb.
CA | 35608 | 17,447,166 | KSCI | LONG BEACH | Los Angeles.
CA | 35594 | 1,749,448 | KSEE | FRESNO | Fresno-Visalia.
CA | 35611 | 1,251,045 | KSMS-TV | MONTEREY | Monterey-Salinas.
CA | 52953 | 6,745,180 | KSPX-TV | SACRAMENTO | Sacramnto-Stkton-Modesto.
CA | 64987 | 7,645,340 | KSTS | SAN JOSE | San Francisco-Oak-San Jose.
CA | 58827 | 3,787,157 | KSWB-TV | SAN DIEGO | San Diego.
CA | 12930 | 471,882 | KTAS | SAN LUIS OBISPO | SantaBarbra-SanMar-SanLuOb.
CA | 67884 | 17,795,677 | KTBN-TV | SANTA ANA | Los Angeles.
CA | 35512 | 2,162,454 | KTFF-DT | PORTERVILLE | Fresno-Visalia.
CA | 20871 | 6,969,307 | KTFK-DT | STOCKTON | Sacramnto-Stkton-Modesto.
CA | 35670 | 17,994,407 | KTLA | LOS ANGELES | Los Angeles.
CA | 49153 | 6,079,057 | KTLN-TV | PALO ALTO | San Francisco-Oak-San Jose.
CA | 21533 | 8,048,427 | KTNC-TV | CONCORD | San Francisco-Oak-San Jose.
CA | 37511 | 7,450,985 | KTSF | SAN FRANCISCO | San Francisco-Oak-San Jose.
CA | 22208 | 17,952,596 | KTTV | LOS ANGELES | Los Angeles.
CA | 35703 | 7,913,996 | KTVU | OAKLAND | San Francisco-Oak-San Jose.
CA | 10205 | 7,355,088 | KTXL | SACRAMENTO | Sacramnto-Stkton-Modesto.
CA | 10238 | 3,572,818 | KUSI-TV | SAN DIEGO | San Diego.
CA | 7700 | 1,006,905 | KUVI-DT | BAKERSFIELD | Bakersfield.
CA | 58609 | 4,043,413 | KUVS-DT | MODESTO | Sacramnto-Stkton-Modesto.
CA | 19783 | 17,925,427 | KVEA | CORONA | Los Angeles.
CA | 16729 | 6,145,526 | KVMD | TWENTYNINE PALMS | Los Angeles.
CA | 83825 | 26,711 | KVME-TV | BISHOP | Los Angeles.
CA | 36170 | 396,495 | KVYE | EL CENTRO | Yuma-El Centro.
CA | 26231 | 17,343,236 | KWHY-TV | LOS ANGELES | Los Angeles.
CA | 55083 | 17,653,164 | KXLA | RANCHO PALOS VERDES | Los Angeles.
CA | 25048 | 10,759,864 | KXTV | SACRAMENTO | Sacramnto-Stkton-Modesto.
CO | 63158 | 2,798,103 | KCDO-TV | STERLING | Denver.
CO | 57219 | 3,874,159 | KCEC | BOULDER | Denver.
CO | 47903 | 3,794,400 | KCNC-TV | DENVER | Denver.
CO | 38375 | 3,376,799 | KDEN-TV | LONGMONT | Denver.
CO | 126 | 3,430,717 | KDVR | DENVER | Denver.
CO | 37101 | 3,098,889 | KETD | CASTLE ROCK | Denver.
CO | 125 | 795,114 | KFCT | FORT COLLINS | Denver.
CO | 31597 | 186,473 | KFQX | GRAND JUNCTION | Grand Junction-Montrose.
CO | 52593 | 270,089 | KGBY | GRAND JUNCTION | Grand Junction-Montrose.
CO | 24766 | 206,018 | KKCO | GRAND JUNCTION | Grand Junction-Montrose.
CO | 35037 | 2,795,275 | KKTV | COLORADO SPRINGS | Colorado Springs-Pueblo.
CO | 40875 | 3,815,253 | KMGH-TV | DENVER | Denver.
CO | 59014 | 1,391,946 | KOAA-TV | PUEBLO | Colorado Springs-Pueblo.
CO | 166510 | 3,402,022 | KPJR-TV | GREELEY | Denver.
CO | 68695 | 3,399,664 | KPXC-TV | DENVER | Denver.
CO | 52579 | 2,622,603 | KRDO-TV | COLORADO SPRINGS | Colorado Springs-Pueblo.
CO | 70578 | 149,306 | KREG-TV | GLENWOOD SPRINGS | Denver.
CO | 70596 | 145,700 | KREX-TV | GRAND JUNCTION | Grand Junction-Montrose.
CO | 70579 | 74,963 | KREY-TV | MONTROSE | Grand Junction-Montrose.
CO | 48589 | 148,079 | KREZ-TV | DURANGO | Albuquerque-Santa Fe.
CO | 82613 | 96,062 | KRTN-TV | DURANGO | Albuquerque-Santa Fe.
CO | 24514 | 3,265,713 | KTFD-TV | DENVER | Denver.
CO | 68581 | 3,845,148 | KTVD | DENVER | Denver.
CO | 23074 | 3,803,461 | KUSA | DENVER | Denver.
CO | 166331 | 2,711,724 | KVSN-DT | PUEBLO | Colorado Springs-Pueblo.
CO | 35883 | 3,706,495 | KWGN-TV | DENVER | Denver.
CO | 35991 | 1,843,363 | KXRM-TV | COLORADO SPRINGS | Colorado Springs-Pueblo.
CT | 14050 | 4,776,733 | WCCT-TV | WATERBURY | Hartford & New Haven.
CT | 33081 | 4,836,344 | WCTX | NEW HAVEN | Hartford & New Haven.
CT | 53115 | 4,818,020 | WFSB | HARTFORD | Hartford & New Haven.
CT | 51980 | 4,851,563 | WHPX-TV | NEW LONDON | Hartford & New Haven.
CT | 147 | 5,314,290 | WTIC-TV | HARTFORD | Hartford & New Haven.
CT | 74109 | 7,844,936 | WTNH | NEW HAVEN | Hartford & New Haven.
CT | 3072 | 3,973,310 | WUVN | HARTFORD | Hartford & New Haven.
CT | 74170 | 4,964,395 | WVIT | NEW BRITAIN | Hartford & New Haven.
CT | 70493 | 5,996,408 | WZME | BRIDGEPORT | New York.
DC | 51567 | 7,869,833 | WDCA | WASHINGTON | Washington, DC (Hagrstwn).
DC | 30576 | 8,171,829 | WDCW | WASHINGTON | Washington, DC (Hagrstwn).
DC | 1051 | 8,970,526 | WJLA-TV | WASHINGTON | Washington, DC (Hagrstwn).
DC | 47904 | 8,001,507 | WRC-TV | WASHINGTON | Washington, DC (Hagrstwn).
DC | 22207 | 8,069,350 | WTTG | WASHINGTON | Washington, DC (Hagrstwn).
DC | 65593 | 8,970,526 | WUSA | WASHINGTON | Washington, DC (Hagrstwn).
DE | 1283 | 11,594,463 | KJWP | WILMINGTON | Philadelphia.
DE | 189357 | 6,384,827 | WMDE | DOVER | Washington, DC (Hagrstwn).
DE | 51984 | 8,206,117 | WPPX-TV | WILMINGTON | Philadelphia.
FL | 60018 | 3,967,118 | WACX | LEESBURG | Orlando-Daytona Bch-Melbrn.
FL | 60536 | 5,406,932 | WAMI-DT | HOLLYWOOD | Miami-Ft. Lauderdale.
FL | 54938 | 553,676 | WAWD | FORT WALTON BEACH | Mobile-Pensacola (Ft. Walt).
FL | 71085 | 2,046,391 | WBBH-TV | FORT MYERS | Ft. Myers-Naples.
FL | 12497 | 5,349,613 | WBFS-TV | MIAMI | Miami-Ft. Lauderdale.
FL | 81594 | 323,268 | WBIF | MARIANNA | Panama City.
FL | 16993 | 977,492 | WCJB-TV | GAINESVILLE | Gainesville.
FL | 11125 | 4,097,389 | WCLF | CLEARWATER | Tampa-St. Pete (Sarasota).
FL | 29712 | 1,582,959 | WCWJ | JACKSONVILLE | Jacksonville.
FL | 71363 | 1,524,131 | WEAR-TV | PENSACOLA | Mobile-Pensacola (Ft. Walt).
FL | 25738 | 4,107,172 | WESH | DAYTONA BEACH | Orlando-Daytona Bch-Melbrn.
FL | 81669 | 814,185 | WFBD | DESTIN | Mobile-Pensacola (Ft. Walt).
FL | 11123 | 2,759,457 | WFGC | PALM BEACH | West Palm Beach-Ft. Pierce.
FL | 6554 | 1,440,245 | WFGX | FORT WALTON BEACH | Mobile-Pensacola (Ft. Walt).
FL | 64592 | 5,450,176 | WFLA-TV | TAMPA | Tampa-St. Pete (Sarasota).
FL | 39736 | 5,730,443 | WFLX | WEST PALM BEACH | West Palm Beach-Ft. Pierce.
FL | 47902 | 5,398,266 | WFOR-TV | MIAMI | Miami-Ft. Lauderdale.
FL | 11909 | 1,602,888 | WFOX-TV | JACKSONVILLE | Jacksonville.
FL | 64588 | 5,077,970 | WFTS-TV | TAMPA | Tampa-St. Pete (Sarasota).
FL | 16788 | 4,523,828 | WFTT-TV | VENICE | Tampa-St. Pete (Sarasota).
FL | 72076 | 3,849,576 | WFTV | ORLANDO | Orlando-Daytona Bch-Melbrn.
FL | 70649 | 1,775,097 | WFTX-TV | CAPE CORAL | Ft. Myers-Naples.
FL | 22245 | 211,721 | WFXU | LIVE OAK | Tallahassee-Thomasville.
FL | 27387 | 43,037 | WGEN-TV | KEY WEST | Miami-Ft. Lauderdale.
FL | 7727 | 759,234 | WGFL | HIGH SPRINGS | Gainesville.
FL | 10894 | 1,302,764 | WHBR | PENSACOLA | Mobile-Pensacola (Ft. Walt).
FL | 83929 | 5,640,324 | WHDT | STUART | West Palm Beach-Ft. Pierce.
FL | 67971 | 5,417,409 | WHFT-TV | MIAMI | Miami-Ft. Lauderdale.
FL | 24582 | 3,825,468 | WHLV-TV | COCOA | Orlando-Daytona Bch-Melbrn.
FL | 22093 | 1,851,105 | WINK-TV | FORT MYERS | Ft. Myers-Naples.
FL | 35576 | 1,630,782 | WJAX-TV | JACKSONVILLE | Jacksonville.
FL | 73136 | 856,973 | WJHG-TV | PANAMA CITY | Panama City.
FL | 41210 | 1,347,474 | WJTC | PENSACOLA | Mobile-Pensacola (Ft. Walt).
FL | 53116 | 1,608,682 | WJXT | JACKSONVILLE | Jacksonville.
FL | 11893 | 1,618,191 | WJXX | ORANGE PARK | Jacksonville.
FL | 53465 | 4,032,154 | WKCF | CLERMONT | Orlando-Daytona Bch-Melbrn.
FL | 71293 | 3,803,492 | WKMG-TV | ORLANDO | Orlando-Daytona Bch-Melbrn.
FL | 73230 | 5,427,398 | WLTV-DT | MIAMI | Miami-Ft. Lauderdale.
FL | 66398 | 935,027 | WMBB | PANAMA CITY | Panama City.
FL | 53819 | 5,386,517 | WMOR-TV | LAKELAND | Tampa-St. Pete (Sarasota).
FL | 83965 | 633,243 | WNBW-DT | GAINESVILLE | Gainesville.
FL | 41225 | 3,941,895 | WOFL | ORLANDO | Orlando-Daytona Bch-Melbrn.
FL | 70651 | 1,112,408 | WOGX | OCALA | Gainesville.
FL | 67602 | 3,826,498 | WOPX-TV | MELBOURNE | Orlando-Daytona Bch-Melbrn.
FL | 131 | 3,288,537 | WOTF-TV | DAYTONA BEACH | Orlando-Daytona Bch-Melbrn.
FL | 31570 | 637,347 | WPAN | FORT WALTON BEACH | Mobile-Pensacola (Ft. Walt).
FL | 51988 | 3,190,307 | WPBF | TEQUESTA | West Palm Beach-Ft. Pierce.
FL | 4354 | 183,956 | WPCT | PANAMA CITY BEACH | Panama City.
FL | 52527 | 5,788,448 | WPEC | WEST PALM BEACH | West Palm Beach-Ft. Pierce.
FL | 2942 | 425,098 | WPGX | PANAMA CITY | Panama City.
FL | 53113 | 5,587,129 | WPLG | MIAMI | Miami-Ft. Lauderdale.
FL | 59443 | 5,840,102 | WPTV-TV | WEST PALM BEACH | West Palm Beach-Ft. Pierce.
FL | 48608 | 5,206,059 | WPXM-TV | MIAMI | Miami-Ft. Lauderdale.
FL | 27290 | 5,565,072 | WPXP-TV | LAKE WORTH | West Palm Beach-Ft. Pierce.
FL | 54940 | 4,025,123 | WRBW | ORLANDO | Orlando-Daytona Bch-Melbrn.
FL | 55454 | 3,931,023 | WRDQ | ORLANDO | Orlando-Daytona Bch-Melbrn.
FL | 71580 | 1,633,655 | WRXY-TV | TICE | Ft. Myers-Naples.
FL | 72053 | 42,952 | WSBS-TV | KEY WEST | Miami-Ft. Lauderdale.
FL | 64971 | 5,465,435 | WSCV | FORT LAUDERDALE | Miami-Ft. Lauderdale.
FL | 10203 | 5,316,261 | WSFL-TV | MIAMI | Miami-Ft. Lauderdale.
FL | 63840 | 5,588,760 | WSVN | MIAMI | Miami-Ft. Lauderdale.
FL | 82735 | 349,696 | WTLF | TALLAHASSEE | Tallahassee-Thomasville.
FL | 65046 | 1,757,600 | WTLV | JACKSONVILLE | Jacksonville.
FL | 74112 | 4,796,964 | WTOG | ST. PETERSBURG | Tampa-St. Pete (Sarasota).
FL | 11290 | 5,625,517 | WTSP | ST. PETERSBURG | Tampa-St. Pete (Sarasota).
FL | 4108 | 5,365,984 | WTTA | ST. PETERSBURG | Tampa-St. Pete (Sarasota).
FL | 63154 | 5,458,451 | WTVJ | MIAMI | Miami-Ft. Lauderdale.
FL | 68569 | 5,475,385 | WTVT | TAMPA | Tampa-St. Pete (Sarasota).
FL | 35575 | 2,962,933 | WTVX | FORT PIERCE | West Palm Beach-Ft. Pierce.
FL | 66908 | 1,032,942 | WTWC-TV | TALLAHASSEE | Tallahassee-Thomasville.
FL | 41065 | 1,054,514 | WTXL-TV | TALLAHASSEE | Tallahassee-Thomasville.
FL | 60559 | 4,283,915 | WVEA-TV | TAMPA | Tampa-St. Pete (Sarasota).
FL | 5802 | 3,607,540 | WVEN-TV | MELBOURNE | Orlando-Daytona Bch-Melbrn.
FL | 61251 | 3,340,133 | WWSB | SARASOTA | Tampa-St. Pete (Sarasota).
FL | 61504 | 1,749,847 | WXCW | NAPLES | Ft. Myers-Naples.
FL | 6601 | 4,566,037 | WXPX-TV | BRADENTON | Tampa-St. Pete (Sarasota).
FL | 19183 | 1,916,098 | WZVN-TV | NAPLES | Ft. Myers-Naples.
GA | 70689 | 6,000,355 | WAGA-TV | ATLANTA | Atlanta.
GA | 70713 | 773,899 | WALB | ALBANY | Albany, GA.
GA | 22819 | 5,882,837 | WATL | ATLANTA | Atlanta.
GA | 31590 | 1,049,825 | WCTV | THOMASVILLE | Tallahassee-Thomasville.
GA | 60825 | 1,491,382 | WELF-TV | DALTON | Chattanooga.
GA | 3228 | 1,126,348 | WFXG | AUGUSTA | Augusta-Aiken.
GA | 70815 | 793,637 | WFXL | ALBANY | Albany, GA.
GA | 72120 | 6,027,276 | WGCL-TV | ATLANTA | Atlanta.
GA | 24618 | 742,533 | WGNM | MACON | Macon.
GA | 69446 | 867,516 | WGSA | BAXLEY | Savannah.
GA | 63329 | 1,061,654 | WGTA | TOCCOA | Atlanta.
GA | 58262 | 759,936 | WGXA | MACON | Macon.
GA | 68058 | 5,901,052 | WHSG-TV | MONROE | Atlanta.
GA | 27140 | 1,601,531 | WJBF | AUGUSTA | Augusta-Aiken.
GA | 37174 | 938,086 | WJCL | SAVANNAH | Savannah.
GA | 37179 | 689,521 | WLTZ | COLUMBUS | Columbus, GA (Opelika, AL).
GA | 46991 | 1,185,678 | WMAZ-TV | MACON | Macon.
GA | 43847 | 601,894 | WMGT-TV | MACON | Macon.
GA | 64033 | 5,986,720 | WPCH-TV | ATLANTA | Atlanta.
GA | 54728 | 559,495 | WPGA-TV | PERRY | Macon.
GA | 51969 | 6,594,205 | WPXA-TV | ROME | Atlanta.
GA | 71236 | 1,561,014 | WPXC-TV | BRUNSWICK | Jacksonville.
GA | 3359 | 1,493,140 | WRBL | COLUMBUS | Columbus, GA (Opelika, AL).
GA | 73937 | 1,564,584 | WRDW-TV | AUGUSTA | Augusta-Aiken.
GA | 48662 | 979,772 | WSAV-TV | SAVANNAH | Savannah.
GA | 23960 | 5,893,810 | WSB-TV | ATLANTA | Atlanta.
GA | 63867 | 345,428 | WSST-TV | CORDELE | Albany, GA.
GA | 28155 | 363,166 | WSWG | VALDOSTA | Albany, GA.
GA | 23486 | 1,038,086 | WTLH | BAINBRIDGE | Tallahassee-Thomasville.
GA | 590 | 993,098 | WTOC-TV | SAVANNAH | Savannah.
GA | 595 | 1,498,667 | WTVM | COLUMBUS | Columbus, GA (Opelika, AL).
GA | 6900 | 5,946,477 | WUPA | ATLANTA | Atlanta.
GA | 48813 | 5,888,275 | WUVG-DT | ATHENS | Atlanta.
GA | 51163 | 6,179,680 | WXIA-TV | ATLANTA | Atlanta.
GA | 12472 | 700,123 | WXTX | COLUMBUS | Columbus, GA (Opelika, AL).
GU | 29232 | 159,358 | KTGM | TAMUNING | Guam.
GU | 51233 | 159,358 | KUAM-TV | HAGATNA | Guam.
HI | 3246 | 955,391 | KAAH-TV | HONOLULU | Honolulu.
HI | 4145 | 188,810 | KAII-TV | WAILUKU | Honolulu.
HI | 65395 | 953,207 | KBFD-DT | HONOLULU | Honolulu.
HI | 36917 | 953,895 | KFVE | HONOLULU | Honolulu.
HI | 34445 | 953,398 | KGMB | HONOLULU | Honolulu.
HI | 36914 | 94,323 | KGMD-TV | HILO | Honolulu.
HI | 36920 | 193,564 | KGMV | WAILUKU | Honolulu.
HI | 4146 | 95,204 | KHAW-TV | HILO | Honolulu.
HI | 34846 | 74,884 | KHBC-TV | HILO | Honolulu.
HI | 34867 | 953,398 | KHNL | HONOLULU | Honolulu.
HI | 4144 | 953,207 | KHON-TV | HONOLULU | Honolulu.
HI | 64544 | 94,226 | KHVO | HILO | Honolulu.
HI | 34527 | 953,896 | KIKU | HONOLULU | Honolulu.
HI | 64548 | 953,207 | KITV | HONOLULU | Honolulu.
HI | 83180 | 955,203 | KKAI | KAILUA | Honolulu.
HI | 664 | 82,902 | KLEI-TV | KAILUA-KONA | Honolulu.
HI | 64551 | 213,060 | KMAU | WAILUKU | Honolulu.
HI | 34859 | 190,829 | KOGG | WAILUKU | Honolulu.
HI | 77483 | 959,493 | KPXO-TV | KANEOHE | Honolulu.
HI | 89714 | 956,178 | KUPU | WAIMANALO | Honolulu.
HI | 37103 | 97,959 | KWHD | HILO | Honolulu.
HI | 36846 | 952,966 | KWHE | HONOLULU | Honolulu.
HI | 37105 | 175,045 | KWHM | WAILUKU | Honolulu.
IA | 11265 | 783,655 | KCAU-TV | SIOUX CITY | Sioux City.
IA | 33710 | 1,102,130 | KCCI | DES MOINES | Des Moines-Ames.
IA | 9719 | 1,180,361 | KCRG-TV | CEDAR RAPIDS | Cedar Rapids-Wtrlo-IWC&Dub.
IA | 51502 | 1,043,811 | KCWI-TV | AMES | Des Moines-Ames.
IA | 78915 | 1,141,990 | KDMI | DES MOINES | Des Moines-Ames.
IA | 56527 | 1,096,220 | KDSM-TV | DES MOINES | Des Moines-Ames.
IA | 81509 | 754,049 | KFPX-TV | NEWTON | Des Moines-Ames.
IA | 35336 | 875,538 | KFXA | CEDAR RAPIDS | Cedar Rapids-Wtrlo-IWC&Dub.
IA | 17625 | 362,313 | KFXB-TV | DUBUQUE | Cedar Rapids-Wtrlo-IWC&Dub.
IA | 25685 | 1,083,213 | KGAN | CEDAR RAPIDS | Cedar Rapids-Wtrlo-IWC&Dub.
IA | 7841 | 888,054 | KGCW | BURLINGTON | Davenport-R.Island-Moline.
IA | 66402 | 702,390 | KIMT | MASON CITY | Rochestr-Mason City-Austin.
IA | 54011 | 960,055 | KLJB | DAVENPORT | Davenport-R.Island-Moline.
IA | 39665 | 701,162 | KMEG | SIOUX CITY | Sioux City.
IA | 77451 | 583,937 | KPTH | SIOUX CITY | Sioux City.
IA | 21156 | 745,935 | KPXR-TV | CEDAR RAPIDS | Cedar Rapids-Wtrlo-IWC&Dub.
IA | 66170 | 688,477 | KTIV | SIOUX CITY | Sioux City.
IA | 35096 | 1,121,676 | KWKB | IOWA CITY | Cedar Rapids-Wtrlo-IWC&Dub.
IA | 6885 | 1,080,156 | KWQC-TV | DAVENPORT | Davenport-R.Island-Moline.
IA | 593 | 1,171,751 | KWWL | WATERLOO | Cedar Rapids-Wtrlo-IWC&Dub.
IA | 53820 | 651,334 | KYOU-TV | OTTUMWA | Ottumwa-Kirksville.
IA | 66221 | 1,151,807 | WHO-DT | DES MOINES | Des Moines-Ames.
IA | 8661 | 1,212,356 | WOI-DT | AMES | Des Moines-Ames.
ID | 49760 | 716,754 | KBOI-TV | BOISE | Boise.
ID | 56028 | 305,509 | KIDK | IDAHO FALLS | Idaho Fals-Pocatllo (Jcksn).
ID | 66258 | 325,086 | KIFI-TV | IDAHO FALLS | Idaho Fals-Pocatllo (Jcksn).
ID | 59255 | 710,819 | KIVI-TV | NAMPA | Boise.
ID | 35097 | 629,939 | KKJB | BOISE | Boise.
ID | 56032 | 164,908 | KLEW-TV | LEWISTON | Spokane.
ID | 35200 | 184,647 | KMVT | TWIN FALLS | Twin Falls.
ID | 59363 | 709,494 | KNIN-TV | CALDWELL | Boise.
ID | 86205 | 255,766 | KPIF | POCATELLO | Idaho Fals-Pocatllo (Jcksn).
ID | 1270 | 271,379 | KPVI-DT | POCATELLO | Idaho Fals-Pocatllo (Jcksn).
ID | 28230 | 714,833 | KTRV-TV | NAMPA | Boise.
ID | 34858 | 719,145 | KTVB | BOISE | Boise.
ID | 78910 | 248,405 | KVUI | POCATELLO | Idaho Fals-Pocatllo (Jcksn).
ID | 1255 | 121,558 | KXTF | TWIN FALLS | Twin Falls.
IL | 70852 | 1,400,271 | WAND | DECATUR | Champaign&Sprngfld-Decatur.
IL | 52280 | 613,812 | WAOE | PEORIA | Peoria-Bloomington.
IL | 9617 | 9,977,169 | WBBM-TV | CHICAGO | Chicago.
IL | 16363 | 981,884 | WBUI | DECATUR | Champaign&Sprngfld-Decatur.
IL | 69544 | 395,106 | WCCU | URBANA | Champaign&Sprngfld-Decatur.
IL | 42124 | 796,609 | WCIA | CHAMPAIGN | Champaign&Sprngfld-Decatur.
IL | 71428 | 9,891,328 | WCIU-TV | CHICAGO | Chicago.
IL | 42116 | 554,002 | WCIX | SPRINGFIELD | Champaign&Sprngfld-Decatur.
IL | 10981 | 9,674,477 | WCPX-TV | CHICAGO | Chicago.
IL | 24801 | 698,238 | WEEK-TV | PEORIA | Peoria-Bloomington.
IL | 22211 | 9,957,301 | WFLD | CHICAGO | Chicago.
IL | 12498 | 9,771,815 | WGBO-DT | JOLIET | Chicago.
IL | 54275 | 333,383 | WGEM-TV | QUINCY | Quincy-Hannibal-Keokuk.
IL | 72115 | 9,942,959 | WGN-TV | CHICAGO | Chicago.
IL | 13950 | 1,807,539 | WHBF-TV | ROCK ISLAND | Davenport-R.Island-Moline.
IL | 6866 | 679,446 | WHOI | PEORIA | Peoria-Bloomington.
IL | 25684 | 1,046,898 | WICD | CHAMPAIGN | Champaign&Sprngfld-Decatur.
IL | 25686 | 1,011,833 | WICS | SPRINGFIELD | Champaign&Sprngfld-Decatur.
IL | 73226 | 10,174,464 | WLS-TV | CHICAGO | Chicago.
IL | 47905 | 9,915,738 | WMAQ-TV | CHICAGO | Chicago.
IL | 42121 | 733,039 | WMBD-TV | PEORIA | Peoria-Bloomington.
IL | 81946 | 946,858 | WMWC-TV | GALESBURG | Davenport-R.Island-Moline.
IL | 40861 | 1,152,104 | WPXS | MOUNT VERNON | St. Louis.
IL | 73319 | 1,079,594 | WQAD-TV | MOLINE | Davenport-R.Island-Moline.
IL | 52408 | 1,326,695 | WQRF-TV | ROCKFORD | Rockford.
IL | 57221 | 2,737,188 | WRBU | EAST ST. LOUIS | St. Louis.
IL | 73940 | 2,303,027 | WREX | ROCKFORD | Rockford.
IL | 62009 | 904,190 | WRSP-TV | SPRINGFIELD | Champaign&Sprngfld-Decatur.
IL | 73999 | 672,560 | WSIL-TV | HARRISBURG | Paducah-Cape Girard-Harsbg.
IL | 70119 | 9,867,825 | WSNS-TV | CHICAGO | Chicago.
IL | 67786 | 584,661 | WTCT | MARION | Paducah-Cape Girard-Harsbg.
IL | 4593 | 334,527 | WTJR | QUINCY | Quincy-Hannibal-Keokuk.
IL | 72945 | 1,409,708 | WTVO | ROCKFORD | Rockford.
IL | 998 | 52,428 | WWTO-TV | NAPERVILLE | Chicago.
IL | 60539 | 9,623,545 | WXFT-DT | AURORA | Chicago.
IL | 5875 | 1,042,140 | WYZZ-TV | BLOOMINGTON | Peoria-Bloomington.
IN | 39270 | 1,108,844 | WANE-TV | FORT WAYNE | Ft. Wayne.
IN | 65247 | 705,549 | WAWV-TV | TERRE HAUTE | Terre Haute.
IN | 68007 | 2,545,363 | WCLJ-TV | BLOOMINGTON | Indianapolis.
IN | 24215 | 847,299 | WEHT | EVANSVILLE | Evansville.
IN | 72041 | 752,417 | WEVV-TV | EVANSVILLE | Evansville.
IN | 25040 | 1,088,489 | WFFT-TV | FORT WAYNE | Ft. Wayne.
IN | 13991 | 731,856 | WFIE | EVANSVILLE | Evansville.
IN | 37102 | 2,847,719 | WHMB-TV | INDIANAPOLIS | Indianapolis.
IN | 36117 | 1,271,796 | WHME-TV | SOUTH BEND | South Bend-Elkhart.
IN | 67787 | 1,001,485 | WINM | ANGOLA | Ft. Wayne.
IN | 10253 | 2,268,782 | WIPX-TV | BLOOMINGTON | Indianapolis.
IN | 13960 | 1,089,665 | WISE-TV | FORT WAYNE | Ft. Wayne.
IN | 39269 | 2,912,963 | WISH-TV | INDIANAPOLIS | Indianapolis.
IN | 32334 | 9,647,321 | WJYS | HAMMOND | Chicago.
IN | 67869 | 3,323,765 | WKOI-TV | RICHMOND | Dayton.
IN | 73204 | 2,243,009 | WLFI-TV | LAFAYETTE | Lafayette, IN.
IN | 34167 | 1,983,992 | WMYO | SALEM | Louisville.
IN | 41674 | 1,807,909 | WNDU-TV | SOUTH BEND | South Bend-Elkhart.
IN | 28462 | 2,485,547 | WNDY-TV | MARION | Indianapolis.
IN | 73905 | 1,083,373 | WPTA | FORT WAYNE | Ft. Wayne.
IN | 48772 | 10,054,485 | WPWR-TV | GARY | Chicago.
IN | 40877 | 2,919,683 | WRTV | INDIANAPOLIS | Indianapolis.
IN | 73983 | 1,691,194 | WSBT-TV | SOUTH BEND | South Bend-Elkhart.
IN | 74007 | 1,522,499 | WSJV | ELKHART | South Bend-Elkhart.
IN | 70655 | 928,934 | WTHI-TV | TERRE HAUTE | Terre Haute.
IN | 70162 | 2,988,174 | WTHR | INDIANAPOLIS | Indianapolis.
IN | 56526 | 2,817,698 | WTTK | KOKOMO | Indianapolis.
IN | 56523 | 2,362,145 | WTTV | BLOOMINGTON | Indianapolis.
IN | 3661 | 791,430 | WTVW | EVANSVILLE | Evansville.
IN | 20426 | 737,757 | WTWO | TERRE HAUTE | Terre Haute.
IN | 146 | 2,721,639 | WXIN | INDIANAPOLIS | Indianapolis.
KS | 11912 | 220,262 | KAAS-TV | SALINA | Wichita-Hutchinson Plus.
KS | 65522 | 803,937 | KAKE | WICHITA | Wichita-Hutchinson Plus.
KS | 66414 | 155,012 | KBSD-DT | ENSIGN | Wichita-Hutchinson Plus.
KS | 66415 | 102,781 | KBSH-DT | HAYS | Wichita-Hutchinson Plus.
KS | 66416 | 49,814 | KBSL-DT | GOODLAND | Wichita-Hutchinson Plus.
KS | 166332 | 796,251 | KDCU-DT | DERBY | Wichita-Hutchinson Plus.
KS | 83992 | 515,708 | KFJX | PITTSBURG | Joplin-Pittsburg.
KS | 65523 | 34,288 | KLBY | COLBY | Wichita-Hutchinson Plus.
KS | 42636 | 2,362,805 | KMCI-TV | LAWRENCE | Kansas City.
KS | 77063 | 761,521 | KMTW | HUTCHINSON | Wichita-Hutchinson Plus.
KS | 58552 | 595,307 | KOAM-TV | PITTSBURG | Joplin-Pittsburg.
KS | 83181 | 83,807 | KOCW | HOISINGTON | Wichita-Hutchinson Plus.
KS | 11911 | 752,513 | KSAS-TV | WICHITA | Wichita-Hutchinson Plus.
KS | 72348 | 915,691 | KSCW-DT | WICHITA | Wichita-Hutchinson Plus.
KS | 72359 | 174,135 | KSNC | GREAT BEND | Wichita-Hutchinson Plus.
KS | 72361 | 145,058 | KSNG | GARDEN CITY | Wichita-Hutchinson Plus.
KS | 67335 | 622,818 | KSNT | TOPEKA | Topeka.
KS | 72358 | 789,136 | KSNW | WICHITA | Wichita-Hutchinson Plus.
KS | 166546 | 382,328 | KSQA | TOPEKA | Topeka.
KS | 49397 | 567,958 | KTKA-TV | TOPEKA | Topeka.
KS | 65535 | 149,642 | KUPK | GARDEN CITY | Wichita-Hutchinson Plus.
KS | 66413 | 883,647 | KWCH-DT | HUTCHINSON | Wichita-Hutchinson Plus.
KS | 63160 | 1,089,708 | WIBW-TV | TOPEKA | Topeka.
KY | 37809 | 1,575,363 | WAGV | HARLAN | Knoxville.
KY | 13989 | 1,846,212 | WAVE | LOUISVILLE | Louisville.
KY | 4692 | 963,413 | WBKO | BOWLING GREEN | Bowling Green.
KY | 73692 | 1,699,683 | WBNA | LOUISVILLE | Louisville.
KY | 39561 | 621,903 | WDKA | PADUCAH | Paducah-Cape Girard-Harsbg.
KY | 64017 | 1,159,126 | WDKY-TV | DANVILLE | Lexington.
KY | 28476 | 1,987,708 | WDRB | LOUISVILLE | Louisville.
KY | 32327 | 1,982,756 | WHAS-TV | LOUISVILLE | Louisville.
KY | 24914 | 1,138,566 | WKYT-TV | LEXINGTON | Lexington.
KY | 73203 | 969,543 | WLEX-TV | LEXINGTON | Lexington.
KY | 27696 | 1,433,458 | WLJC-TV | BEATTYVILLE | Lexington.
KY | 53939 | 1,854,829 | WLKY | LOUISVILLE | Louisville.
KY | 61217 | 385,619 | WNKY | BOWLING GREEN | Bowling Green.
KY | 51991 | 883,812 | WPSD-TV | PADUCAH | Paducah-Cape Girard-Harsbg.
KY | 67798 | 593,934 | WTSF | ASHLAND | Charleston-Huntington.
KY | 51597 | 989,180 | WTVQ-DT | LEXINGTON | Lexington.
KY | 23128 | 1,147,454 | WUPX-TV | MOREHEAD | Lexington.
KY | 39738 | 2,825,570 | WXIX-TV | NEWPORT | Cincinnati.
KY | 24915 | 1,180,276 | WYMT-TV | HAZARD | Lexington.
LA | 33261 | 877,965 | KADN-TV | LAFAYETTE | Lafayette, LA.
LA | 51598 | 943,307 | KALB-TV | ALEXANDRIA | Alexandria, LA.
LA | 3658 | 703,234 | KARD | WEST MONROE | Monroe-El, Dorado.
LA | 33471 | 1,348,897 | KATC | LAFAYETTE | Lafayette, LA.
LA | 16940 | 463,075 | KBCA | ALEXANDRIA | Alexandria, LA.
LA | 83945 | 1,645,641 | KGLA-DT | HAMMOND | New Orleans.
LA | 52907 | 367,212 | KLAX-TV | ALEXANDRIA | Alexandria, LA.
LA | 35059 | 1,355,890 | KLFY-TV | LAFAYETTE | Lafayette, LA.
LA | 82476 | 1,216,359 | KLWB | NEW IBERIA | Lafayette, LA.
LA | 38584 | 258,282 | KMCT-TV | WEST MONROE | Monroe-El, Dorado.
LA | 52046 | 711,951 | KMLU | COLUMBIA | Monroe-El Dorado.
LA | 12525 | 1,068,120 | KMSS-TV | SHREVEPORT | Shreveport.
LA | 48975 | 733,097 | KNOE-TV | MONROE | Monroe-El Dorado.
LA | 13994 | 1,406,085 | KPLC | LAKE CHARLES | Lake Charles.
LA | 81507 | 1,026,423 | KPXJ | MINDEN | Shreveport.
LA | 73706 | 937,203 | KSHV-TV | SHREVEPORT | Shreveport.
LA | 70482 | 1,009,108 | KSLA | SHREVEPORT | Shreveport.
LA | 35652 | 1,163,228 | KTBS-TV | SHREVEPORT | Shreveport.
LA | 35852 | 743,167 | KVHP | LAKE CHARLES | Lake Charles.
LA | 589 | 1,857,882 | WAFB | BATON ROUGE | Baton Rouge.
LA | 38616 | 2,223,336 | WBRZ-TV | BATON ROUGE | Baton Rouge.
LA | 71357 | 1,613,076 | WDSU | NEW ORLEANS | New Orleans.
LA | 12520 | 1,739,804 | WGMB-TV | BATON ROUGE | Baton Rouge.
LA | 72119 | 1,641,765 | WGNO | NEW ORLEANS | New Orleans.
LA | 37106 | 1,499,653 | WHNO | NEW ORLEANS | New Orleans.
LA | 54280 | 1,632,389 | WNOL-TV | NEW ORLEANS | New Orleans.
LA | 21729 | 1,566,829 | WPXL-TV | NEW ORLEANS | New Orleans.
LA | 13938 | 1,632,100 | WUPL | SLIDELL | New Orleans.
LA | 70021 | 1,897,179 | WVLA-TV | BATON ROUGE | Baton Rouge.
LA | 4149 | 1,658,125 | WVUE-DT | NEW ORLEANS | New Orleans.
LA | 74192 | 1,756,442 | WWL-TV | NEW ORLEANS | New Orleans.
MA | 7692 | 6,736,080 | WBPX-TV | BOSTON | Boston (Manchester).
MA | 25456 | 7,764,394 | WBZ-TV | BOSTON | Boston (Manchester).
MA | 74419 | 1,979,058 | WCDC-TV | ADAMS | Albany-Schenectady-Troy.
MA | 65684 | 7,741,540 | WCVB-TV | BOSTON | Boston (Manchester).
MA | 6476 | 1,138,218 | WDPX-TV | WOBURN | Boston (Manchester).
MA | 6463 | 7,366,667 | WFXT | BOSTON | Boston (Manchester).
MA | 25682 | 3,443,447 | WGGB-TV | SPRINGFIELD | Springfield-Holyoke.
MA | 72145 | 7,319,659 | WHDH | BOSTON | Boston (Manchester).
MA | 22591 | 5,705,441 | WLNE-TV | NEW BEDFORD | Providence-New Bedford.
MA | 3978 | 3,281,532 | WLWC | NEW BEDFORD | Providence-New Bedford.
MA | 41436 | 7,144,273 | WMFP | FOXBOROUGH | Boston (Manchester).
MA | 136751 | 1,540,430 | WNYA | PITTSFIELD | Albany-Schenectady-Troy.
MA | 73982 | 7,161,406 | WSBK-TV | BOSTON | Boston (Manchester).
MA | 60551 | 7,209,571 | WUNI | MARLBOROUGH | Boston (Manchester).
MA | 30577 | 8,557,497 | WUTF-TV | WORCESTER | Boston (Manchester).
MA | 23671 | 5,792,048 | WWDP | NORWELL | Boston (Manchester).
MA | 6868 | 3,838,272 | WWLP | SPRINGFIELD | Springfield-Holyoke.
MD | 65696 | 9,596,587 | WBAL-TV | BALTIMORE | Baltimore.
MD | 10758 | 8,509,757 | WBFF | BALTIMORE | Baltimore.
MD | 71218 | 783,438 | WBOC-TV | SALISBURY | Salisbury.
MD | 25045 | 2,667,801 | WDVM-TV | HAGERSTOWN | Washington, DC (Hagrstwn).
MD | 10259 | 8,970,526 | WJAL | SILVER SPRING | Washington, DC (Hagrstwn).
MD | 25455 | 9,366,690 | WJZ-TV | BALTIMORE | Baltimore.
MD | 59442 | 9,203,498 | WMAR-TV | BALTIMORE | Baltimore.
MD | 16455 | 731,931 | WMDT | SALISBURY | Salisbury.
MD | 7933 | 8,867,805 | WNUV | BALTIMORE | Baltimore.
MD | 60552 | 7,450,690 | WUTB | BALTIMORE | Baltimore.
ME | 17005 | 530,773 | WABI-TV | BANGOR | Bangor.
ME | 48305 | 64,721 | WAGM-TV | PRESQUE ISLE | Presque Isle.
ME | 39664 | 1,682,955 | WCSH | PORTLAND | Portland-Auburn.
ME | 25683 | 1,308,896 | WGME-TV | PORTLAND | Portland-Auburn.
ME | 39644 | 373,129 | WLBZ | BANGOR | Bangor.
ME | 73288 | 1,940,292 | WMTW | POLAND SPRING | Portland-Auburn.
ME | 84088 | 870,698 | WPFO | WATERVILLE | Portland-Auburn.
ME | 48408 | 671,201 | WPME | LEWISTON | Portland-Auburn.
ME | 53065 | 760,491 | WPXT | PORTLAND | Portland-Auburn.
ME | 3667 | 368,022 | WVII-TV | BANGOR | Bangor.
MI | 455 | 4,610,514 | WADL | MOUNT CLEMENS | Detroit.
MI | 67792 | 1,992,340 | WAQP | SAGINAW | Flint-Saginaw-Bay City.
MI | 67048 | 136,823 | WBKB-TV | ALPENA | Alpena.
MI | 76001 | 55,655 | WBKP | CALUMET | Marquette.
MI | 82627 | 987,886 | WBSF | BAY CITY | Flint-Saginaw-Bay City.
MI | 59281 | 126,472 | WBUP | ISHPEMING | Marquette.
MI | 53114 | 5,425,162 | WDIV-TV | DETROIT | Detroit.
MI | 72052 | 2,664,319 | WEYI-TV | SAGINAW | Flint-Saginaw-Bay City.
MI | 25396 | 537,340 | WFQX-TV | CADILLAC | Traverse City-Cadillac.
MI | 25395 | 217,655 | WFUP | VANDERBILT | Traverse City-Cadillac.
MI | 59279 | 95,618 | WGTQ | SAULT STE. MARIE | Traverse City-Cadillac.
MI | 59280 | 358,543 | WGTU | TRAVERSE CITY | Traverse City-Cadillac.
MI | 6863 | 3,378,644 | WILX-TV | ONONDAGA | Lansing.
MI | 73123 | 5,748,623 | WJBK | DETROIT | Detroit.
MI | 9630 | 160,991 | WJMN-TV | ESCANABA | Marquette.
MI | 21735 | 2,788,684 | WJRT-TV | FLINT | Flint-Saginaw-Bay City.
MI | 51570 | 4,986,483 | WKBD-TV | DETROIT | Detroit.
MI | 36533 | 1,865,669 | WLAJ | LANSING | Lansing.
MI | 11033 | 2,041,934 | WLLA | KALAMAZOO | Grand Rapids-Kalmzoo-B. Crk.
MI | 74420 | 3,664,748 | WLNS-TV | LANSING | Lansing.
MI | 21259 | 92,246 | WLUC-TV | MARQUETTE | Marquette.
MI | 74211 | 5,601,422 | WMYD | DETROIT | Detroit.
MI | 41221 | 1,617,082 | WNEM-TV | BAY CITY | Flint-Saginaw-Bay City.
MI | 36838 | 2,507,053 | WOOD-TV | GRAND RAPIDS | Grand Rapids-Kalmzoo-B. Crk.
MI | 10212 | 2,277,566 | WOTV | BATTLE CREEK | Grand Rapids-Kalmzoo-B. Crk.
MI | 21253 | 411,213 | WPBN-TV | TRAVERSE CITY | Traverse City-Cadillac.
MI | 5800 | 5,133,364 | WPXD-TV | ANN ARBOR | Detroit.
MI | 21737 | 2,339,224 | WSMH | FLINT | Flint-Saginaw-Bay City.
MI | 74094 | 1,516,677 | WSYM-TV | LANSING | Lansing.
MI | 67781 | 1,622,365 | WTLJ | MUSKEGON | Grand Rapids-Kalmzoo-B. Crk.
MI | 21254 | 83,379 | WTOM-TV | CHEBOYGAN | Traverse City-Cadillac.
MI | 72123 | 5,374,064 | WWJ-TV | DETROIT | Detroit.
MI | 74195 | 2,460,942 | WWMT | KALAMAZOO | Grand Rapids-Kalmzoo-B. Crk.
MI | 26994 | 1,034,174 | WWTV | CADILLAC | Traverse City-Cadillac.
MI | 26993 | 116,638 | WWUP-TV | SAULT STE. MARIE | Traverse City-Cadillac.
MI | 68433 | 1,988,970 | WXMI | GRAND RAPIDS | Grand Rapids-Kalmzoo-B. Crk.
MI | 10267 | 5,591,434 | WXYZ-TV | DETROIT | Detroit.
MI | 81448 | 73,423 | WZMQ | MARQUETTE | Marquette.
MI | 71871 | 2,094,029 | WZPX-TV | BATTLE CREEK | Grand Rapids-Kalmzoo-B. Crk.
MI | 49713 | 1,574,546 | WZZM | GRAND RAPIDS | Grand Rapids-Kalmzoo-B. Crk.
MN | 18285 | 589,502 | KAAL | AUSTIN | Rochestr-Mason City-Austin.
MN | 23079 | 3,924,944 | KARE | MINNEAPOLIS | Minneapolis-St. Paul.
MN | 55370 | 149,869 | KBRR | THIEF RIVER FALLS | Fargo-Valley City.
MN | 9640 | 284,280 | KCCW-TV | WALKER | Minneapolis-St. Paul.
MN | 166511 | 207,398 | KCWV | DULUTH | Duluth-Superior.
MN | 4691 | 263,422 | KDLH | DULUTH | Duluth-Superior.
MN | 68853 | 544,900 | KEYC-TV | MANKATO | Mankato.
MN | 83714 | 61,990 | KFTC | BEMIDJI | Minneapolis-St. Paul.
MN | 68883 | 3,832,040 | KMSP-TV | MINNEAPOLIS | Minneapolis-St. Paul.
MN | 35907 | 3,609,455 | KPXM-TV | ST. CLOUD | Minneapolis-St. Paul.
MN | 35525 | 305,747 | KQDS-TV | DULUTH | Duluth-Superior.
MN | 82698 | 133,840 | KRII | CHISHOLM | Duluth-Superior.
MN | 35585 | 85,596 | KRWF | REDWOOD FALLS | Minneapolis-St. Paul.
MN | 35584 | 359,400 | KSAX | ALEXANDRIA | Minneapolis-St. Paul.
MN | 35843 | 3,796,912 | KSTC-TV | MINNEAPOLIS | Minneapolis-St. Paul.
MN | 28010 | 3,788,898 | KSTP-TV | ST. PAUL | Minneapolis-St. Paul.
MN | 35678 | 815,213 | KTTC | ROCHESTER | Rochestr-Mason City-Austin.
MN | 35906 | 354,712 | KXLT-TV | ROCHESTER | Rochestr-Mason City-Austin.
MN | 9629 | 3,837,442 | WCCO-TV | MINNEAPOLIS | Minneapolis-St. Paul.
MN | 71338 | 341,506 | WDIO-DT | DULUTH | Duluth-Superior.
MN | 11913 | 3,787,177 | WFTC | MINNEAPOLIS | Minneapolis-St. Paul.
MN | 71336 | 127,001 | WIRT-DT | HIBBING | Duluth-Superior.
MN | 36395 | 3,664,480 | WUCW | MINNEAPOLIS | Minneapolis-St. Paul.
MO | 19593 | 752,366 | KBSI | CAPE GIRARDEAU | Paducah-Cape Girard-Harsbg.
MO | 41230 | 2,547,456 | KCTV | KANSAS CITY | Kansas City.
MO | 64444 | 2,460,172 | KCWE | KANSAS CITY | Kansas City.
MO | 56524 | 2,987,219 | KDNL-TV | ST. LOUIS | St. Louis.
MO | 592 | 810,574 | KFVS-TV | CAPE GIRARDEAU | Paducah-Cape Girard-Harsbg.
MO | 4690 | 318,469 | KHQA-TV | HANNIBAL | Quincy-Hannibal-Keokuk.
MO | 65686 | 2,507,895 | KMBC-TV | KANSAS CITY | Kansas City.
MO | 63164 | 550,860 | KMIZ | COLUMBIA | Columbia-Jefferson City.
MO | 70034 | 3,035,077 | KMOV | ST. LOUIS | St. Louis.
MO | 48525 | 2,944,530 | KNLC | ST. LOUIS | St. Louis.
MO | 48521 | 655,000 | KNLJ | JEFFERSON CITY | Columbia-Jefferson City.
MO | 18283 | 607,048 | KODE-TV | JOPLIN | Joplin-Pittsburg.
MO | 28496 | 1,076,144 | KOLR | SPRINGFIELD | Springfield, MO.
MO | 65583 | 551,658 | KOMU-TV | COLUMBIA | Columbia-Jefferson City.
MO | 3659 | 992,495 | KOZL-TV | SPRINGFIELD | Springfield, MO.
MO | 35417 | 2,968,619 | KPLR-TV | ST. LOUIS | St. Louis.
MO | 73998 | 144,525 | KPOB-TV | POPLAR BLUFF | Paducah-Cape Girard-Harsbg.
MO | 33337 | 2,437,178 | KPXE-TV | KANSAS CITY | Kansas City.
MO | 20427 | 1,494,987 | KQTV | ST. JOSEPH | St. Joseph.
MO | 166319 | 766,402 | KRBK | OSAGE BEACH | Springfield, MO.
MO | 41110 | 684,989 | KRCG | JEFFERSON CITY | Columbia-Jefferson City.
MO | 46981 | 2,986,764 | KSDK | ST. LOUIS | St. Louis.
MO | 59444 | 2,361,771 | KSHB-TV | KANSAS CITY | Kansas City.
MO | 33336 | 2,401,134 | KSMO-TV | KANSAS CITY | Kansas City.
MO | 67766 | 500,881 | KSNF | JOPLIN | Joplin-Pittsburg.
MO | 999 | 2,343,843 | KTAJ-TV | ST. JOSEPH | Kansas City.
MO | 35693 | 2,979,889 | KTVI | ST. LOUIS | St. Louis.
MO | 21251 | 148,780 | KTVO | KIRKSVILLE | Ottumwa-Kirksville.
MO | 36003 | 1,041,020 | KYTV | SPRINGFIELD | Springfield, MO.
MO | 11291 | 2,539,581 | WDAF-TV | KANSAS CITY | Kansas City.
MS | 43203 | 393,020 | WABG-TV | GREENWOOD | Greenwood-Greenville.
MS | 49712 | 793,621 | WAPT | JACKSON | Jackson, MS.
MS | 60830 | 1,554,395 | WBUY-TV | HOLLY SPRINGS | Memphis.
MS | 12477 | 680,511 | WCBI-TV | COLUMBUS | Columbus-Tupelo-W Pnt-Hstn.
MS | 21250 | 512,594 | WDAM-TV | LAUREL | Hattiesburg-Laurel.
MS | 71326 | 919,098 | WDBD | JACKSON | Jackson, MS.
MS | 83946 | 583,789 | WEPH | TUPELO | Columbus-Tupelo-W Pnt-Hstn.
MS | 25236 | 274,078 | WFXW | GREENVILLE | Greenwood-Greenville.
MS | 24314 | 249,415 | WGBC | MERIDIAN | Meridian.
MS | 48668 | 484,404 | WHLT | HATTIESBURG | Hattiesburg-Laurel.
MS | 48667 | 987,206 | WJTV | JACKSON | Jackson, MS.
MS | 68542 | 948,671 | WLBT | JACKSON | Jackson, MS.
MS | 84253 | 917,998 | WLOO | VICKSBURG | Jackson, MS.
MS | 37732 | 609,526 | WLOV-TV | WEST POINT | Columbus-Tupelo-W Pnt-Hstn.
MS | 13995 | 1,129,974 | WLOX | BILOXI | Biloxi-Gulfport.
MS | 73255 | 278,227 | WMDN | MERIDIAN | Meridian.
MS | 16539 | 338,422 | WNTZ-TV | NATCHEZ | Alexandria, LA.
MS | 136749 | 1,030,831 | WRBJ-TV | MAGEE | Jackson, MS.
MS | 4686 | 410,134 | WTOK-TV | MERIDIAN | Meridian.
MS | 74148 | 717,035 | WTVA | TUPELO | Columbus-Tupelo-W Pnt-Hstn.
MS | 166512 | 518,866 | WWJX | JACKSON | Jackson, MS.
MS | 53517 | 1,178,251 | WXXV-TV | GULFPORT | Biloxi-Gulfport.
MT | 33756 | 116,485 | KBZK | BOZEMAN | Butte-Bozeman.
MT | 18079 | 148,162 | KCFW-TV | KALISPELL | Missoula.
MT | 18084 | 235,954 | KECI-TV | MISSOULA | Missoula.
MT | 34412 | 93,519 | KFBB-TV | GREAT FALLS | Great Falls.
MT | 47670 | 175,601 | KHMT | HARDIN | Billings.
MT | 35455 | 206,895 | KPAX-TV | MISSOULA | Missoula.
MT | 35567 | 92,687 | KRTV | GREAT FALLS | Great Falls.
MT | 5243 | 175,390 | KSVI | BILLINGS | Billings.
MT | 13792 | 80,732 | KTGF | GREAT FALLS | Great Falls.
MT | 14675 | 187,251 | KTMF | MISSOULA | Missoula.
MT | 5290 | 228,832 | KTVH-DT | HELENA | Helena.
MT | 18066 | 277,657 | KTVM-TV | BUTTE | Butte-Bozeman.
MT | 35694 | 179,797 | KTVQ | BILLINGS | Billings.
MT | 35724 | 177,242 | KULR-TV | BILLINGS | Billings.
MT | 14674 | 86,495 | KWYB | BUTTE | Butte-Bozeman.
MT | 24287 | 14,217 | KXGN-TV | GLENDIVE | Glendive.
MT | 35959 | 258,100 | KXLF-TV | BUTTE | Butte-Bozeman.
MT | 5237 | 12,496 | KYUS-TV | MILES CITY | Billings.
NC | 12793 | 2,640,163 | WAXN-TV | KANNAPOLIS | Charlotte.
NC | 30826 | 4,433,020 | WBTV | CHARLOTTE | Charlotte.
NC | 49157 | 3,542,464 | WCCB | CHARLOTTE | Charlotte.
NC | 32326 | 3,822,849 | WCNC-TV | CHARLOTTE | Charlotte.
NC | 18334 | 1,680,664 | WCTI-TV | NEW BERN | Greenville-N. Bern-Washngtn.
NC | 35385 | 3,434,637 | WCWG | LEXINGTON | Greensboro-H. Point-W. Salem.
NC | 48666 | 1,134,918 | WECT | WILMINGTON | Wilmington.
NC | 81508 | 859,535 | WEPX-TV | GREENVILLE | Greenville-N. Bern-Washngtn.
NC | 72064 | 4,772,783 | WFMY-TV | GREENSBORO | Greensboro-H. Point-W. Salem.
NC | 21245 | 1,093,394 | WFPX-TV | ARCHER LODGE | Raleigh-Durham (Fayetvlle).
NC | 72106 | 3,774,522 | WGHP | HIGH POINT | Greensboro-H. Point-W. Salem.
NC | 65074 | 1,952,062 | WGPX-TV | BURLINGTON | Greensboro-H. Point-W. Salem.
NC | 65919 | 3,038,732 | WHKY-TV | HICKORY | Charlotte.
NC | 594 | 1,768,040 | WITN-TV | WASHINGTON | Greenville-N. Bern-Washngtn.
NC | 73152 | 4,054,244 | WJZY | BELMONT | Charlotte.
NC | 73205 | 3,640,360 | WLFL | RALEIGH | Raleigh-Durham (Fayetvlle).
NC | 56537 | 3,762,204 | WLOS | ASHEVILLE | Greenvll-Spart-Ashevll-And.
NC | 54452 | 2,664,793 | WLXI | GREENSBORO | Greensboro-H. Point-W. Salem.
NC | 25544 | 3,808,852 | WMYV | GREENSBORO | Greensboro-H. Point-W. Salem.
NC | 50782 | 3,427,038 | WNCN | GOLDSBORO | Raleigh-Durham (Fayetvlle).
NC | 57838 | 1,933,527 | WNCT-TV | GREENVILLE | Greenville-N. Bern-Washngtn.
NC | 37971 | 690,613 | WPXU-TV | JACKSONVILLE | Greenville-N. Bern-Washngtn.
NC | 8688 | 3,643,511 | WRAL-TV | RALEIGH | Raleigh-Durham (Fayetvlle).
NC | 10133 | 2,724,695 | WRAY-TV | WILSON | Raleigh-Durham (Fayetvlle).
NC | 64611 | 3,605,228 | WRAZ | RALEIGH | Raleigh-Durham (Fayetvlle).
NC | 54963 | 3,624,288 | WRDC | DURHAM | Raleigh-Durham (Fayetvlle).
NC | 20590 | 2,218,968 | WRPX-TV | ROCKY MOUNT | Raleigh-Durham (Fayetvlle).
NC | 72871 | 928,247 | WSFX-TV | WILMINGTON | Wilmington.
NC | 76324 | 1,934,585 | WSKY-TV | MANTEO | Norfolk-Portsmth-Newpt Nws.
NC | 74070 | 3,516,728 | WSOC-TV | CHARLOTTE | Charlotte.
NC | 8617 | 4,012,851 | WTVD | DURHAM | Raleigh-Durham (Fayetvlle).
NC | 16517 | 3,528,124 | WUVC-DT | FAYETTEVILLE | Raleigh-Durham (Fayetvlle).
NC | 12033 | 1,206,281 | WWAY | WILMINGTON | Wilmington.
NC | 53921 | 3,434,637 | WXII-TV | WINSTON-SALEM | Greensboro-H. Point-W. Salem.
NC | 414 | 4,362,761 | WXLV-TV | WINSTON-SALEM | Greensboro-H. Point-W. Salem.
NC | 70149 | 2,603,504 | WYCW | ASHEVILLE | Greenvll-Spart-Ashevll-And.
NC | 35582 | 1,097,745 | WYDO | GREENVILLE | Greenville-N. Bern-Washngtn.
ND | 22121 | 119,993 | KBMY | BISMARCK | Minot-Bsmrck-Dcknsn (Wlstn).
ND | 86208 | 90,266 | KCPM | GRAND FORKS | Fargo-Valley City.
ND | 41427 | 130,881 | KFYR-TV | BISMARCK | Minot-Bsmrck-Dcknsn (Wlstn).
ND | 55364 | 45,515 | KJRR | JAMESTOWN | Fargo-Valley City.
ND | 22127 | 71,797 | KMCY | MINOT | Minot-Bsmrck-Dcknsn (Wlstn).
ND | 41425 | 81,517 | KMOT | MINOT | Minot-Bsmrck-Dcknsn (Wlstn).
ND | 82611 | 118,154 | KNDB | BISMARCK | Minot-Bsmrck-Dcknsn (Wlstn).
ND | 82615 | 72,216 | KNDM | MINOT | Minot-Bsmrck-Dcknsn (Wlstn).
ND | 55362 | 25,957 | KNRR | PEMBINA | Fargo-Valley City.
ND | 41430 | 35,623 | KQCD-TV | DICKINSON | Minot-Bsmrck-Dcknsn (Wlstn).
ND | 49134 | 349,941 | KRDK-TV | VALLEY CITY | Fargo-Valley City.
ND | 41429 | 41,607 | KUMV-TV | WILLISTON | Minot-Bsmrck-Dcknsn (Wlstn).
ND | 61961 | 347,517 | KVLY-TV | FARGO | Fargo-Valley City.
ND | 55372 | 356,645 | KVRR | FARGO | Fargo-Valley City.
ND | 55684 | 32,005 | KXMA-TV | DICKINSON | Minot-Bsmrck-Dcknsn (Wlstn).
ND | 55686 | 142,755 | KXMB-TV | BISMARCK | Minot-Bsmrck-Dcknsn (Wlstn).
ND | 55685 | 97,569 | KXMC-TV | MINOT | Minot-Bsmrck-Dcknsn (Wlstn).
ND | 55683 | 37,962 | KXMD-TV | WILLISTON | Minot-Bsmrck-Dcknsn (Wlstn).
ND | 22129 | 339,239 | WDAY-TV | FARGO | Fargo-Valley City.
ND | 22124 | 151,720 | WDAZ-TV | DEVIL'S LAKE | Fargo-Valley City.
NE | 53903 | 1,355,714 | KETV | OMAHA | Omaha.
NE | 84453 | 361,632 | KFXL-TV | LINCOLN | Lincoln & Hastings-Krny.
NE | 7894 | 230,535 | KGIN | GRAND ISLAND | Lincoln & Hastings-Krny.
NE | 21160 | 233,973 | KHGI-TV | KEARNEY | Lincoln & Hastings-Krny.
NE | 11264 | 932,757 | KLKN | LINCOLN | Lincoln & Hastings-Krny.
NE | 35190 | 1,346,474 | KMTV-TV | OMAHA | Omaha.
NE | 17683 | 101,389 | KNEP | SIDNEY | Rapid City.
NE | 48003 | 277,777 | KNHL | HASTINGS | Lincoln & Hastings-Krny.
NE | 49273 | 87,904 | KNOP-TV | NORTH PLATTE | North Platte.
NE | 7890 | 1,225,400 | KOLN | LINCOLN | Lincoln & Hastings-Krny.
NE | 51491 | 1,388,670 | KPTM | OMAHA | Omaha.
NE | 21161 | 658,560 | KSNB-TV | SUPERIOR | Lincoln & Hastings-Krny.
NE | 72362 | 48,715 | KSNK | MCCOOK | Wichita-Hutchinson Plus.
NE | 63182 | 51,317 | KSTF | SCOTTSBLUFF | Cheyenne-Scottsbluff.
NE | 21162 | 91,093 | KWNB-TV | HAYES CENTER | Lincoln & Hastings-Krny.
NE | 23277 | 1,333,338 | KXVO | OMAHA | Omaha.
NE | 65528 | 1,380,979 | WOWT | OMAHA | Omaha.
NH | 14682 | 8,557,497 | WBIN-TV | DERRY | Boston (Manchester).
NH | 73292 | 5,192,179 | WMUR-TV | MANCHESTER | Boston (Manchester).
NH | 51864 | 3,471,700 | WNEU | MERRIMACK | Boston (Manchester).
NH | 48406 | 2,582,585 | WPXG-TV | CONCORD | Boston (Manchester).
NJ | 189358 | 9,415,263 | WACP | ATLANTIC CITY | Philadelphia.
NJ | 60555 | 19,992,096 | WFUT-DT | NEWARK | New York.
NJ | 7623 | 807,797 | WGTW-TV | MILLVILLE | Philadelphia.
NJ | 86537 | 21,384,863 | WJLP | MIDDLETOWN TOWNSHIP | New York.
NJ | 43952 | 18,706,132 | WMBC-TV | NEWTON | New York.
NJ | 9739 | 5,783,793 | WMCN-TV | CHERRY HILL | Philadelphia.
NJ | 61111 | 807,797 | WMGM-TV | WILDWOOD | Philadelphia.
NJ | 73333 | 20,064,358 | WNJU | LINDEN | New York.
NJ | 60560 | 9,122,378 | WUVP-DT | VINELAND | Philadelphia.
NJ | 74197 | 20,059,048 | WWOR-TV | SECAUCUS | New York.
NJ | 23142 | 7,178,613 | WWSI | MOUNT LAUREL | Philadelphia.
NJ | 74215 | 19,992,096 | WXTV-DT | PATERSON | New York.
NM | 32311 | 1,161,789 | KASA-TV | SANTA FE | Albuquerque-Santa Fe.
NM | 55049 | 1,140,916 | KASY-TV | ALBUQUERQUE | Albuquerque-Santa Fe.
NM | 48556 | 205,701 | KBIM-TV | ROSWELL | Albuquerque-Santa Fe.
NM | 60793 | 1,118,671 | KCHF | SANTA FE | Albuquerque-Santa Fe.
NM | 57220 | 1,079,718 | KLUZ-TV | ALBUQUERQUE | Albuquerque-Santa Fe.
NM | 993 | 1,157,630 | KNAT-TV | ALBUQUERQUE | Albuquerque-Santa Fe.
NM | 53928 | 1,153,633 | KOAT-TV | ALBUQUERQUE | Albuquerque-Santa Fe.
NM | 35313 | 1,152,841 | KOB | ALBUQUERQUE | Albuquerque-Santa Fe.
NM | 35321 | 201,911 | KOBF | FARMINGTON | Albuquerque-Santa Fe.
NM | 62272 | 211,709 | KOBR | ROSWELL | Albuquerque-Santa Fe.
NM | 53539 | 65,943 | KRPV-DT | ROSWELL | Albuquerque-Santa Fe.
NM | 48575 | 1,158,673 | KRQE | ALBUQUERQUE | Albuquerque-Santa Fe.
NM | 84157 | 111,538 | KRWB-TV | ROSWELL | Albuquerque-Santa Fe.
NM | 36916 | 1,015,338 | KTDO | LAS CRUCES | El Paso (Las Cruces).
NM | 83707 | 53,423 | KTEL-TV | CARLSBAD | Albuquerque-Santa Fe.
NM | 35084 | 1,136,300 | KTFQ-TV | ALBUQUERQUE | Albuquerque-Santa Fe.
NM | 27431 | 87,602 | KUPT | HOBBS | Albuquerque-Santa Fe.
NM | 40450 | 91,912 | KVIH-TV | CLOVIS | Amarillo.
NM | 76268 | 1,148,810 | KWBQ | SANTA FE | Albuquerque-Santa Fe.
NV | 19191 | 611,981 | KAME-TV | RENO | Reno.
NV | 63768 | 1,959,858 | KBLR | PARADISE | Las Vegas.
NV | 63845 | 47,220 | KENV-DT | ELKO | Salt Lake City.
NV | 69677 | 2,062,231 | KHSV | LAS VEGAS | Las Vegas.
NV | 67089 | 2,002,066 | KINC | LAS VEGAS | Las Vegas.
NV | 35042 | 2,094,297 | KLAS-TV | LAS VEGAS | Las Vegas.
NV | 41237 | 2,064,592 | KMCC | LAUGHLIN | Las Vegas.
NV | 63331 | 959,178 | KOLO-TV | RENO | Reno.
NV | 51493 | 810,039 | KREN-TV | RENO | Reno.
NV | 60307 | 981,687 | KRNV-DT | RENO | Reno.
NV | 48360 | 713,121 | KRXI-TV | RENO | Reno.
NV | 10179 | 1,967,781 | KSNV | LAS VEGAS | Las Vegas.
NV | 74100 | 2,094,506 | KTNV-TV | LAS VEGAS | Las Vegas.
NV | 59139 | 955,300 | KTVN | RENO | Reno.
NV | 10195 | 1,967,550 | KVCW | LAS VEGAS | Las Vegas.
NV | 35870 | 2,042,029 | KVVU-TV | HENDERSON | Las Vegas.
NY | 1328 | 22,032,680 | WABC-TV | NEW YORK | New York.
NY | 9088 | 1,269,256 | WBBZ-TV | SPRINGVILLE | Buffalo.
NY | 23337 | 1,657,643 | WBNG-TV | BINGHAMTON | Binghamton.
NY | 9610 | 20,450,173 | WCBS-TV | NEW YORK | New York.
NY | 73264 | 1,698,469 | WCWN | SCHENECTADY | Albany-Schenectady-Troy.
NY | 71508 | 543,162 | WENY-TV | ELMIRA | Elmira (Corning).
NY | 60653 | 721,800 | WETM-TV | ELMIRA | Elmira (Corning).
NY | 60553 | 5,678,755 | WFTY-DT | SMITHTOWN | New York.
NY | 43424 | 633,597 | WFXV | UTICA | Utica.
NY | 64547 | 1,878,725 | WGRZ | BUFFALO | Buffalo.
NY | 73371 | 1,323,785 | WHAM-TV | ROCHESTER | Rochester, NY.
NY | 70041 | 1,322,243 | WHEC-TV | ROCHESTER | Rochester, NY.
NY | 62210 | 976,771 | WICZ-TV | BINGHAMTON | Binghamton.
NY | 7780 | 2,349,267 | WIVB-TV | BUFFALO | Buffalo.
NY | 11260 | 856,453 | WIVT | BINGHAMTON | Binghamton.
NY | 54176 | 2,033,929 | WKBW-TV | BUFFALO | Buffalo.
NY | 60654 | 1,573,503 | WKTV | UTICA | Utica.
NY | 73206 | 5,983,123 | WLNY-TV | RIVERHEAD | New York.
NY | 47535 | 20,287,515 | WNBC | NEW YORK | New York.
NY | 71905 | 1,538,108 | WNLO | BUFFALO | Buffalo.
NY | 30303 | 1,630,417 | WNYB | JAMESTOWN | Buffalo.
NY | 34329 | 1,081,302 | WNYI | ITHACA | Syracuse.
NY | 67784 | 1,539,525 | WNYO-TV | BUFFALO | Buffalo.
NY | 58725 | 1,928,924 | WNYS-TV | SYRACUSE | Syracuse.
NY | 73363 | 1,967,183 | WNYT | ALBANY | Albany-Schenectady-Troy.
NY | 22206 | 20,307,995 | WNYW | NEW YORK | New York.
NY | 73881 | 20,638,932 | WPIX | NEW YORK | New York.
NY | 57476 | 792,551 | WPTZ | PLATTSBURGH | Burlington-Plattsburgh.
NY | 2325 | 2,257,059 | WPXJ-TV | BATAVIA | Buffalo.
NY | 73356 | 19,501,764 | WPXN-TV | NEW YORK | New York.
NY | 73942 | 2,886,233 | WRGB | SCHENECTADY | Albany-Schenectady-Troy.
NY | 74156 | 18,395,560 | WRNN-TV | KINGSTON | New York.
NY | 73964 | 1,187,949 | WROC-TV | ROCHESTER | Rochester, NY.
NY | 64352 | 1,106,838 | WSPX-TV | SYRACUSE | Syracuse.
NY | 21252 | 1,458,931 | WSTM-TV | SYRACUSE | Syracuse.
NY | 73113 | 1,329,933 | WSYR-TV | SYRACUSE | Syracuse.
NY | 40758 | 1,878,638 | WSYT | SYRACUSE | Syracuse.
NY | 67993 | 11,643,085 | WTBY-TV | POUGHKEEPSIE | New York.
NY | 74422 | 1,768,667 | WTEN | ALBANY | Albany-Schenectady-Troy.
NY | 74151 | 1,350,223 | WTVH | SYRACUSE | Syracuse.
NY | 413 | 1,152,580 | WUHF | ROCHESTER | Rochester, NY.
NY | 57837 | 526,114 | WUTR | UTICA | Utica.
NY | 415 | 1,405,230 | WUTV | BUFFALO | Buffalo.
NY | 68851 | 365,677 | WWNY-TV | CARTHAGE | Watertown.
NY | 16747 | 196,531 | WWTI | WATERTOWN | Watertown.
NY | 11970 | 1,775,667 | WXXA-TV | ALBANY | Albany-Schenectady-Troy.
NY | 77515 | 34,169 | WYCI | SARANAC LAKE | Burlington-Plattsburgh.
NY | 62219 | 393,843 | WYDC | CORNING | Elmira (Corning).
NY | 13933 | 1,167,975 | WYPX-TV | AMSTERDAM | Albany-Schenectady-Troy.
OH | 70138 | 3,504,674 | WBDT | SPRINGFIELD | Dayton.
OH | 71217 | 2,847,721 | WBNS-TV | COLUMBUS | Columbus, OH.
OH | 72958 | 3,642,304 | WBNX-TV | AKRON | Cleveland-Akron (Canton).
OH | 50781 | 2,756,260 | WCMH-TV | COLUMBUS | Columbus, OH.
OH | 59438 | 3,328,920 | WCPO-TV | CINCINNATI | Cincinnati.
OH | 67893 | 4,002,488 | WDLI-TV | CANTON | Cleveland-Akron (Canton).
OH | 65690 | 3,660,544 | WDTN | DAYTON | Dayton.
OH | 59441 | 4,112,984 | WEWS-TV | CLEVELAND | Cleveland-Akron (Canton).
OH | 72062 | 3,504,955 | WFMJ-TV | YOUNGSTOWN | Youngstown.
OH | 11027 | 1,991,462 | WGGN-TV | SANDUSKY | Cleveland-Akron (Canton).
OH | 41458 | 3,896,757 | WHIO-TV | DAYTON | Dayton.
OH | 61216 | 910,864 | WHIZ-TV | ZANESVILLE | Zanesville.
OH | 73150 | 3,977,148 | WJW | CLEVELAND | Cleveland-Akron (Canton).
OH | 73153 | 5,601,751 | WKBN-TV | YOUNGSTOWN | Youngstown.
OH | 73155 | 3,623,762 | WKEF | DAYTON | Dayton.
OH | 11289 | 3,281,914 | WKRC-TV | CINCINNATI | Cincinnati.
OH | 73195 | 4,154,903 | WKYC | CLEVELAND | Cleveland-Akron (Canton).
OH | 37503 | 1,070,641 | WLIO | LIMA | Lima.
OH | 17076 | 2,754,484 | WLMB | TOLEDO | Toledo.
OH | 46979 | 3,319,556 | WLWT | CINCINNATI | Cincinnati.
OH | 41893 | 1,561,367 | WMFD-TV | MANSFIELD | Cleveland-Akron (Canton).
OH | 73354 | 2,232,660 | WNWO-TV | TOLEDO | Toledo.
OH | 39746 | 3,821,233 | WOIO | SHAKER HEIGHTS | Cleveland-Akron (Canton).
OH | 65130 | 1,319,392 | WQCW | PORTSMOUTH | Charleston-Huntington.
OH | 60556 | 3,837,316 | WQHS-DT | CLEVELAND | Cleveland-Akron (Canton).
OH | 411 | 3,252,046 | WRGT-TV | DAYTON | Dayton.
OH | 43870 | 3,726,498 | WRLM | CANTON | Cleveland-Akron (Canton).
OH | 11118 | 2,188,828 | WSFJ-TV | LONDON | Columbus, OH.
OH | 11204 | 3,252,460 | WSTR-TV | CINCINNATI | Cincinnati.
OH | 56549 | 2,635,937 | WSYX | COLUMBUS | Columbus, OH.
OH | 1222 | 640,872 | WTLW | LIMA | Lima.
OH | 13992 | 4,184,020 | WTOL | TOLEDO | Toledo.
OH | 74122 | 3,892,886 | WTOV-TV | STEUBENVILLE | Wheeling-Steubenville.
OH | 74137 | 2,636,341 | WTTE | COLUMBUS | Columbus, OH.
OH | 74150 | 4,274,274 | WTVG | TOLEDO | Toledo.
OH | 8532 | 3,618,065 | WUAB | LORAIN | Cleveland-Akron (Canton).
OH | 19190 | 2,074,890 | WUPW | TOLEDO | Toledo.
OH | 70491 | 4,165,634 | WVPX-TV | AKRON | Cleveland-Akron (Canton).
OH | 21158 | 2,879,726 | WWHO | CHILLICOTHE | Columbus, OH.
OH | 4693 | 2,068,935 | WYTV | YOUNGSTOWN | Youngstown.
OK | 50182 | 1,608,476 | KAUT-TV | OKLAHOMA CITY | Oklahoma City.
OK | 1005 | 1,156,836 | KDOR-TV | BARTLESVILLE | Tulsa.
OK | 66222 | 1,639,592 | KFOR-TV | OKLAHOMA CITY | Oklahoma City.
OK | 24485 | 974,918 | KGEB | TULSA | Tulsa.
OK | 59439 | 1,416,108 | KJRH-TV | TULSA | Tulsa.
OK | 54420 | 1,314,238 | KMYT-TV | TULSA | Tulsa.
OK | 50170 | 1,629,783 | KOCB | OKLAHOMA CITY | Oklahoma City.
OK | 84225 | 1,386,231 | KOCM | NORMAN | Oklahoma City.
OK | 12508 | 1,716,569 | KOCO-TV | OKLAHOMA CITY | Oklahoma City.
OK | 35388 | 1,627,116 | KOKH-TV | OKLAHOMA CITY | Oklahoma City.
OK | 11910 | 1,366,220 | KOKI-TV | TULSA | Tulsa.
OK | 2566 | 1,513,730 | KOPX-TV | OKLAHOMA CITY | Oklahoma City.
OK | 35434 | 1,417,675 | KOTV-DT | TULSA | Tulsa.
OK | 78322 | 1,128,198 | KQCW-DT | MUSKOGEE | Tulsa.
OK | 38214 | 1,577,231 | KSBI | OKLAHOMA CITY | Oklahoma City.
OK | 35645 | 483,132 | KSWO-TV | LAWTON | Wichita Falls & Lawton.
OK | 67999 | 1,585,283 | KTBO-TV | OKLAHOMA CITY | Oklahoma City.
OK | 35666 | 566,422 | KTEN | ADA | Sherman-Ada.
OK | 7078 | 1,066,196 | KTPX-TV | OKMULGEE | Tulsa.
OK | 35685 | 1,416,959 | KTUL | TULSA | Tulsa.
OK | 77480 | 1,668,531 | KTUZ-TV | SHAWNEE | Oklahoma City.
OK | 86532 | 28,974 | KUOK | WOODWARD | Oklahoma City.
OK | 37099 | 1,104,914 | KWHB | TULSA | Tulsa.
OK | 25382 | 1,628,106 | KWTV-DT | OKLAHOMA CITY | Oklahoma City.
OR | 21649 | 2,978,043 | KATU | PORTLAND | Portland, OR.
OR | 83306 | 297,384 | KBLN-TV | GRANTS PASS | Medford-Klamath Falls.
OR | 49750 | 89,156 | KCBY-TV | COOS BAY | Eugene.
OR | 60740 | 71,413 | KDKF | KLAMATH FALLS | Medford-Klamath Falls.
OR | 60736 | 519,706 | KDRV | MEDFORD | Medford-Klamath Falls.
OR | 34406 | 885,667 | KEZI | EUGENE | Eugene.
OR | 12729 | 409,952 | KFFX-TV | PENDLETON | Yakima-Pasco-Rchlnd-Knnwck.
OR | 34874 | 3,058,216 | KGW | PORTLAND | Portland, OR.
OR | 8322 | 564,415 | KLSR-TV | EUGENE | Eugene.
OR | 35183 | 69,357 | KMCB | COOS BAY | Eugene.
OR | 35189 | 589,948 | KMTR | EUGENE | Eugene.
OR | 32958 | 308,150 | KMVU-DT | MEDFORD | Medford-Klamath Falls.
OR | 47707 | 2,887,145 | KNMT | PORTLAND | Portland, OR.
OR | 8260 | 571,963 | KOBI | MEDFORD | Medford-Klamath Falls.
OR | 166534 | 201,310 | KOHD | BEND | Bend, OR.
OR | 35380 | 2,983,136 | KOIN | PORTLAND | Portland, OR.
OR | 8284 | 298,175 | KOTI | KLAMATH FALLS | Medford-Klamath Falls.
OR | 61551 | 156,687 | KPIC | ROSEBURG | Eugene.
OR | 50633 | 2,998,460 | KPTV | PORTLAND | Portland, OR.
OR | 5801 | 3,026,219 | KPXG-TV | SALEM | Portland, OR.
OR | 10192 | 2,966,577 | KRCW-TV | SALEM | Portland, OR.
OR | 35187 | 100,392 | KTCW | ROSEBURG | Eugene.
OR | 31437 | 137,239 | KTVC | ROSEBURG | Eugene.
OR | 22570 | 415,327 | KTVL | MEDFORD | Medford-Klamath Falls.
OR | 55907 | 201,828 | KTVZ | BEND | Bend, OR.
OR | 81447 | 130,559 | KUNP | LA GRANDE | Portland, OR.
OR | 49766 | 1,016,673 | KVAL-TV | EUGENE | Eugene.
PA | 25454 | 3,611,796 | KDKA-TV | PITTSBURGH | Pittsburgh.
PA | 25453 | 11,061,941 | KYW-TV | PHILADELPHIA | Philadelphia.
PA | 20287 | 937,438 | WATM-TV | ALTOONA | Johnstown-Altoona-St. Colge.
PA | 60850 | 12,689,628 | WBPH-TV | BETHLEHEM | Philadelphia.
PA | 71225 | 3,553,761 | WBRE-TV | WILKES-BARRE | Wilkes Barre-Scranton-Hztn.
PA | 63153 | 11,005,603 | WCAU | PHILADELPHIA | Philadelphia.
PA | 39884 | 8,248,248 | WFMZ-TV | ALLENTOWN | Philadelphia.
PA | 19707 | 583,315 | WFXP | ERIE | Erie.
PA | 53930 | 7,775,662 | WGAL | LANCASTER | Harrisburg-Lncstr-Leb-York.
PA | 55350 | 2,829,585 | WGCB-TV | RED LION | Harrisburg-Lncstr-Leb-York.
PA | 72313 | 3,045,718 | WHP-TV | HARRISBURG | Harrisburg-Lncstr-Leb-York.
PA | 72326 | 2,829,585 | WHTM-TV | HARRISBURG | Harrisburg-Lncstr-Leb-York.
PA | 24970 | 716,630 | WICU-TV | ERIE | Erie.
PA | 41314 | 2,804,646 | WINP-TV | PITTSBURGH | Pittsburgh.
PA | 73120 | 2,235,542 | WJAC-TV | JOHNSTOWN | Johnstown-Altoona-St. Colge.
PA | 65749 | 704,806 | WJET-TV | ERIE | Erie.
PA | 13929 | 831,411 | WKBS-TV | ALTOONA | Pittsburgh.
PA | 73318 | 3,131,848 | WNEP-TV | SCRANTON | Wilkes Barre-Scranton-Hztn.
PA | 73375 | 3,006,606 | WOLF-TV | HAZLETON | Wilkes Barre-Scranton-Hztn.
PA | 13924 | 2,722,282 | WPCB-TV | GREENSBURG | Pittsburgh.
PA | 69880 | 3,393,365 | WPCW | JEANNETTE | Pittsburgh.
PA | 73875 | 3,132,507 | WPGH-TV | PITTSBURGH | Pittsburgh.
PA | 73879 | 10,421,216 | WPHL-TV | PHILADELPHIA | Philadelphia.
PA | 10213 | 5,455,579 | WPMT | YORK | Harrisburg-Lncstr-Leb-York.
PA | 73907 | 3,130,920 | WPNT | PITTSBURGH | Pittsburgh.
PA | 12499 | 10,232,988 | WPSG | PHILADELPHIA | Philadelphia.
PA | 8616 | 13,926,891 | WPVI-TV | PHILADELPHIA | Philadelphia.
PA | 73910 | 3,282,555 | WPXI | PITTSBURGH | Pittsburgh.
PA | 52075 | 410,269 | WQMY | WILLIAMSPORT | Wilkes Barre-Scranton-Hztn.
PA | 64690 | 1,515,992 | WQPX-TV | SCRANTON | Wilkes Barre-Scranton-Hztn.
PA | 49711 | 556,533 | WSEE-TV | ERIE | Erie.
PA | 73374 | 1,500,450 | WSWB | SCRANTON | Wilkes Barre-Scranton-Hztn.
PA | 65681 | 2,967,614 | WTAE-TV | PITTSBURGH | Pittsburgh.
PA | 23341 | 1,080,523 | WTAJ-TV | ALTOONA | Johnstown-Altoona-St. Colge.
PA | 55305 | 7,802,937 | WTVE | WILLOW GROVE | Philadelphia.
PA | 51568 | 9,479,256 | WTXF-TV | PHILADELPHIA | Philadelphia.
PA | 20295 | 2,811,278 | WWCP-TV | JOHNSTOWN | Johnstown-Altoona-St. Colge.
PA | 23338 | 4,166,776 | WXBU | LANCASTER | Harrisburg-Lncstr-Leb-York.
PA | 17010 | 3,553,761 | WYOU | SCRANTON | Wilkes Barre-Scranton-Hztn.
PR | 52073 | 3,764,742 | WAPA-TV | SAN JUAN | Puerto Rico.
PR | 3001 | 3,417,254 | WCCV-TV | ARECIBO | Puerto Rico.
PR | 4110 | 2,847,789 | WDWL | BAYAMON | Puerto Rico.
PR | 19561 | 2,886,669 | WECN | NARANJITO | Puerto Rico.
PR | 18410 | 2,559,306 | WIDP | GUAYAMA | Puerto Rico.
PR | 39887 | 3,714,677 | WIRS | YAUCO | Puerto Rico.
PR | 58340 | 3,254,481 | WJPX | SAN JUAN | Puerto Rico.
PR | 58342 | 1,962,885 | WJWN-TV | SAN SEBASTIAN | Puerto Rico.
PR | 64983 | 3,697,088 | WKAQ-TV | SAN JUAN | Puerto Rico.
PR | 58341 | 2,550,642 | WKPV | PONCE | Puerto Rico.
PR | 19777 | 2,801,102 | WLII-DT | CAGUAS | Puerto Rico.
PR | 73336 | 1,585,248 | WNJX-TV | MAYAGUEZ | Puerto Rico.
PR | 71725 | 2,896,629 | WOLE-DT | AGUADILLA | Puerto Rico.
PR | 64865 | 2,733,629 | WORA-TV | MAYAGUEZ | Puerto Rico.
PR | 73901 | 3,375,571 | WORO-DT | FAJARDO | Puerto Rico.
PR | 60357 | 921,993 | WOST | MAYAGUEZ | Puerto Rico.
PR | 3255 | 1,052,107 | WQHA | AGUADA | Puerto Rico.
PR | 54443 | 2,674,527 | WRFB | CAROLINA | Puerto Rico.
PR | 15320 | 2,905,193 | WRUA | FAJARDO | Puerto Rico.
PR | 4077 | 2,662,340 | WSJU-TV | SAN JUAN | Puerto Rico.
PR | 60341 | 3,723,967 | WSTE-DT | PONCE | Puerto Rico.
PR | 19776 | 3,716,312 | WSUR-DT | PONCE | Puerto Rico.
PR | 28954 | 3,254,481 | WTCV | SAN JUAN | Puerto Rico.
PR | 26681 | 3,714,547 | WTIN-TV | PONCE | Puerto Rico.
PR | 61573 | 1,153,382 | WVEO | AGUADILLA | Puerto Rico.
PR | 29000 | 1,166,833 | WVOZ-TV | PONCE | Puerto Rico.
PR | 67190 | 2,869,888 | WVSN | HUMACAO | Puerto Rico.
RI | 50780 | 6,537,858 | WJAR | PROVIDENCE | Providence-New Bedford.
RI | 73311 | 7,310,183 | WNAC-TV | PROVIDENCE | Providence-New Bedford.
RI | 47404 | 7,306,169 | WPRI-TV | PROVIDENCE | Providence-New Bedford.
RI | 50063 | 3,281,532 | WPXQ-TV | BLOCK ISLAND | Providence-New Bedford.
SC | 19199 | 1,317,429 | WACH | COLUMBIA | Columbia, SC.
SC | 66407 | 1,975,457 | WBTW | FLORENCE | Myrtle Beach-Florence.
SC | 10587 | 1,100,127 | WCBD-TV | CHARLESTON | Charleston, SC.
SC | 9015 | 1,125,558 | WCIV | CHARLESTON | Charleston, SC.
SC | 71297 | 1,014,501 | WCSC-TV | CHARLESTON | Charleston, SC.
SC | 9054 | 1,511,681 | WFXB | MYRTLE BEACH | Myrtle Beach-Florence.
SC | 9064 | 2,163,321 | WGGS-TV | GREENVILLE | Greenvll-Spart-Ashevll-And.
SC | 21536 | 986,963 | WGWG | CHARLESTON | Charleston, SC.
SC | 72300 | 2,549,397 | WHNS | GREENVILLE | Greenvll-Spart-Ashevll-And.
SC | 13990 | 2,644,715 | WIS | COLUMBIA | Columbia, SC.
SC | 40902 | 1,386,422 | WKTC | SUMTER | Columbia, SC.
SC | 37176 | 1,597,791 | WLTX | COLUMBIA | Columbia, SC.
SC | 83969 | 445,363 | WMBF-TV | MYRTLE BEACH | Myrtle Beach-Florence.
SC | 56548 | 1,577,439 | WMYA-TV | ANDERSON | Greenvll-Spart-Ashevll-And.
SC | 20624 | 3,551,284 | WMYT-TV | ROCK HILL | Charlotte.
SC | 60963 | 2,635,115 | WOLO-TV | COLUMBIA | Columbia, SC.
SC | 17012 | 1,764,645 | WPDE-TV | FLORENCE | Myrtle Beach-Florence.
SC | 66391 | 3,393,072 | WSPA-TV | SPARTANBURG | Greenvll-Spart-Ashevll-And.
SC | 416 | 1,153,279 | WTAT-TV | CHARLESTON | Charleston, SC.
SC | 27245 | 967,792 | WTGS | HARDEEVILLE | Savannah.
SC | 3133 | 1,460,406 | WWMB | FLORENCE | Myrtle Beach-Florence.
SC | 53905 | 2,586,888 | WYFF | GREENVILLE | Greenvll-Spart-Ashevll-And.
SC | 136750 | 952,279 | WZRB | COLUMBIA | Columbia, SC.
SD | 48659 | 137,331 | KABY-TV | ABERDEEN | Sioux Falls (Mitchell).
SD | 41969 | 138,413 | KCLO-TV | RAPID CITY | Rapid City.
SD | 41975 | 208,354 | KDLO-TV | FLORENCE | Sioux Falls (Mitchell).
SD | 55379 | 645,391 | KDLT-TV | SIOUX FALLS | Sioux Falls (Mitchell).
SD | 55375 | 96,873 | KDLV-TV | MITCHELL | Sioux Falls (Mitchell).
SD | 41983 | 705,364 | KELO-TV | SIOUX FALLS | Sioux Falls (Mitchell).
SD | 17688 | 181,345 | KHME | RAPID CITY | Rapid City.
SD | 34348 | 188,735 | KHSD-TV | LEAD | Rapid City.
SD | 81464 | 145,493 | KNBN | RAPID CITY | Rapid City.
SD | 34347 | 174,876 | KOTA-TV | RAPID CITY | Rapid City.
SD | 41964 | 55,827 | KPLO-TV | RELIANCE | Sioux Falls (Mitchell).
SD | 48660 | 42,521 | KPRY-TV | PIERRE | Sioux Falls (Mitchell).
SD | 17686 | 188,783 | KQME | LEAD | Rapid City.
SD | 48658 | 670,536 | KSFY-TV | SIOUX FALLS | Sioux Falls (Mitchell).
SD | 28501 | 76,133 | KTTM | HURON | Sioux Falls (Mitchell).
SD | 28521 | 329,557 | KTTW | SIOUX FALLS | Sioux Falls (Mitchell).
SD | 29121 | 280,675 | KWSD | SIOUX FALLS | Sioux Falls-Mitchell.
TN | 71082 | 1,874,433 | WATE-TV | KNOXVILLE | Knoxville.
TN | 11907 | 1,787,595 | WATN-TV | MEMPHIS | Memphis.
TN | 65204 | 662,148 | WBBJ-TV | JACKSON | Jackson, TN.
TN | 46984 | 1,978,347 | WBIR-TV | KNOXVILLE | Knoxville.
TN | 72971 | 2,142,548 | WBXX-TV | CROSSVILLE | Knoxville.
TN | 54385 | 1,731,483 | WDEF-TV | CHATTANOOGA | Chattanooga.
TN | 71353 | 1,061,573 | WDSI-TV | CHATTANOOGA | Chattanooga.
TN | 40761 | 1,727,493 | WEMT | GREENEVILLE | Tri-Cities, TN-VA.
TN | 72060 | 1,272,913 | WFLI-TV | CLEVELAND | Chattanooga.
TN | 12521 | 1,736,335 | WHBQ-TV | MEMPHIS | Memphis.
TN | 11117 | 1,872,713 | WHTN | MURFREESBORO | Nashville.
TN | 7651 | 1,744,291 | WJFB | LEBANON | Nashville.
TN | 57826 | 2,202,140 | WJHL-TV | JOHNSON CITY | Tri-Cities, TN-VA.
TN | 68519 | 654,460 | WJKT | JACKSON | Jackson TN.
TN | 83931 | 1,684,178 | WKNX-TV | KNOXVILLE | Knoxville.
TN | 27504 | 1,085,875 | WKPT-TV | KINGSPORT | Tri-Cities, TN-VA.
TN | 73188 | 2,410,573 | WKRN-TV | NASHVILLE | Nashville.
TN | 68518 | 1,736,552 | WLMT | MEMPHIS | Memphis.
TN | 19184 | 2,047,403 | WMC-TV | MEMPHIS | Memphis.
TN | 73310 | 2,072,197 | WNAB | NASHVILLE | Nashville.
TN | 28468 | 2,216,062 | WNPX-TV | COOKEVILLE | Nashville.
TN | 60820 | 2,355,629 | WPGD-TV | HENDERSONVILLE | Nashville.
TN | 52628 | 1,907,446 | WPXK-TV | JELLICO | Knoxville.
TN | 21726 | 1,565,527 | WPXX-TV | MEMPHIS | Memphis.
TN | 59137 | 1,587,742 | WRCB | CHATTANOOGA | Chattanooga.
TN | 66174 | 1,642,307 | WREG-TV | MEMPHIS | Memphis.
TN | 41232 | 2,447,769 | WSMV-TV | NASHVILLE | Nashville.
TN | 19200 | 1,722,805 | WTNZ | KNOXVILLE | Knoxville.
TN | 22590 | 1,579,628 | WTVC | CHATTANOOGA | Chattanooga.
TN | 36504 | 2,416,110 | WTVF | NASHVILLE | Nashville.
TN | 9971 | 2,316,872 | WUXP-TV | NASHVILLE | Nashville.
TN | 81750 | 1,412,728 | WVLR | TAZEWELL | Knoxville.
TN | 35908 | 1,874,453 | WVLT-TV | KNOXVILLE | Knoxville.
TN | 418 | 2,311,143 | WZTV | NASHVILLE | Nashville.
TX | 56528 | 2,474,296 | KABB | SAN ANTONIO | San Antonio.
TX | 148 | 2,615,956 | KAKW-DT | KILLEEN | Austin.
TX | 40820 | 391,526 | KAMC | LUBBOCK | Lubbock.
TX | 8523 | 366,476 | KAMR-TV | AMARILLO | Amarillo.
TX | 6864 | 381,671 | KAUZ-TV | WICHITA FALLS | Wichita Falls & Lawton.
TX | 73101 | 320,484 | KAVU-TV | VICTORIA | Victoria.
TX | 17433 | 6,747,915 | KAZD | LAKE DALLAS | Dallas-Ft. Worth.
TX | 10150 | 743,009 | KBMT | BEAUMONT | Beaumont-Port Arthur.
TX | 61214 | 714,432 | KBTV-TV | PORT ARTHUR | Beaumont-Port Arthur.
TX | 6669 | 4,048,516 | KBTX-TV | BRYAN | Waco-Temple-Bryan.
TX | 35909 | 1,498,015 | KBVO | LLANO | Austin.
TX | 27507 | 414,804 | KCBD | LUBBOCK | Lubbock.
TX | 83913 | 783,100 | KCEB | LONGVIEW | Tyler-Longview (Lfkn&Ncgd).
TX | 10245 | 1,795,767 | KCEN-TV | TEMPLE | Waco-Temple-Bryan.
TX | 33722 | 382,477 | KCIT | AMARILLO | Amarillo.
TX | 24316 | 3,961,044 | KCWX | FREDERICKSBURG | San Antonio.
TX | 22201 | 6,648,507 | KDAF | DALLAS | Dallas-Ft. Worth.
TX | 33764 | 1,015,564 | KDBC-TV | EL PASO | El Paso (Las Cruces).
TX | 17037 | 6,605,830 | KDFI | DALLAS | Dallas-Ft. Worth.
TX | 33770 | 6,658,976 | KDFW | DALLAS | Dallas-Ft. Worth.
TX | 67910 | 6,593,327 | KDTX-TV | DALLAS | Dallas-Ft. Worth.
TX | 26304 | 2,493,265 | KENS | SAN ANTONIO | San Antonio.
TX | 55643 | 1,031,567 | KETK-TV | JACKSONVILLE | Tyler-Longview (Lfkn&Ncgd).
TX | 33691 | 2,588,622 | KEYE-TV | AUSTIN | Austin.
TX | 83715 | 339,348 | KEYU | BORGER | Amarillo.
TX | 51466 | 385,064 | KFDA-TV | AMARILLO | Amarillo.
TX | 22589 | 679,470 | KFDM | BEAUMONT | Beaumont-Port Arthur.
TX | 65370 | 381,703 | KFDX-TV | WICHITA FALLS | Wichita Falls & Lawton.
TX | 33716 | 1,023,999 | KFOX-TV | EL PASO | El Paso (Las Cruces).
TX | 60537 | 6,080,688 | KFTH-DT | ALVIN | Houston.
TX | 29015 | 6,610,836 | KFWD | FORT WORTH | Dallas-Ft. Worth.
TX | 70917 | 926,496 | KFXK-TV | LONGVIEW | Tyler-Longview (Lfkn&Ncgd).
TX | 34457 | 1,230,798 | KGBT-TV | HARLINGEN | Harlingen-Wslco-Brnsvl-McA.
TX | 10061 | 267,236 | KGNS-TV | LAREDO | Laredo.
TX | 34529 | 6,137,449 | KHOU | HOUSTON | Houston.
TX | 23394 | 6,054,519 | KIAH | HOUSTON | Houston.
TX | 58560 | 116,614 | KIDY | SAN ANGELO | San Angelo.
TX | 10188 | 569,864 | KIII | CORPUS CHRISTI | Corpus Christi.
TX | 51708 | 1,015,582 | KINT-TV | EL PASO | El Paso (Las Cruces).
TX | 7675 | 379,594 | KJTL | WICHITA FALLS | Wichita Falls & Lawton.
TX | 55031 | 409,786 | KJTV-TV | LUBBOCK | Lubbock.
TX | 3660 | 387,909 | KLBK-TV | LUBBOCK | Lubbock.
TX | 77719 | 376,430 | KLCW-TV | WOLFFORTH | Lubbock.
TX | 51479 | 250,832 | KLDO-TV | LAREDO | Laredo.
TX | 31114 | 199,067 | KLST | SAN ANGELO | San Angelo.
TX | 68540 | 1,069,690 | KLTV | TYLER | Tyler-Longview (Lfkn&Ncgd).
TX | 56079 | 1,225,732 | KMBH | HARLINGEN | Harlingen-Wslco-Brnsvl-McA.
TX | 35131 | 383,449 | KMID | MIDLAND | Odessa-Midland.
TX | 53541 | 293,290 | KMLM-DT | ODESSA | Odessa-Midland.
TX | 73701 | 6,678,829 | KMPX | DECATUR | Dallas-Ft. Worth.
TX | 51518 | 2,273,888 | KMYS | KERRVILLE | San Antonio.
TX | 125710 | 2,398,296 | KNIC-DT | BLANCO | San Antonio.
TX | 144 | 2,412,222 | KNVA | AUSTIN | Austin.
TX | 69692 | 1,241,165 | KNVO | MCALLEN | Harlingen-Wslco-Brnsvl-McA.
TX | 64877 | 560,983 | KORO | CORPUS CHRISTI | Corpus Christi.
TX | 6865 | 340,978 | KOSA-TV | ODESSA | Odessa-Midland.
TX | 77452 | 30,861 | KPCB-DT | SNYDER | Abilene-Sweetwater.
TX | 12524 | 368,212 | KPEJ-TV | ODESSA | Odessa-Midland.
TX | 53117 | 6,099,422 | KPRC-TV | HOUSTON | Houston.
TX | 53544 | 322,780 | KPTB-DT | LUBBOCK | Lubbock.
TX | 81445 | 84,512 | KPTF-DT | FARWELL | Amarillo.
TX | 58835 | 6,082,624 | KPXB-TV | CONROE | Houston.
TX | 68834 | 6,603,994 | KPXD-TV | ARLINGTON | Dallas-Ft. Worth.
TX | 61173 | 2,257,007 | KPXL-TV | UVALDE | San Antonio.
TX | 306 | 229,395 | KRBC-TV | ABILENE | Abilene-Sweetwater.
TX | 43328 | 1,247,057 | KRGV-TV | WESLACO | Harlingen-Wslco-Brnsvl-McA.
TX | 25559 | 561,825 | KRIS-TV | CORPUS CHRISTI | Corpus Christi.
TX | 22204 | 6,078,936 | KRIV | HOUSTON | Houston.
TX | 307 | 135,063 | KSAN-TV | SAN ANGELO | San Angelo.
TX | 53118 | 2,530,706 | KSAT-TV | SAN ANTONIO | San Antonio.
TX | 82910 | 502,915 | KSCC | CORPUS CHRISTI | Corpus Christi.
TX | 60534 | 6,617,736 | KSTR-DT | IRVING | Dallas-Ft. Worth.
TX | 59988 | 270,967 | KTAB-TV | ABILENE | Abilene-Sweetwater.
TX | 35648 | 1,110,819 | KTAL-TV | TEXARKANA | Shreveport.
TX | 35649 | 3,242,215 | KTBC | AUSTIN | Austin.
TX | 28324 | 6,076,521 | KTBU | CONROE | Houston.
TX | 68753 | 1,015,088 | KTFN | EL PASO | El Paso (Las Cruces).
TX | 62354 | 1,014,202 | KTLM | RIO GRANDE CITY | Harlingen-Wslco-Brnsvl-McA.
TX | 64984 | 6,074,240 | KTMD | GALVESTON | Houston.
TX | 68541 | 441,879 | KTRE | LUFKIN | Tyler-Longview (Lfkn&Ncgd).
TX | 35675 | 6,114,259 | KTRK-TV | HOUSTON | Houston.
TX | 67760 | 1,015,348 | KTSM-TV | EL PASO | El Paso (Las Cruces).
TX | 23422 | 6,912,366 | KTVT | FORT WORTH | Dallas-Ft. Worth.
TX | 51517 | 6,876,811 | KTXA | FORT WORTH | Dallas-Ft. Worth.
TX | 42359 | 6,546,692 | KTXD-TV | GREENVILLE | Dallas-Ft. Worth.
TX | 51569 | 6,092,710 | KTXH | HOUSTON | Houston.
TX | 308 | 247,603 | KTXS-TV | SWEETWATER | Abilene-Sweetwater.
TX | 70492 | 6,062,183 | KUBE-TV | BAYTOWN | Houston.
TX | 86263 | 318,914 | KUPB | MIDLAND | Odessa-Midland.
TX | 35841 | 6,682,825 | KUVN-DT | GARLAND | Dallas-Ft. Worth.
TX | 32621 | 76,153 | KVAW | EAGLE PASS | San Antonio.
TX | 35846 | 288,221 | KVCT | VICTORIA | Victoria.
TX | 64969 | 2,400,582 | KVDA | SAN ANTONIO | San Antonio.
TX | 12523 | 1,244,504 | KVEO-TV | BROWNSVILLE | Harlingen-Wslco-Brnsvl-McA.
TX | 49832 | 1,015,350 | KVIA-TV | EL PASO | El Paso (Las Cruces).
TX | 40446 | 379,042 | KVII-TV | AMARILLO | Amarillo.
TX | 35867 | 2,661,290 | KVUE | AUSTIN | Austin.
TX | 42008 | 50,707 | KWAB-TV | BIG SPRING | Odessa-Midland.
TX | 42007 | 424,862 | KWES-TV | ODESSA | Odessa-Midland.
TX | 35881 | 2,365,653 | KWEX-DT | SAN ANTONIO | San Antonio.
TX | 12522 | 1,010,550 | KWKT-TV | WACO | Waco-Temple-Bryan.
TX | 35903 | 2,071,023 | KWTX-TV | WACO | Waco-Temple-Bryan.
TX | 84410 | 293,291 | KWWT | ODESSA | Odessa-Midland.
TX | 35920 | 2,678,666 | KXAN-TV | AUSTIN | Austin.
TX | 49330 | 6,707,738 | KXAS-TV | FORT WORTH | Dallas-Ft. Worth.
TX | 35954 | 2,323,974 | KXII | SHERMAN | Sherman-Ada.
TX | 53847 | 6,078,071 | KXLN-DT | ROSENBERG | Houston.
TX | 35994 | 6,716,749 | KXTX-TV | DALLAS | Dallas-Ft. Worth.
TX | 62293 | 185,478 | KXVA | ABILENE | Abilene-Sweetwater.
TX | 9781 | 1,771,620 | KXXV | WACO | Waco-Temple-Bryan.
TX | 31870 | 6,075,053 | KYAZ | KATY | Houston.
TX | 60384 | 324,032 | KYLE-TV | BRYAN | Waco-Temple-Bryan.
TX | 55644 | 901,751 | KYTX | NACOGDOCHES | Tyler-Longview (Lfkn&Ncgd).
TX | 55762 | 67,201 | KYVV-TV | DEL RIO | San Antonio.
TX | 69531 | 6,007,975 | KZJL | HOUSTON | Houston.
TX | 33079 | 567,635 | KZTV | CORPUS CHRISTI | Corpus Christi.
TX | 72054 | 6,957,935 | WFAA | DALLAS | Dallas-Ft. Worth.
TX | 69618 | 2,457,441 | WOAI-TV | SAN ANTONIO | San Antonio.
UT | 59494 | 174,814 | KCSG | CEDAR CITY | Salt Lake City.
UT | 36607 | 2,354,970 | KJZZ-TV | SALT LAKE CITY | Salt Lake City.
UT | 35822 | 133,563 | KMYU | ST. GEORGE | Salt Lake City.
UT | 77512 | 2,394,311 | KPNZ | OGDEN | Salt Lake City.
UT | 6359 | 2,390,852 | KSL-TV | SALT LAKE CITY | Salt Lake City.
UT | 22215 | 2,384,996 | KSTU | SALT LAKE CITY | Salt Lake City.
UT | 10177 | 2,261,671 | KTMW | SALT LAKE CITY | Salt Lake City.
UT | 68889 | 2,387,093 | KTVX | SALT LAKE CITY | Salt Lake City.
UT | 1136 | 2,351,678 | KUCW | OGDEN | Salt Lake City.
UT | 57884 | 2,374,672 | KUPX-TV | PROVO | Salt Lake City.
UT | 69694 | 1,210,774 | KUTF | LOGAN | Salt Lake City.
UT | 81451 | 2,219,788 | KUTH-DT | PROVO | Salt Lake City.
UT | 35823 | 2,388,211 | KUTV | SALT LAKE CITY | Salt Lake City.
VA | 71127 | 2,039,358 | WAVY-TV | PORTSMOUTH | Norfolk-Portsmth-Newpt Nws.
VA | 363 | 949,729 | WCAV | CHARLOTTESVILLE | Charlottesville.
VA | 2455 | 3,032,475 | WCYB-TV | BRISTOL | Tri-Cities, TN-VA.
VA | 71329 | 1,606,844 | WDBJ | ROANOKE | Roanoke-Lynchburg.
VA | 69532 | 8,155,998 | WFDC-DT | ARLINGTON | Washington, DC (Hagrstwn).
VA | 15507 | 976,733 | WFFP-TV | DANVILLE | Roanoke-Lynchburg.
VA | 24813 | 1,432,348 | WFXR | ROANOKE | Roanoke-Lynchburg.
VA | 9762 | 1,875,612 | WGNT | PORTSMOUTH | Norfolk-Portsmth-Newpt Nws.
VA | 4688 | 1,052,641 | WHSV-TV | HARRISONBURG | Harrisonburg.
VA | 37808 | 1,614,456 | WLFG | GRUNDY | Tri-Cities, TN-VA.
VA | 70251 | 1,300,747 | WPXR-TV | ROANOKE | Roanoke-Lynchburg.
VA | 67077 | 1,905,128 | WPXV-TV | NORFOLK | Norfolk-Portsmth-Newpt Nws.
VA | 74091 | 8,091,469 | WPXW-TV | MANASSAS | Washington, DC (Hagrstwn).
VA | 74416 | 1,996,265 | WRIC-TV | PETERSBURG | Richmond-Petersburg.
VA | 412 | 1,950,292 | WRLH-TV | RICHMOND | Richmond-Petersburg.
VA | 73988 | 1,569,722 | WSET-TV | LYNCHBURG | Roanoke-Lynchburg.
VA | 57840 | 1,440,376 | WSLS-TV | ROANOKE | Roanoke-Lynchburg.
VA | 47401 | 2,142,272 | WTKR | NORFOLK | Norfolk-Portsmth-Newpt Nws.
VA | 82574 | 2,167,863 | WTPC-TV | VIRGINIA BEACH | Norfolk-Portsmth-Newpt Nws.
VA | 57832 | 1,808,516 | WTVR-TV | RICHMOND | Richmond-Petersburg.
VA | 40759 | 2,156,534 | WTVZ-TV | NORFOLK | Norfolk-Portsmth-Newpt Nws.
VA | 10897 | 1,654,049 | WUPV | ASHLAND | Richmond-Petersburg.
VA | 65387 | 1,848,277 | WVBT | VIRGINIA BEACH | Norfolk-Portsmth-Newpt Nws.
VA | 74167 | 2,179,223 | WVEC | HAMPTON | Norfolk-Portsmth-Newpt Nws.
VA | 70309 | 1,944,353 | WVIR-TV | CHARLOTTESVILLE | Charlottesville.
VA | 30833 | 1,911,854 | WWBT | RICHMOND | Richmond-Petersburg.
VA | 24812 | 1,404,553 | WWCW | LYNCHBURG | Roanoke-Lynchburg.
VI | 83304 | 50,601 | WCVI-TV | CHRISTIANSTED | Virgin Islands.
VI | 2370 | 50,601 | WSVI | CHRISTIANSTED | Virgin Islands.
VI | 3113 | 85,191 | WVXF | CHARLOTTE AMALIE | Virgin Islands.
VI | 83270 | 55,804 | WZVI | CHARLOTTE AMALIE | Virgin Islands.
VT | 46728 | 784,748 | WCAX-TV | BURLINGTON | Burlington-Plattsburgh.
VT | 10132 | 592,012 | WFFF-TV | BURLINGTON | Burlington-Plattsburgh.
VT | 73344 | 1,042,386 | WNNE | MONTPELIER | Burlington-Plattsburgh.
VT | 11259 | 721,176 | WVNY | BURLINGTON | Burlington-Plattsburgh.
WA | 2506 | 319,797 | KAPP | YAKIMA | Yakima-Pasco-Rchlnd-Knnwck.
WA | 58684 | 809,464 | KAYU-TV | SPOKANE | Spokane.
WA | 53586 | 1,256,193 | KBCB | BELLINGHAM | Seattle-Tacoma.
WA | 33894 | 4,439,875 | KCPQ | TACOMA | Seattle-Tacoma.
WA | 56029 | 453,259 | KEPR-TV | PASCO | Yakima-Pasco-Rchlnd-Knnwck.
WA | 49264 | 3,783,380 | KFFV | SEATTLE | Seattle-Tacoma.
WA | 81694 | 698,441 | KGPX-TV | SPOKANE | Spokane.
WA | 34537 | 822,371 | KHQ-TV | SPOKANE | Spokane.
WA | 56033 | 308,604 | KIMA-TV | YAKIMA | Yakima-Pasco-Rchlnd-Knnwck.
WA | 34847 | 4,063,674 | KING-TV | SEATTLE | Seattle-Tacoma.
WA | 66781 | 4,058,846 | KIRO-TV | SEATTLE | Seattle-Tacoma.
WA | 12395 | 314,875 | KNDO | YAKIMA | Yakima-Pasco-Rchlnd-Knnwck.
WA | 12427 | 475,612 | KNDU | RICHLAND | Yakima-Pasco-Rchlnd-Knnwck.
WA | 21656 | 4,123,984 | KOMO-TV | SEATTLE | Seattle-Tacoma.
WA | 35396 | 4,006,008 | KONG | EVERETT | Seattle-Tacoma.
WA | 35460 | 2,970,703 | KPDX | VANCOUVER | Portland, OR.
WA | 78921 | 697,016 | KQUP | PULLMAN | Spokane.
WA | 34868 | 817,619 | KREM | SPOKANE | Spokane.
WA | 35606 | 731,818 | KSKN | SPOKANE | Spokane.
WA | 23428 | 4,265,956 | KSTW | TACOMA | Seattle-Tacoma.
WA | 67950 | 4,202,104 | KTBW-TV | TACOMA | Seattle-Tacoma.
WA | 4624 | 4,023,436 | KUNS-TV | BELLEVUE | Seattle-Tacoma.
WA | 2495 | 471,342 | KVEW | KENNEWICK | Yakima-Pasco-Rchlnd-Knnwck.
WA | 35862 | 2,019,168 | KVOS-TV | BELLINGHAM | Seattle-Tacoma.
WA | 56852 | 4,220,008 | KWPX-TV | BELLEVUE | Seattle-Tacoma.
WA | 69571 | 4,179,154 | KZJO | SEATTLE | Seattle-Tacoma.
WI | 33658 | 275,585 | KBJR-TV | SUPERIOR | Duluth-Superior.
WI | 361 | 920,090 | WACY-TV | APPLETON | Green Bay-Appleton.
WI | 64546 | 636,957 | WAOW | WAUSAU | Wausau-Rhinelander.
WI | 74417 | 1,225,928 | WBAY-TV | GREEN BAY | Green Bay-Appleton.
WI | 73042 | 1,040,984 | WCWF | SURING | Green Bay-Appleton.
WI | 71427 | 3,085,540 | WDJT-TV | MILWAUKEE | Milwaukee.
WI | 7893 | 991,019 | WEAU | EAU CLAIRE | La Crosse-Eau Claire.
WI | 2709 | 379,158 | WEUX | CHIPPEWA FALLS | La Crosse-Eau Claire.
WI | 9635 | 1,201,204 | WFRV-TV | GREEN BAY | Green Bay-Appleton.
WI | 2708 | 1,134,279 | WGBA-TV | GREEN BAY | Green Bay-Appleton.
WI | 26025 | 1,400,358 | WIFS | JANESVILLE | Madison.
WI | 65143 | 1,830,642 | WISC-TV | MADISON | Madison.
WI | 65680 | 2,938,180 | WISN-TV | MILWAUKEE | Milwaukee.
WI | 73107 | 3,117,326 | WITI | MILWAUKEE | Milwaukee.
WI | 60571 | 3,462,960 | WIWN | FOND DU LAC | Milwaukee.
WI | 49699 | 277,530 | WJFW-TV | RHINELANDER | Wausau-Rhinelander.
WI | 74424 | 866,325 | WKBT-DT | LA CROSSE | La Crosse-Eau Claire.
WI | 64545 | 1,918,224 | WKOW | MADISON | Madison.
WI | 2710 | 513,319 | WLAX | LA CROSSE | La Crosse-Eau Claire.
WI | 4150 | 1,251,563 | WLUK-TV | GREEN BAY | Green Bay-Appleton.
WI | 68545 | 2,708,202 | WMLW-TV | RACINE | Milwaukee.
WI | 81503 | 121,150 | WMOW | CRANDON | Wausau-Rhinelander.
WI | 10221 | 1,579,847 | WMSN-TV | MADISON | Madison.
WI | 6870 | 1,548,616 | WMTV | MADISON | Madison.
WI | 37104 | 3,163,550 | WPXE-TV | KENOSHA | Milwaukee.
WI | 64550 | 367,516 | WQOW | EAU CLAIRE | La Crosse-Eau Claire.
WI | 6867 | 652,442 | WSAW-TV | WAUSAU | Wausau-Rhinelander.
WI | 74098 | 3,010,678 | WTMJ-TV | MILWAUKEE | Milwaukee.
WI | 86496 | 238,151 | WTPX-TV | ANTIGO | Wausau-Rhinelander.
WI | 72342 | 2,543,642 | WVCY-TV | MILWAUKEE | Milwaukee.
WI | 74174 | 2,999,694 | WVTV | MILWAUKEE | Milwaukee.
WI | 68547 | 2,235,958 | WWRS-TV | MAYVILLE | Milwaukee.
WI | 64549 | 424,268 | WXOW | LA CROSSE | La Crosse-Eau Claire.
WI | 77789 | 91,233 | WYOW | EAGLE RIVER | Wausau-Rhinelander.
WV | 71220 | 711,302 | WBOY-TV | CLARKSBURG | Clarksburg-Weston.
WV | 71280 | 1,303,787 | WCHS-TV | CHARLESTON | Charleston-Huntington.
WV | 70592 | 962,532 | WDTV | WESTON | Clarksburg-Weston.
WV | 37806 | 808,036 | WLFB | BLUEFIELD | Bluefield-Beckley-Oak Hill.
WV | 73189 | 1,021,171 | WLPX-TV | CHARLESTON | Charleston-Huntington.
WV | 66804 | 569,330 | WOAY-TV | OAK HILL | Bluefield-Beckley-Oak Hill.
WV | 23342 | 1,176,043 | WOWK-TV | HUNTINGTON | Charleston-Huntington.
WV | 36912 | 1,184,629 | WSAZ-TV | HUNTINGTON | Charleston-Huntington.
WV | 4685 | 472,761 | WTAP-TV | PARKERSBURG | Parkersburg.
WV | 6869 | 2,941,511 | WTRF-TV | WHEELING | Wheeling-Steubenville.
WV | 417 | 1,373,707 | WVAH-TV | CHARLESTON | Charleston-Huntington.
WV | 10976 | 731,193 | WVFX | CLARKSBURG | Clarksburg-Weston.
WV | 74169 | 911,630 | WVNS-TV | LEWISBURG | Bluefield-Beckley-Oak Hill.
WV | 74176 | 1,035,752 | WVVA | BLUEFIELD | Bluefield-Beckley-Oak Hill.
WV | 23264 | 3,892,904 | WWPX-TV | MARTINSBURG | Washington, DC (Hagrstwn).
WY | 68713 | 79,948 | KCWY-DT | CASPER | Casper-Riverton.
WY | 74256 | 80,382 | KFNB | CASPER | Casper-Riverton.
WY | 21613 | 54,988 | KFNE | RIVERTON | Casper-Riverton.
WY | 21612 | 10,988 | KFNR | RAWLINS | Casper-Riverton.
WY | 63177 | 80,475 | KGWC-TV | CASPER | Casper-Riverton.
WY | 63162 | 38,125 | KGWL-TV | LANDER | Casper-Riverton.
WY | 63166 | 469,467 | KGWN-TV | CHEYENNE | Cheyenne-Scottsbluff.
WY | 63170 | 51,315 | KGWR-TV | ROCK SPRINGS | Casper-Riverton.
WY | 40250 | 541,043 | KLWY | CHEYENNE | Cheyenne-Scottsbluff.
WY | 18287 | 3,220,160 | KQCK | CHEYENNE | Cheyenne-Scottsbluff.
WY | 17680 | 62,178 | KSGW-TV | SHERIDAN | Rapid City.
WY | 18286 | 80,426 | KTWO-TV | CASPER | Casper-Riverton.

VII. Initial Regulatory Flexibility Analysis

1. As required by the Regulatory Flexibility Act of 1980, as amended (RFA),⁹⁹ the Commission prepared this Initial Regulatory Flexibility Analysis (IRFA) of the possible significant economic impact on small entities by the policies and rules proposed in the Notice of Proposed Rulemaking (Notice). Written comments are requested on this IRFA. Comments must be identified as responses to the IRFA and must be filed by the deadline for comments on this Notice. The Commission will send a copy of the Notice, including the IRFA, to the Chief Counsel for Advocacy of the Small Business Administration (SBA).¹⁰⁰ In addition, the Notice and IRFA (or summaries thereof) will be published in the Federal Register.¹⁰¹

⁹⁹ 5 U.S.C. 603. The RFA, 5 U.S.C. 601-612 has been amended by the Small Business Regulatory Enforcement Fairness Act of 1996 (SBREFA), Public Law N 104-121, Title II, 110 Stat. 847 (1996).

¹⁰⁰ 5 U.S.C. 603(a).

¹⁰¹ Id.

A. Need for, and Objectives of, the Notice

2. The Notice seeks comment regarding adopting proposed regulatory fees for Fiscal Year 2018. The proposed regulatory fees are attached to the Notice in Table 2. This regulatory fee Notice is needed each year because the Commission is required by Congress to adopt regulatory fees each year “to recover the costs of . . . enforcement activities, policy and rulemaking activities, user information services, and international activities.” ¹⁰² The objective of the Notice is to propose regulatory fees for fiscal year 2017 and adopt regulatory fee reform to improve the regulatory fee process. The Notice seeks comment on the Commission's proposed regulatory fees for fiscal year (FY) 2018. The Notice proposes to collect $322,035,000 in regulatory fees for FY 2018, as detailed in the proposed fee schedules in Table 2, including an increase in the DBS fee rate to 48 cents per subscriber so that the DBS fee would be approaching parity with the cable television/IPTV fee, based on the Media Bureau FTEs devoted to issues that include DBS; rates for international bearer circuits that include non-common carrier circuits; and rates in revised tiers for submarine cable systems. The Notice seeks comment on adopting rates for television broadcasters that are more closely tied to the population served in the broadcast area, for FY 2019 and seeks comment on whether, for FY 2019, the Commission should adopt a new regulatory fee category for small satellites.

¹⁰² 47 U.S.C. 159(a).

B. Legal Basis

3. This action, including publication of proposed rules, is authorized under sections (4)(i) and (j), 9, and 303(r) of the Communications Act of 1934, as amended.¹⁰³

¹⁰³ 47 U.S.C. 154(i) and (j), 159, and 303(r).

C. Description and Estimate of the Number of Small Entities to Which the Rules Will Apply

4. The RFA directs agencies to provide a description of, and where feasible, an estimate of the number of small entities that may be affected by the proposed rules and policies, if adopted.¹⁰⁴ The RFA generally defines the term “small entity” as having the same meaning as the terms “small business,” “small organization,” and “small governmental jurisdiction.” ¹⁰⁵ In addition, the term “small business” has the same meaning as the term “small business concern” under the Small Business Act.¹⁰⁶ A “small business concern” is one which: (1) Is independently owned and operated; (2) is not dominant in its field of operation; and (3) satisfies any additional criteria established by the SBA.¹⁰⁷

¹⁰⁴ 5 U.S.C. 603(b)(3).

¹⁰⁵ 5 U.S.C. 601(6).

¹⁰⁶ 5 U.S.C. 601(3) (incorporating by reference the definition of “small-business concern” in the Small Business Act, 15 U.S.C. 632). Pursuant to 5 U.S.C. 01(3), the statutory definition of a small business applies “unless an agency, after consultation with the Office of Advocacy of the Small Business Administration and after opportunity for public comment, establishes one or more definitions of such term which are appropriate to the activities of the agency and publishes such definition(s) in the Federal Register.”

¹⁰⁷ 15 U.S.C. 632.

5. Small Entities. Our actions, over time, may affect small entities that are not easily categorized at present. We therefore describe here, at the outset, three comprehensive small entity size standards that could be directly affected by the proposals under consideration.¹⁰⁸ As of 2009, small businesses represented 99.9 percent of the 27.5 million businesses in the United States, according to the SBA.¹⁰⁹ In addition, a “small organization is generally any not-for-profit enterprise which is independently owned and operated and not dominant in its field.¹¹⁰ In addition, the term “small governmental jurisdiction” is defined generally as “governments of cities, towns, townships, villages, school districts, or special districts, with a population of less than fifty thousand.” ¹¹¹ U.S. Census Bureau data for 2011 indicate that there were 90,056 local governmental jurisdictions in the United States.¹¹² We estimate that, of this total, as many as 89,327 entities may qualify as “small governmental jurisdictions.” ¹¹³ Thus, we estimate that most local government jurisdictions are small.

¹⁰⁸ See 5 U.S.C. 601(3)-(6).

¹⁰⁹ See SBA, Office of Advocacy, “Frequently Asked Questions,” available at https://www.sba.gov/sites/default/files/advocacy/SB-FAQ-2016_WEB.pdf.

¹¹⁰ 5 U.S.C. 601(4).

¹¹¹ 5 U.S.C. 601(5).

¹¹² See SBA, Office of Advocacy, “Frequently Asked Questions,” available at https://www.sba.gov/sites/default/files/advocacy/SB-FAQ-2016_WEB.pdf.

¹¹³ The 2011 U.S. Census Data for small governmental organizations are not presented based on the size of the population in each organization. As stated above, there were 90,056 local governmental organizations in 2011. As a basis for estimating how many of these 90,056 local governmental organizations were small, we note that there were a total of 729 cities and towns (incorporated places and civil divisions) with populations over 50,000. See http://factfinder.census.gov/faces/tableservices/jsf/pages/productview.xhtml?pid=ECN_2012_US_51SSSZ5&prodType=table. If we subtract the 729 cities and towns that exceed the 50,000 population threshold, we conclude that approximately 789,237 are small.

6. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” ¹¹⁴ The SBA has developed a small business size standard for Wired Telecommunications Carriers, which consists of all such companies having 1,500 or fewer employees.¹¹⁵ Census data for 2012 shows that there were 3,117 firms that operated that year. Of this total, 3,083 operated with fewer than 1,000 employees.¹¹⁶ Thus, under this size standard, the majority of firms in this industry can be considered small.

¹¹⁴ See http://www.census.gov/cgi-bin/sssd/naics/naicsrch.

¹¹⁵ See 13 CFR 120.201, NAICS code 517110.

¹¹⁶ http://factfinder.census.gov/faces/tableservices/jsf/pages/productview.xhtml?pid=ECN_2012_US_51SSSZ5&prodType=table.

7. Local Exchange Carriers (LECs). Neither the Commission nor the SBA has developed a size standard for small businesses specifically applicable to local exchange services. The closest applicable NAICS code category is for Wired Telecommunications Carriers. Under that size standard, such a business is small if it has 1,500 or fewer employees.¹¹⁷ According to census data from 2012, there were 3,117 establishments that operated that year. Of this total, 3,083 operated with fewer than 1,000 employees.¹¹⁸ The Commission estimates that most providers of local exchange service are small entities that may be affected by the rules proposed in the Notice.

¹¹⁷ 13 CFR 121.201, NAICS code 517110.

¹¹⁸ http://factfinder.census.gov/faces/tableservices/jsf/pages/productview.xhtml?pid=ECN_2012_US_51SSSZ5&prodType=table.

8. Incumbent LECs. Neither the Commission nor the SBA has developed a small business size standard specifically for incumbent local exchange services. The closest applicable NAICS code category is Wired Telecommunications Carriers. Under that size standard, such a business is small if it has 1,500 or fewer employees.¹¹⁹ According to census data from 2012, 3,117 firms operated in that year. Of this total, 3,083 operated with fewer than 1,000 employees.¹²⁰ According to Commission data, 1,307 carriers reported that they were incumbent local exchange service providers.¹²¹ Of this total of 1,307 incumbent local exchange service providers, an estimated 1,006 operated with 1,500 or fewer employees.¹²² Consequently, the Commission estimates that most providers of incumbent local exchange service are small businesses that may be affected by the rules proposed in this Notice.

¹¹⁹ 13 CFR 121.201, NAICS code 517110.

¹²⁰ http://factfinder.census.gov/faces/tableservices/jsf/pages/productview.xhtml?pid=ECN_2012_US_51SSSZ5&prodType=table.

¹²¹ See Trends in Telephone Service, Federal Communications Commission, Wireline Competition Bureau, Industry Analysis and Technology Division at Table 5.3 (September 2010) (Trends in Telephone Service).

¹²² See id.

9. Competitive Local Exchange Carriers (Competitive LECs), Competitive Access Providers (CAPs), Shared-Tenant Service Providers, and Other Local Service Providers. Neither the Commission nor the SBA has developed a small business size standard specifically for these service providers. The appropriate NAICS code category is Wired Telecommunications Carriers. Under that size standard, such a business is small if it has 1,500 or fewer employees.¹²³ U.S. Census data for 2012 indicate that 3,117 firms operated during that year. Of that number, 3,083 operated with fewer than 1,000 employees.¹²⁴ Based on this data, the Commission concludes that the majority of Competitive LECs, CAPs, Shared-Tenant Service Providers, and Other Local Service Providers are small entities. According to the Commission data, 1,442 carriers reported that they were engaged in the provision of either competitive local exchange services or competitive access provider services.¹²⁵ Of these 1,442 carriers, an estimated 1,256 have 1,500 or fewer employees. In addition, 17 carriers have reported that they are Shared-Tenant Service Providers, and all 17 are estimated to have 1,500 or fewer employees.¹²⁶ Also, 72 carriers have reported that they are Other Local Service Providers.¹²⁷ Of this total, 70 have 1,500 or fewer employees.¹²⁸ Consequently, the Commission estimates that most providers of competitive local exchange service, competitive access providers, Shared-Tenant Service Providers, and Other Local Service Providers are small entities that may be affected by rules proposed in this Notice.

¹²³ 13 CFR 121.201, NAICS code 517110.

¹²⁴ http://factfinder.census.gov/faces/tableservices/jsf/pages/productview.xhtml?pid=ECN_2012_US_51SSSZ5&prodType=table.

¹²⁵ See Trends in Telephone Service, at Table 5.3.

¹²⁶ Id.

¹²⁷ Id.

¹²⁸ Id.

10. Interexchange Carriers (IXCs). Neither the Commission nor the SBA has developed a definition for Interexchange Carriers. The closest NAICS code category is Wired Telecommunications Carriers as defined in paragraph 6 of this IRFA. The applicable size standard under SBA rules is that such a business is small if it has 1,500 or fewer employees.¹²⁹ U.S. Census data for 2012 indicate that 3,117 firms operated during that year. Of that number, 3,083 operated with fewer than 1,000 employees.¹³⁰ According to Commission data, 359 companies reported that their primary telecommunications service activity was the provision of interexchange services.¹³¹ Of this total, an estimated 317 have 1,500 or fewer employees. Consequently, the Commission estimates that the majority of interexchange service providers are small entities that may be affected by rules proposed in this Notice.

¹²⁹ 13 CFR 121.201, NAICS code 517110.

¹³⁰ http://factfinder.census.gov/faces/tableservices/jsf/pages/productview.xhtml?pid=ECN_2012_US_51SSSZ5&prodType=table.

¹³¹ See Trends in Telephone Service, at Table 5.3.

11. Prepaid Calling Card Providers. Neither the Commission nor the SBA has developed a small business size standard specifically for prepaid calling card providers. The appropriate NAICS code category for prepaid calling card providers is Telecommunications Resellers. This industry comprises establishments engaged in purchasing access and network capacity from owners and operators of telecommunications networks and reselling wired and wireless telecommunications services (except satellite) to businesses and households. Establishments in this industry resell telecommunications; they do not operate transmission facilities and infrastructure. Mobile virtual networks operators (MVNOs) are included in this industry.¹³² Under the applicable SBA size standard, such a business is small if it has 1,500 or fewer employees.¹³³ U.S. Census data for 2012 show that 1,341 firms provided resale services during that year. Of that number, 1,341 operated with fewer than 1,000 employees.¹³⁴ Thus, under this category and the associated small business size standard, the majority of these prepaid calling card providers can be considered small entities. According to Commission data, 193 carriers have reported that they are engaged in the provision of prepaid calling cards.¹³⁵ All 193 carriers have 1,500 or fewer employees.¹³⁶ Consequently, the Commission estimates that the majority of prepaid calling card providers are small entities that may be affected by rules proposed in this Notice.

¹³² http://www.census.gov/cgi-bin/ssd/naics/naicsrch.

¹³³ 13 CFR 121.201, NAICS code 517911.

¹³⁴ http://factfinder.census.gov/faces/tableservices/jsf/pages/productview.xhtml?pid=ECN_2012_US_51SSSZ5&prodType=table.

¹³⁵ See Trends in Telephone Service, at Table 5.3.

¹³⁶ Id.

12. Local Resellers. Neither the Commission nor the SBA has developed a small business size standard specifically for Local Resellers. The SBA has developed a small business size standard for the category of Telecommunications Resellers. Under that size standard, such a business is small if it has 1,500 or fewer employees.¹³⁷ Census data for 2012 show that 1,341 firms provided resale services during that year.¹³⁸ Of that number, 1,341 operated with fewer than 1,000 employees.¹³⁹ Under this category and the associated small business size standard, the majority of these local resellers can be considered small entities. According to Commission data, 213 carriers have reported that they are engaged in the provision of local resale services.¹⁴⁰ Of this total, an estimated 211 have 1,500 or fewer employees.¹⁴¹ Consequently, the Commission estimates that the majority of local resellers are small entities that may be affected by rules proposed in this Notice.

¹³⁷ 13 CFR 121.201, NAICS code 517911.

¹³⁸ http://factfinder.census.gov/faces/tableservices/jsf/pages/productview.xhtml?pid=ECN_2012_US_51SSSZ5&prodType=table.

¹³⁹ http://factfinder.census.gov/faces/tableservices/jsf/pages/productview.xhtml?pid=ECN_2012_US_51SSSZ5&prodType=table.

¹⁴⁰ See Trends in Telephone Service, at Table 5.3.

¹⁴¹ Id.

13. Toll Resellers. The Commission has not developed a definition for Toll Resellers. The closest NAICS code Category is Telecommunications Resellers, and the SBA has developed a small business size standard for the category of Telecommunications Resellers.¹⁴² Under that size standard, such a business is small if it has 1,500 or fewer employees.¹⁴³ Census data for 2012 show that 1,341 firms provided resale services during that year.¹⁴⁴ Of that number, 1,341 operated with fewer than 1,000 employees.¹⁴⁵ Thus, under this category and the associated small business size standard, the majority of these resellers can be considered small entities. According to Commission data, 881 carriers have reported that they are engaged in the provision of toll resale services.¹⁴⁶ Of this total, an estimated 857 have 1,500 or fewer employees.¹⁴⁷ Consequently, the Commission estimates that the majority of toll resellers are small entities that may be affected by the rules proposed in the Notice.

¹⁴² 13 CFR 121.201, NAICS code 517911.

¹⁴³ Id.

¹⁴⁴ http://factfinder.census.gov/faces/tableservices/jsf/pages/productview.xhtml?pid=ECN_2012_US_51SSSZ5&prodType=table.

¹⁴⁵ Id.

¹⁴⁶ Trends in Telephone Service, at Table 5.3.

¹⁴⁷ Id.

14. Other Toll Carriers. Neither the Commission nor the SBA has developed a size standard for small businesses specifically applicable to Other Toll Carriers. This category includes toll carriers that do not fall within the categories of interexchange carriers, operator service providers, prepaid calling card providers, satellite service carriers, or toll resellers. The closest applicable NAICS code category is for Wired Telecommunications Carriers, as defined in paragraph 6 of this IRFA. Under that size standard, such a business is small if it has 1,500 or fewer employees.¹⁴⁸ Census data for 2012 shows that there were 3,117 firms that operated that year.¹⁴⁹ Of this total, 3,083 operated with fewer than 1,000 employees.¹⁵⁰ Thus, under this category and the associated small business size standard, the majority of Other Toll Carriers can be considered small. According to Commission data, 284 companies reported that their primary telecommunications service activity was the provision of other toll carriage.¹⁵¹ Of these, an estimated 279 have 1,500 or fewer employees.¹⁵² Consequently, the Commission estimates that most Other Toll Carriers are small entities that may be affected by the rules proposed in the Notice.

¹⁴⁸ 13 CFR 121.201, NAICS code 517110.

¹⁴⁹ http://factfinder.census.gov/faces/tableservices/jsf/pages/productview.xhtml?pid=ECN_2012_US_51SSSZ5&prodType=table.

¹⁵⁰ Id.

¹⁵¹ Trends in Telephone Service, at Table 5.3.

¹⁵² Id.

15. Wireless Telecommunications Carriers (except Satellite). This industry comprises establishments engaged in operating and maintaining switching and transmission facilities to provide communications via the airwaves. Establishments in this industry have spectrum licenses and provide services using that spectrum, such as cellular services, paging services, wireless internet access, and wireless video services.¹⁵³ The appropriate size standard under SBA rules is that such a business is small if it has 1,500 or fewer employees. For this industry, Census Data for 2012 show that there were 967 firms that operated for the entire year.¹⁵⁴ Of this total, 955 firms had fewer than 1,000 employees.¹⁵⁵ Thus under this category and the associated size standard, the Commission estimates that the majority of wireless telecommunications carriers (except satellite) are small entities. Similarly, according to Commission data, 413 carriers reported that they were engaged in the provision of wireless telephony, including cellular service, Personal Communications Service (PCS), and Specialized Mobile Radio (SMR) services.¹⁵⁶ Of this total, an estimated 261 have 1,500 or fewer employees.¹⁵⁷ Thus, using available data, we estimate that the majority of wireless firms can be considered small and may be affected by rules proposed in this Notice.

¹⁵³ NAICS code 517210. See http://www.census.gov/cgi-bin/ssd/naics/naiscsrch.

¹⁵⁴ http://factfinder.census.gov/faces/tableservices/jsf/pages/productview.xhtml?pid=ECN_2012_US_51SSSZ5&prodType=table.

¹⁵⁵ http://factfinder.census.gov/faces/tableservices/jsf/pages/productview.xhtml?pid=ECN_2012_US_51SSSZ5&prodType=table.

¹⁵⁶ Trends in Telephone Service, at Table 5.3.

¹⁵⁷ Id.

16. Television Broadcasting. This Economic Census category “comprises establishments primarily engaged in broadcasting images together with sound. These establishments operate television broadcasting studios and facilities for the programming and transmission of programs to the public.” ¹⁵⁸ These establishments also produce or transmit visual programming to affiliated broadcast television stations, which in turn broadcast the programs to the public on a predetermined schedule. Programming may originate in their own studio, from an affiliated network, or from external sources. The SBA has created the following small business size standard for Television Broadcasting firms: Those having $38.5 million or less in annual receipts.¹⁵⁹ The 2012 Economic Census reports that 751 television broadcasting firms operated during that year. Of that number, 656 had annual receipts of less than $25 million per year. Based on that Census data we conclude that a majority of firms that operate television stations are small. The Commission has estimated the number of licensed commercial television stations to be 1,387.¹⁶⁰ In addition, according to Commission staff review of the BIA Advisory Services, LLC's Media Access Pro Television Database on March 28, 2012, about 950 of an estimated 1,300 commercial television stations (or approximately 73 percent) had revenues of $14 million or less.¹⁶¹ We therefore estimate that the majority of commercial television broadcasters are small entities.

¹⁵⁸ U.S. Census Bureau, 2012 NAICS code Economic Definitions, http://www.census.gov.cgi-bin/sssd/naics/naicsrch.

¹⁵⁹ 13 CFR 121.201, NAICS code 515120.

¹⁶⁰ See FCC News Release, “Broadcast Station Totals as of December 31, 2011,” dated January 6, 2012; http://transition.fcc.gov/Daily_Releases/Daily_Business/2012/db0106/DOC-311837A1.pdf.

¹⁶¹ We recognize that BIA's estimate differs slightly from the FCC total given supra.

17. In assessing whether a business concern qualifies as small under the above definition, business (control) affiliations ¹⁶² must be included. Our estimate, therefore, likely overstates the number of small entities that might be affected by our action, because the revenue figure on which it is based does not include or aggregate revenues from affiliated companies. In addition, an element of the definition of “small business” is that the entity not be dominant in its field of operation. We are unable at this time to define or quantify the criteria that would establish whether a specific television station is dominant in its field of operation. Accordingly, the estimate of small businesses to which rules may apply does not exclude any television station from the definition of a small business on this basis and is therefore possibly over-inclusive to that extent.

¹⁶² “[Business concerns] are affiliates of each other when one concern controls or has the power to control the other or a third party or parties controls or has to power to control both.” 13 CFR 21.103(a)(1).

18. In addition, the Commission has estimated the number of licensed noncommercial educational (NCE) television stations to be 396.¹⁶³ These stations are non-profit, and therefore considered to be small entities.¹⁶⁴ There are also 2,528 low power television stations, including Class A stations (LPTV).¹⁶⁵ Given the nature of these services, we will presume that all LPTV licensees qualify as small entities under the above SBA small business size standard.

¹⁶³ See FCC News Release, “Broadcast Station Totals as of December 31, 2011,” dated January 6, 2012; http://transition.fcc.gov/Daily_Releases/Daily_Business/2012/db0106/DOC-311837A1.pdf.

¹⁶⁴ See generally 5 U.S.C. 601(4), (6).

¹⁶⁵ See FCC News Release, “Broadcast Station Totals as of December 31, 2011,” dated January 6, 2012; http://transition.fcc.gov/Daily_Releases/Daily_Business/2012/db0106/DOC-311837A1.pdf.

19. Radio Broadcasting. This Economic Census category “comprises establishments primarily engaged in broadcasting programs by radio to the public. Programming may originate in their own studio, from an affiliated network, or from external sources.” ¹⁶⁶ The SBA has established a small business size standard for this category, which is: Such firms having $38.5 million or less in annual receipts.¹⁶⁷ U.S. Census data for 2012 show that 2,849 radio station firms operated during that year.¹⁶⁸ Of that number, 2,806 operated with annual receipts of less than $25 million per year.¹⁶⁹ According to Commission staff review of BIA Advisory Services, LLC's Media Access Pro Radio Database on March 28, 2012, about 10,759 (97 percent) of 11,102 commercial radio stations had revenues of $38.5 million or less. Therefore, the majority of such entities are small entities.

¹⁶⁶ http://www.census.gov.cgi-bin/sssd/naics/naicsrch.

¹⁶⁷ 13 CFR 121.201, NAICS code 515112.

¹⁶⁸ http://factfinder.census.gov/faces/tableservices/jsf/pages/productview.xhtml?pid=ECN_2012_US_51SSSZ5&prodType=table.

¹⁶⁹ http://factfinder.census.gov/faces/tableservices/jsf/pages/productview.xhtml?pid=ECN_2012_US_51SSSZ5&prodType=table.

20. In assessing whether a business concern qualifies as small under the above size standard, business affiliations must be included.¹⁷⁰ In addition, to be determined to be a “small business,” the entity may not be dominant in its field of operation.¹⁷¹ It is difficult at times to assess these criteria in the context of media entities, and our estimate of small businesses may therefore be over-inclusive.

¹⁷⁰ “Concerns and entities are affiliates of each other when one controls or has the power to control the other, or a third party or parties controls or has the power to control both. It does not matter whether control is exercised, so long as the power to control exists.” 13 CFR 121.103(a)(1).

¹⁷¹ 13 CFR 121.102(b) (an SBA regulation).

21. Cable Television and other Subscription Programming. This industry comprises establishments primarily engaged in operating studios and facilities for the broadcasting of programs on a subscription or fee basis. The broadcast programming is typically narrowcast in nature, e.g., limited format, such as news, sports, education, or youth-oriented. These establishments produce programming in their own facilities or acquire programming from external sources. The programming material is usually delivered to a third party, such as cable systems or direct-to-home satellite systems, for transmission to viewers.¹⁷² The SBA has established a size standard for this industry of $38.5 million or less. Census data for 2012 shows that there were 367 firms that operated that year.¹⁷³ Of this total, 319 operated with annual receipts of less than $25 million.¹⁷⁴ Thus under this size standard, the majority of firms offering cable and other program distribution services can be considered small and may be affected by rules proposed in this Notice.

¹⁷² https://www.census.gov.cgi-bin/sssd/naics/naicsrch.

¹⁷³ http://factfinder.census.gov/faces/tableservices/jsf/pages/productview.xhtml?pid=ECN_2012_US_51SSSZ5&prodType=table.

¹⁷⁴ http://factfinder.census.gov/faces/tableservices/jsf/pages/productview.xhtml?pid=ECN_2012_US-51SSSZ5&prodType=Table.

22. Cable Companies and Systems. The Commission has developed its own small business size standards for the purpose of cable rate regulation. Under the Commission's rules, a “small cable company” is one serving 400,000 or fewer subscribers nationwide.¹⁷⁵ Industry data indicate that there are currently 4,600 active cable systems in the United States.¹⁷⁶ Of this total, all but ten cable operators nationwide are small under the 400,000-subscriber size standard.¹⁷⁷ In addition, under the Commission's rate regulation rules, a “small system” is a cable system serving 15,000 or fewer subscribers.¹⁷⁸ Current Commission records show 4,600 cable systems nationwide.¹⁷⁹ Of this total, 3,900 cable systems have less than 15,000 subscribers, and 700 systems have 15,000 or more subscribers, based on the same records.¹⁸⁰ Thus, under this standard as well, the Commission estimates that most cable systems are small entities.

¹⁷⁵ 47 CFR 76.901(e).

¹⁷⁶ August 15, 2015 Report from the Media Bureau based on data contained in the Commission's Cable Operations and Licensing System (COALS). See www/fcc.gov/coals.

¹⁷⁷ See SNL KAGAN at www.snl.com/interactiveX/top cableMSOs aspx?period2015Q1&sortcol=subscribersbasic&sortorder=desc.

¹⁷⁸ 47 CFR 76.901(c).

¹⁷⁹ See footnote 2, supra.

¹⁸⁰ August 5, 2015 report from the Media Bureau based on its research in COALS. See www.fcc.gov/coals.

23. Cable System Operators (Telecom Act Standard). The Communications Act also contains a size standard for small cable system operators, which is “a cable operator that, directly or through an affiliate, serves in the aggregate fewer than 1 percent of all subscribers in the United States and is not affiliated with any entity or entities whose gross annual revenues in the aggregate exceed $250,000,000.” ¹⁸¹ There are approximately 52,403,705 cable video subscribers in the United States today.¹⁸² Accordingly, an operator serving fewer than 524,037 subscribers shall be deemed a small operator if its annual revenues, when combined with the total annual revenues of all its affiliates, do not exceed $250 million in the aggregate.¹⁸³ Based on available data, we find that all but nine incumbent cable operators are small entities under this size standard.¹⁸⁴ The Commission neither requests nor collects information on whether cable system operators are affiliated with entities whose gross annual revenues exceed $250 million.¹⁸⁵ Although it seems certain that some of these cable system operators are affiliated with entities whose gross annual revenues exceed $250,000,000, we are unable at this time to estimate with greater precision the number of cable system operators that would qualify as small cable operators under the definition in the Communications Act.

¹⁸¹ 47 CFR 76.901 (f) and notes ff. 1, 2, and 3.

¹⁸² See SNL KAGAN at www.snl.com/interactivex/MultichannelIndustryBenchmarks.aspx.

¹⁸³ 47 CFR 76.901(f) and notes ff. 1, 2, and 3.

¹⁸⁴ See SNL KAGAN at www.snl.com/Interactivex/TopCable MSOs.aspx.

¹⁸⁵ The Commission does receive such information on a case-by-case basis if a cable operator appeals a local franchise authority's finding that the operator does not qualify as a small cable operator pursuant to 47 CFR 76.901(f) of the Commission's rules. See 47 CFR 76.901(f).

24. Direct Broadcast Satellite (DBS) Service. DBS Service is a nationally distributed subscription service that delivers video and audio programming via satellite to a small parabolic dish antenna at the subscriber's location. DBS is now included in SBA's economic census category “Wired Telecommunications Carriers.” The Wired Telecommunications Carriers industry comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VOIP services, wired (cable) audio and video programming distribution; and wired broadband internet services. By exception, establishments providing satellite television distribution services using facilities and infrastructure that they operate are included in this industry.¹⁸⁶ The SBA determines that a wireline business is small if it has fewer than 1,500 employees.¹⁸⁷ Census data for 2012 indicate that 3,117 wireline companies were operational during that year. Of that number, 3,083 operated with fewer than 1,000 employees.¹⁸⁸ Based on that data, we conclude that the majority of wireline firms are small under the applicable standard. However, currently only two entities provide DBS service, which requires a great deal of capital for operation: AT&T and DISH Network.¹⁸⁹ AT&T and DISH Network each report annual revenues that are in excess of the threshold for a small business. Accordingly, we must conclude that DBS service is provided only by large firms.

¹⁸⁶ http://www.census.gov/cgi-bin/sssd/naics/naicsrch.

¹⁸⁷ NAICs code 517110; 13 CFR 121.201.

¹⁸⁸ http://factfinder.census.gov/faces/tableservices.jasf/pages/productview.xhtml?pid+ECN_2012_US.51SSSZ4&prodType=table.

¹⁸⁹ See 15th Annual Video Competition Report, 28 FCC Rcd at 1057, Section 27.

25. All Other Telecommunications. “All Other Telecommunications” is defined as follows: This U.S. industry is comprised of establishments that are primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or Voice over internet Protocol (VoIP) services via client-supplied telecommunications connections are also included in this industry.¹⁹⁰ The SBA has developed a small business size standard for “All Other Telecommunications,” which consists of all such firms with gross annual receipts of $32.5 million or less.¹⁹¹ For this category, census data for 2012 show that there were 1,442 firms that operated for the entire year. Of these firms, a total of 1,400 had gross annual receipts of less than $25 million.¹⁹² Thus, a majority of “All Other Telecommunications” firms potentially affected by the proposals in the Notice can be considered small.

¹⁹⁰ http://www.census.gov/cgi-bin/ssssd/naics/naicsrch.

¹⁹¹ 13 CFR 121.201; NAICs code 517919.

¹⁹² http://factfinder.census.gov/faces/tableservices.jasf/pages/productview.xhtml?pid+ECN_2012_US.51SSSZ4&prodType=table.

26. RespOrgs. Responsible Organizations, or RespOrgs, are entities chosen by toll free subscribers to manage and administer the appropriate records in the toll free Service Management System for the toll free subscriber.¹⁹³ Although RespOrgs are often wireline carriers, they can also include non-carrier entities. Therefore, in the definition herein of RespOrgs, two categories are presented, i.e., Carrier RespOrgs and Non-Carrier RespOrgs.

¹⁹³ See 47 CFR 52.101(b).

27. Carrier RespOrgs. Neither the Commission, the U.S. Census, nor the SBA have developed a definition for Carrier RespOrgs. Accordingly, the Commission believes that the closest NAICS code-based definitional categories for Carrier RespOrgs are Wired Telecommunications Carriers,¹⁹⁴ and Wireless Telecommunications Carriers (except satellite).¹⁹⁵

¹⁹⁴ 13 CFR 121.201, NAICS code 517110.

¹⁹⁵ Id.

28. The U.S. Census Bureau defines Wired Telecommunications Carriers as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.¹⁹⁶ The SBA has developed a small business size standard for Wired Telecommunications Carriers, which consists of all such companies having 1,500 or fewer employees.¹⁹⁷ Census data for 2012 show that there were 3,117 Wired Telecommunications Carrier firms that operated for that entire year. Of that number, 3,083 operated with less than 1,000 employees.¹⁹⁸ Based on that data, we conclude that the majority of Carrier RespOrgs that operated with wireline-based technology are small.

¹⁹⁶ http://www.census.gov/cgi-bin/sssd/naics.naicsrch.

¹⁹⁷ 13 CFR 120,201, NAICS code 517110.

¹⁹⁸ http://factfinder.census.gov/faces/tableservices/jsf/pages/productview.xhtml?pid=ECN_2012_US_51SSSZ4&prodType=table.

29. The U.S. Census Bureau defines Wireless Telecommunications Carriers (except satellite) as establishments engaged in operating and maintaining switching and transmission facilities to provide communications via the airwaves, such as cellular services, paging services, wireless internet access, and wireless video services.¹⁹⁹ The appropriate size standard under SBA rules is that such a business is small if it has 1,500 or fewer employees.²⁰⁰ Census data for 2012 show that 967 Wireless Telecommunications Carriers operated in that year. Of that number, 955 operated with less than 1,000 employees.²⁰¹ Based on that data, we conclude that the majority of Carrier RespOrgs that operated with wireless-based technology are small.

¹⁹⁹ http://www.census.gov/cgi-bin/sssd/naics.naicsrch.

²⁰⁰ 13 CFR 120.201, NAICS code 517120.

²⁰¹ http://factfinder.census.gov/faces/tableservices/jsf/pages/productview.xhtml?pid=ECN_2012_US_51SSSZ4&prodType=table.

30. Non-Carrier RespOrgs. Neither the Commission, the U.S. Census, nor the SBA have developed a definition of Non-Carrier RespOrgs. Accordingly, the Commission believes that the closest NAICS code-based definitional categories for Non-Carrier RespOrgs are “Other Services Related to Advertising” ²⁰² and “Other Management Consulting Services.” ²⁰³

²⁰² 13 CFR 120.201, NAICS code 541890.

²⁰³ 13 CFR 120.201, NAICS code 541618.

31. The U.S. Census defines Other Services Related to Advertising as comprising establishments primarily engaged in providing advertising services (except advertising agency services, public relations agency services, media buying agency services, media representative services, display advertising services, direct mail advertising services, advertising material distribution services, and marketing consulting services).²⁰⁴ The SBA has established a size standard for this industry as annual receipts of $15 million dollars or less.²⁰⁵ Census data for 2012 show that 5,804 firms operated in this industry for the entire year. Of that number, 5,249 operated with annual receipts of less than $10 million.²⁰⁶ Based on that data we conclude that the majority of Non-Carrier RespOrgs who provide toll-free number (TFN)-related advertising services are small.

²⁰⁴ http://www.census.gov/cgi-bin/sssd/naics.naicsrch.

²⁰⁵ 13 CFR 120.201, NAICS code 541890.

²⁰⁶ http://factfinder.census.gov/faces/tableservices/jsf/pages/productview.xhtml?pid=ECN_2012_US_51SSSZ4&prodType=table.

32. The U.S. Census defines Other Management Consulting Services as establishments primarily engaged in providing management consulting services (except administrative and general management consulting; human resources consulting; marketing consulting; or process, physical distribution, and logistics consulting). Establishments providing telecommunications or utilities management consulting services are included in this industry.²⁰⁷ The SBA has established a size standard for this industry of $15 million dollars or less.²⁰⁸ Census data for 2012 show that 3,683 firms operated in this industry for that entire year. Of that number, 3,632 operated with less than $10 million in annual receipts.²⁰⁹ Based on this data, we conclude that a majority of non-carrier RespOrgs who provide TFN-related management consulting services are small.²¹⁰

²⁰⁷ http://www.census.gov/cgi-bin/sssd/naics.naicsrch.

²⁰⁸ 13 CFR 120.201, NAICS code 514618.

²⁰⁹ http://factfinder.census.gov/faces/tableservices/jsf/pages/productview.xhtml?pid=ECN_2012_US_51SSSZ4&prodType=table.

²¹⁰ The four NAICS code-based categories selected above to provide definitions for Carrier and Non-Carrier RespOrgs were selected because as a group they refer generically and comprehensively to all RespOrgs.

33. In addition to the data contained in the four (see above) U.S. Census NAICS code categories that provide definitions of what services and functions the Carrier and Non-Carrier RespOrgs provide, Somos, the trade association that monitors RespOrg activities, compiled data showing that as of July 1, 2016 there were 23 RespOrgs operational in Canada and 436 RespOrgs operational in the United States, for a total of 459 RespOrgs currently registered with Somos.

D. Description of Projected Reporting, Recordkeeping and Other Compliance Requirements

34. This NPRM does not propose any changes to the Commission's current information collection, reporting, recordkeeping, or compliance requirements.

E. Steps Taken To Minimize Significant Economic Impact on Small Entities, and Significant Alternatives Considered

35. The RFA requires an agency to describe any significant alternatives that it has considered in reaching its approach, which may include the following four alternatives, among others: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²¹¹

²¹¹ 5 U.S.C. 603(c)(1) through (c)(4).

36. This NPRM seeks comment on the Commission's regulatory fee collection for Fiscal Year 2018, as required by Congress each year. Specifically, the Commission asks for comment each year in the Regulatory Flexibility Analysis on how to minimize adverse economic impact, imposed by our proposed rules, on small entities. The NPRM seeks comment on the Commission's proposed regulatory fees for fiscal year (FY) 2018. The NPRM proposes to collect $322,035,000 in regulatory fees for FY 2018,²¹² as detailed in the proposed fee schedules in Table 2, including an increase in the DBS fee rate to 48 cents per subscriber so that the DBS fee would approach the cable television/IPTV fee, based on the Media Bureau FTEs devoted to issues that include DBS. DBS providers are not small entities. The NPRM also seeks comment on, for FY 2019, adopting rates for television broadcasters that are more closely tied to the population served in the broadcast area. To the extent such broadcasters may be small entities, the rates for smaller broadcast areas would be lower than the rates for larger areas, which may provide relief. In addition, the de minimis threshold of $1,000 would likely exempt smaller television broadcast entities from paying annual regulatory fees. The Commission also seeks comment on whether, for FY 2019, it should adopt a new regulatory fee category for small satellites. The proposed regulatory fee for small satellites would be significantly lower than the current regulatory fee applicable to NGSO systems. The regulatory fees proposed in this NPRM do not include any new fee categories, except for the addition of non-common carrier terrestrial international bearer circuits that previously did not pay regulatory fees, adopted last year. The NPRM seeks comment on rates for international bearer circuits that include non-common carrier circuits. To the extent such providers are small entities, the rates for smaller numbers of circuits would be lower than the rates for larger quantity of circuits and, in addition, the de minimis of $1,000 would likely exempt the smaller entities from paying annual regulatory fees.

²¹² Congress has not appropriated funds for FY 2018, thus this number is subject to change.

F. Federal Rules That May Duplicate, Overlap, or Conflict With the Proposed Rules

37. None.

VIII. Ordering Clause

38. Accordingly, it is ordered that, pursuant to Section 9(a), (b), (e), (f), and (g) of the Communications Act of 1934, as amended, 47 U.S.C. 159(a), (b), (e), (f), and (g), this Report and Order and Notice of Proposed Rulemaking is hereby adopted.

Federal Communications Commission.
Marlene Dortch,
Secretary.

[FR Doc. 2018-12748 Filed 6-13-18; 8:45 am]

BILLING CODE 6712-01-P